FEDERAL COMMUNICATIONS COMMISSION

47 CFR Part 1

[MD Docket No. 25-190; MD Docket No. 24-85; FCC 25-30; FRS ID 299099]

Review of the Commission's Assessment and Collection of Regulatory Fees for Fiscal Year 2025

AGENCY: Federal Communications Commission.

ACTION: Proposed rule.

SUMMARY: In this document, the Federal Communications Commission (Commission) seeks comment on revising the fee schedule of FY 2025 regulatory fees and on several additional regulatory fee issues, as described in the text below.

DATES: Comments must be submitted on or before July 7, 2025. Reply comments must be submitted on or before July 21, 2025.

ADDRESSES: Pursuant to sections 1.415 and 1.419 of the Commission's rules, 47 CFR 1.415, 1.419, interested parties may file comments and reply comments identified by MD Docket No. 23-159, by any of the following methods below. Comments and reply comments may be filed using the Commission's Electronic Comment Filing System (ECFS). See Electronic Filing of Documents in Rulemaking Proceedings, 63 FR 24121 (1998).

1. Comment Filing Procedures. Pursuant to sections 1.415 and 1.419 of the Commission's rules, 47 CFR 1.415, 1.419, interested parties may file comments and reply comments on or before the dates indicated on the first page of this document. Comments may be filed using the Commission's Electronic Comment Filing System (ECFS).

• Electronic Filers: Comments may be filed electronically using the internet by accessing the ECFS: https://www.fcc.gov/ecfs/.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701.

• Filings sent by U.S. Postal Service First-Class Mail, Priority Mail, and Priority Mail Express must be sent to 45 L Street NE, Washington, DC 20554.

2. People with Disabilities: To request materials in accessible formats for people with disabilities (braille, large print, electronic files, audio format), send an email to fcc504@fcc.gov or call the Consumer & Governmental Affairs Bureau at 202-418-0530 (voice), 202-418-0432 (TTY).

3. Materials in Accessible Formats. To request materials in accessible formats for people with disabilities (Braille, large print, electronic files, audio format), send an email to fcc504@fcc.gov or call the Consumer and Governmental Affairs Bureau at 202-418-0530 (voice).

4. Availability of Documents. Comments, reply comments, and ex parte submissions will be available via ECFS. Documents will be available electronically in ASCII, Microsoft Word, and/or Adobe Acrobat. When the FCC Headquarters reopens to the public, these documents will also be available for public inspection during regular business hours in the FCC Reference Center, Federal Communications Commission, 45 L Street NE, Washington, DC 20554.

For detailed instructions for submitting comments and additional information on the rulemaking process, see the SUPPLEMENTARY INFORMATION section of this document.

FOR FURTHER INFORMATION CONTACT: Patrick Brogan, Office of Economics and Analytics (202) 418-7378.

SUPPLEMENTARY INFORMATION: This is a summary of the Commission's Notice of Proposed Rulemaking (NPRM), FCC 25-30, MD Docket No. 24-85, MD Docket No. 25-190, adopted on June 4, 2025 and released on June 5, 2025. Comments, reply comments, and ex parte submissions will be available via ECFS. Documents will be available electronically in ASCII, Microsoft Word, and/or Adobe Acrobat. When the FCC Headquarters reopens to the public, these documents will also be available for public inspection during regular business hours in the FCC Reference Center, Federal Communications Commission, 45 L Street NE, Washington, DC 20554. To request materials in accessible formats for people with disabilities (Braille, large print, electronic files, audio format), send an email to fcc504@fcc.gov or call the Consumer and Governmental Affairs Bureau at 202-418-0530 (voice).

I. Administrative Matters

5. Ex Parte Information. The proceeding initiated by this Notice of Proposed Rulemaking, in which we seek comment on proposals as described below, shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with section 1.1206(b) of the Commission's rules. In proceedings governed by section 1.49(f) of the Commission's rules or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

6. Regulatory Flexibility Act. The Regulatory Flexibility Act of 1980, as amended (RFA), requires that an agency prepare a regulatory flexibility analysis for notice and comment rulemakings, unless the agency certifies that “the rule will not, if promulgated, have a significant economic impact on a substantial number of small entities.” Accordingly, we have prepared an Initial Regulatory Flexibility Analysis (IRFA) concerning the potential impact of rule and policy changes contained in this NPRM. The IRFA is set forth in Section VI. The Commission invites the general public, in particular small businesses, to comment on the IRFA. Comments must be filed by the deadlines for comments on the NPRM indicated on the first page of this document and must have a separate and distinct heading designating them as responses to the IRFA.

7. Paperwork Reduction Act. This document does not contain any proposed new or substantively modified information collections subject to the Paperwork Reduction Act of 1995 (PRA), Public Law 104-13. In addition, therefore, it does not contain any new or modified information collection burden for small business concerns with fewer than 25 employees, pursuant to the Small Business Paperwork Relief Act of 2002, Public Law 107-198, see 44 U.S.C. § 3506(c)(4).

II. Introduction

8. Each fiscal year, the Commission is required to collect regulatory fees in an amount equal to its annual salaries and expenses (S&E) appropriation by the end of September. Pursuant to section 9 of the Communications Act of 1934, as amended (Communications Act or Act), and the Full Year Continuing Appropriations Act, 2025, the Commission must collect $390,192,000, which is an amount equal to its fiscal year (FY) 2025 salaries and expenses (S&E) appropriation. The Act requires the Commission to assess and collect regulatory fees to recover the costs of carrying out its activities in the total amounts provided for in Appropriations Acts.

9. In this Notice of Proposed Rulemaking (NPRM), we propose and seek comment on the regulatory fees and methodology to assess and collect $390,192,000 in congressionally required regulatory fees for FY 2025, as set forth in Tables 3, 4, and 7. Consistent with the Commission's long-standing regulatory fee methodology, staff has again undertaken a high-level, yet comprehensive, analysis of the work being performed by Commission employees to determine if identifiable full time equivalent (FTE) time is related to the oversight and regulation of fee payors such that it should be taken into consideration in applying our fee methodology. Based upon this analysis, we propose to increase the number of direct FTEs that are allocated to the licensing bureaus. In particular, we propose reallocating 61 indirect FTEs as direct FTEs to the Commission's core licensing bureaus. As described fully below, such reallocations—which are substantially similar to the Commission's determinations in fiscal years 2023 and 2024—reflect our conclusion that we can determine that certain FTE work in the Office of General Counsel, the Office of Economics and Analytics, and the Public Safety and Homeland Security Bureau is sufficiently linked to the oversight and regulation of regulatory fee payors in a core bureau such that the FTE burden of that work should be allocated as direct to a core bureau for regulatory fee purposes for FY 2025.

10. Moreover, as explained more fully below, because we released a Further Notice of Proposed Rulemaking in February seeking comment on whether the Commission should adjust the methodologies it uses to assess fee rates for space and earth station payors, in this NPRM we seek comment on proposed regulatory fees for space and earth station fee payors under both existing and proposed methodologies. We also propose to continue the Commission's past practice of calculating television broadcaster regulatory fees using our methodology of population-based full-service broadcast television regulatory fees as set forth in Table 8.

III. Background

11. Section 9 of the Communications Act obligates the Commission to assess and collect regulatory fees each year, totaling an amount that can reasonably be expected to equal the amount of its annual S&E appropriation. Fiscal year 2025 started on October 1, 2024, and ends on September 30, 2025. The Commission's regulatory fee collection is guided by both the statutory authority in sections 6 and 9 of the Communications Act and the explicit language of each fiscal year's S&E appropriation directing the amount to be collected as an offsetting collection. Thus, the Commission has no discretion regarding the amount of fees to be collected in any given fiscal year. Regulatory fees recover all of the Commission's direct, indirect, and support costs, including costs to cover statutorily required tasks that do not directly equate with oversight and regulation of a particular regulatee, but instead benefit the Commission and the industry as a whole. Direct costs are those such as salaries and expenses; indirect costs are those such as overhead functions; and support costs include those such as rent, utilities, and equipment. Since regulatory fees must recover the total amount of the Commission's appropriation, they also must cover the costs incurred in oversight and regulation of: (1) entities that are statutorily exempt from paying regulatory fees; (2) entities whose total assessed annual regulatory fees fall below the annual de minimis threshold; and (3) entities whose regulatory fees are waived. Entities that are exempt from paying regulatory fees include governmental and nonprofit entities, amateur radio operators, and noncommercial radio and television stations.

12. Congress has prescribed a method for the Commission to collect an amount equal to the full S&E appropriation in section 9 of the Communications Act, keying the regulatory fee assessment to the Commission's FTE burden. One FTE, a “Full Time Equivalent” or “Full Time Employee,” is a unit of measure equal to the work performed annually by a full-time person (working a 40-hour workweek for a full year) assigned to the particular job, and subject to agency personnel staffing limitations established by the U.S. Office of Management and Budget. In this proceeding, if we state 1.5 FTEs work on a particular subject matter, that might mean three individuals spend 50% of their time on that area. Moreover, in this NPRM, when we discuss FTEs and any change in allocation, it is solely for regulatory fee purposes and does not reflect proposals for the change of personnel in the various organizational work units.

13. Specifically, the Commission's methodology for assessing regulatory fees must “reflect the full-time equivalent number of employees within the Commission's bureaus and offices, adjusted to take into account factors that are reasonably related to the benefits provided to the payor of the fee by the Commission's activities.” As a result, the fee assigned to each regulatory fee category relates to the FTE burden associated with oversight and regulation of each regulatory fee category by the relevant core bureaus (i.e., the Wireless Telecommunications Bureau, the Media Bureau, most of the Wireline Competition Bureau, part of the Office of International Affairs, and most of the Space Bureau). The Commission has previously concluded that allocating the work of FTEs in the Wireline Competition Bureau devoted to non-high-cost Universal Service Fund programs as indirect is consistent with how FTEs working for programs that benefit consumers, and the American public are treated elsewhere in the Commission. Similarly, the Commission has previously explained that most of the work of OIA, including the work of the Global Strategies and Negotiation Division, does not benefit a specific fee payor, but rather the government as whole, and is therefore appropriately categorized as indirect. The Commission does, however, continue to categorize as direct the FTE work of OIA concerning international bearer circuit issues, including the services provided over submarine cables, determining that such FTE work is direct.

14. Given that the total amount of the offsetting collection generally changes each fiscal year, the regulatory fees due from payors also typically change as a mathematical consequence of the total amount that needs to be collected, the number of FTEs, and the projected unit estimates for each regulatory fee category. As the Commission has explained previously, because the Communication Act's explicit language requires that fees must reflect FTEs, FTE counts are the most administrable starting point for regulatory fee allocations, and regulatory fees are based on the direct FTEs in core bureaus. Thus, when considering changes, additions, or deletions to the regulatory fee schedule, we focus on the direct FTE cost burden related to the regulatory fee category at issue within each of the core licensing bureaus.

15. Moreover, we do not assign direct FTEs within a bureau to specific fee categories “by rote or at random, but rather in a manner that reflects the time spent by FTEs on a regulatory fee category, which is in itself a reflection of “benefit” to the fee category.” Thus, we apportion regulatory fees across fee categories based on the number of direct FTEs in each core bureau to take into account factors that are reasonably related to the payors' benefits. As a practical matter, regulatory fees are a zero-sum game because the Commission must collect the full amount of its appropriation each fiscal year. That is, any decrease to the fees paid by one category of regulatory fee payors necessitates an increase in fees paid by other categories of regulatory fee payors.

16. Full Time Equivalent (FTE) Allocation and Fee Calculation. The Commission allocates FTEs according to the nature of the work performed by its different organizational units. If the work performed by a group or office is directly related to the oversight and regulation of a regulatory fee category or categories in one of the five core licensing bureaus then those FTEs are considered to be direct FTEs. The Commission has long relied on direct FTE allocations because it has found those allocations best reflect the `benefits provided to the payor of the fee by the Commission's activities. Work that cannot be allocated to one of those regulatory fee categories is counted as an indirect FTE. Under this framework, the Commission assesses the allocation of FTEs by first determining the number of direct non-auctions FTEs in each of the Commission's core bureaus. Other factors the Commission takes into consideration include the annual appropriation and the projected unit estimates. Regulatory fees are initially apportioned across the regulatory fee categories based on the number of direct FTEs in each core bureau whose time is focused on a particular industry segment and then are adjusted “to take into account factors that are reasonably related to the benefits provided to the payor of the fee by the Commission's activities.”

17. The FTE time devoted to developing and implementing the Commission's spectrum auctions is not included in the calculation of regulatory fees and is not offset by the collection of regulatory fees. Thus, the Commission's methodology excludes all spectrum auction-related FTEs and their overhead from the regulatory fee calculations. To the extent that FTEs within the core bureaus spend a portion of their time on auctions issues and a portion of their time on appropriated issues, their time is split and only the non-auctions portion of their time is reflected in the relevant core bureau's direct FTE count.

18. Early in each fiscal year, the Human Resources Management office identifies FTEs at the core bureau level and then staff validate that data through consultation with the bureaus and offices to determine the direct FTEs allocated to each of the five core bureaus. After determining the number of direct FTEs for each core bureau, those numbers are then used to calculate the corresponding percentage of the total amount of regulatory fees to be collected for a given fiscal year. Specifically, staff allocates appropriated amounts to be recovered proportionally based on the number of direct FTEs within each core bureau. The percentage for each core bureau is the number of direct non-auction FTEs within the core bureau divided by the total number of direct non-auction FTEs in the Commission. As a general matter, there is no additional calculation to attribute indirect costs. Instead, the proportional allocation of the whole S&E appropriation based on the number of direct FTEs effectively attributes all indirect costs among the core bureaus so that the Commission can recover its entire appropriation each year. Those proportions are then subdivided and apportioned within each core bureau into fee categories among the regulatees being served based on the time spent on each fee category. Finally, within each regulatory fee category the amount to be collected is divided by a unit count that allocates the regulatory fee payor's proportionate share based on an objective measure.

19. Historically, the Commission has categorized the FTEs in the Enforcement, Consumer and Governmental Affairs, and Public Safety and Homeland Security Bureaus along with some of the work in the Wireline Competition and the former International Bureau as well as the work of those in the Office of the Chair and the Commissioners' Offices and in the Offices of the Managing Director, General Counsel, Inspector General, Communications Business Opportunities, Engineering and Technology, Legislative Affairs, Workplace Diversity, Media Relations, Economics and Analytics, and Administrative Law Judges as indirect for regulatory fee purposes. Indirect FTE time covers a wide range of issues that include services that are not specifically correlated with one core bureau, let alone one specific category of regulatory fee payors. Indirect FTE work also includes matters that are not specific to any regulatory fee category, and many Commission attorneys, economists, engineers, analysts, and other staff work on a variety of issues during a single fiscal year, which benefits the Commission, the telecommunications industry, and the public.

20. Adjustments and Amendments to Regulatory Fee Schedule. By statute, the Commission must annually establish a fee proceeding to consider adjustments to the prior fee schedule to reflect unexpected increases or decreases in the number of units subject to the payment of such fees and result in the collection of the amount required by the Commission's annual appropriation. For example, if the number of units in a regulatory fee category increase, the amount due per unit may decrease. This would also include proportionate increases in a given fee category to reflect an overall increase in the annual FY appropriation. Such changes are rarely the subject of dispute and are usually addressed in the more ministerial changes to the fee schedule. The Commission will also propose amendments to the fee schedule “if it determines that changes are necessary for the fees to reflect the full-time equivalent number of employees within the bureaus and offices of the Commission, adjusted to take into account factors that are reasonably related to the benefits provided to the payor of the fee by the Commission's activities.” Pursuant to the Act, the Commission must notify Congress immediately upon adoption of any adjustment. The Act also requires the Commission to notify Congress at least 90 days prior to making effective any amendments to the regulatory fee schedule.

21. In implementing our statutory authority, we consider the adoption of a new regulatory fee category or a change in an existing regulatory fee category only when we develop a sufficient basis for making the change, ensuring that our assessment of regulatory fees is fair, administrable, and sustainable. The Commission has adopted new regulatory fee categories and new methodologies for calculating regulatory fees when there is a sufficient basis for doing so based on the record, and under the relevant statutory provisions and precedent. If we adopt any of the proposals in the FY 2025 Space and Earth Station Regulatory Fees FNPRM to adjust the methodologies used to assess space and earth station regulatory fees, such changes will constitute amendments to the schedule of regulatory fees and must be submitted to Congress at least 90 days before becoming effective.

IV. Notice of Proposed Rulemaking

22. In this NPRM, we propose and seek comment on regulatory fees for FY 2025 as set forth in Tables 3, 4, and 7. We also seek comment on our proposal to continue to calculate television broadcaster regulatory fees using the Commission's methodology of population-based full-service broadcast television regulatory fees. We note that we do not consider any of the specific proposals we make in this NPRM to constitute amendments to the schedule of regulatory fees or our methodologies that would need to be submitted to Congress at least 90 days before becoming effective.

A. Assessment of Regulatory Fees

1. Methodology for Assessing Regulatory Fees

23. For FY 2025, we propose to collect $390,192,000 in regulatory fees, which is equal to our annual salaries and expenses (S&E) FY 2025 appropriation. As explained above, section 9 of the Communications Act requires us to set regulatory fees to “reflect the full-time equivalent number of employees within the bureaus and offices of the Commission adjusted to take into account factors that are reasonably related to the benefits provided to the payor of the fee by the Commission's activities.” Our first step in establishing our regulatory fee schedule is identifying changes from the prior fiscal year regulatory fee proceeding, e.g., changes in the (i) FY appropriation, (ii) FTE levels, and (iii) relevant unit amounts for each regulatory fee category. Our second step is to identify the number of direct non-auction FTEs in each core bureau for purposes of the regulatory fee calculation. The remaining non-auction FTEs and other Commission costs are considered indirect and are not part of the regulatory fee calculation. After we determine the number of direct FTEs for each core bureau, we calculate the percentage of regulatory fees that we will need to collect for the given fiscal year from each regulatory fee category within each core bureau. These proportional calculations allocate all Commission non-auction related costs across all regulatory fee categories.

a. FTE Reallocations

24. Using the Commission's long-standing methodology to assess regulatory fees, staff conducted a high level analysis of the time utilized in the oversight and regulation of certain segments of the telecommunications industry to propose regulatory fees for FY 2025, which reflect the full-time equivalent number of employees within the Commission's bureaus and offices, adjusted to take into account factors that are reasonably related to the benefits provided to the payor of the fee by the Commission's activities. Our proposals to reallocate certain indirect FTEs as direct to one of the Commission's core bureaus, explained fully below, reflect our conclusion that we can determine, with reasonable accuracy for this fiscal year, that certain FTE time from the Office of General Counsel, the Office of Economics and Analytics, and the Public Safety and Homeland Security Bureau is devoted to work that is sufficiently linked to the oversight and regulation of regulatory fee payors such that the FTE burden of that work should be allocated as direct to a core bureau for regulatory fee purposes.

25. Any proposals or comments requesting a change or modification to our proposed methodology for FY 2025 should include a thorough analysis showing a sufficient basis for making the change and provide alternative options for the Commission to meet its statutory obligation to collect the full amount of the appropriation by the end of the fiscal year. Commenters should also indicate how such proposed alternative options are fair, administrable, and sustainable.

b. Space and Earth Station Regulatory Fee Rates

26. In the recently released FY 2025 Space and Earth Station Regulatory Fees FNPRM, we continue to consider and seek further comment on proposals made in connection with the FY 2024 Space and Earth Station Regulatory Fees NPRM, to change the regulatory fee methodology used to assess regulatory fees for space and earth station fee payors. These proposals, which were not acted on in FY 2024, include: (1) whether to assess regulatory fees on authorized, but not operational, space and earth stations; (2) using an alternative methodology for assessing space station regulatory fees; (3) establishing tiers within existing NGSO space station fee categories based on the number of space stations in the system; and (4) creating new categories of earth station regulatory fees.

27. In today's NPRM, we propose and seek comment on regulatory fee rates in Tables 3 and 4 based on our existing methodology, as well as on proposed regulatory fee rates in Tables 7 that are based on the various proposals set forth in the FY 2025 Space and Earth Station Regulatory Fees FNPRM. Our proposed space and earth station regulatory fee rates are estimates because final space and earth station regulatory fee rates are dependent upon the outcome of the FY 2025 Space and Earth Station Regulatory Fees FNPRM proceeding. We also recognize that there could be a combination of the proposals based upon commenters' feedback and the outcome of the FY 2025 Space and Earth Station Regulatory Fees FNPRM. Accordingly, we are not seeking comment again in this proceeding on the specific proposals to adjust our existing methodology for assessing space and earth station regulatory fees, or to adopt an alternative methodology for assessing space station regulatory fees, which are set forth in the FY 2025 Space and Earth Station Regulatory Fees FNPRM. Comments pertaining to the proposals set forth in the Space and Earth Station Regulatory Fees FNPRM regarding the categories and allocation of fees for space and earth stations should not be submitted again in response to this NPRM. In this item, we specifically seek comment on the proposed regulatory fee rates for space and earth station payors for FY 2025 based on our existing methodology and on the proposals set forth in the Space and Earth Station Regulatory Fees FNPRM. As examples, commenters in response to this NPRM could address the specific proposed rates calculated for a category of fee payor or the accuracy of the estimated number of units of fee payors in a specific category.

28. We seek comment on the adjusted schedule of regulatory fees for space and earth station payors, as proposed in Tables 3 and 4. These rates are based on the existing categories of space and earth station fee payors contained in section 1.1156 of the Commission's rules for space and international services. There are four current categories of space station payors: (1) Space Stations (Geostationary Orbit, GSO); (2) Space Stations (Non-Geostationary Orbit, NGSO)—Less Complex; (3) Space Stations (Non-Geostationary Orbit)—Other; and (4) Space Station (Small Satellites). “Less Complex” NGSO systems are defined as NGSO satellite systems planning to communicate with 20 or fewer U.S. authorized earth stations that are primarily used for Earth Exploration Satellite Service (EESS) and/or Automatic Identification System (AIS). “Small Satellites” are space stations licensed pursuant to the streamlined small satellite process contained in section 25.122 of the Commission's rules. The Space Stations (Small Satellites) category also includes “small spacecraft” licensed pursuant to the analogous streamlined procedures of section 25.123 of the rules. In addition, there is a single category of earth station payors—Earth Stations: Transmit/Receive & Transmit only. Since our fiscal year 2020 proceeding, non-U.S. licensed space stations granted market access to the United States through a Petition for Declaratory Ruling or through earth station licenses are subject to regulatory fees. Beginning in FY 2024, space stations that are principally used for Rendezvous and Proximity Operations (RPO), On-Orbit Servicing (OOS), including Orbital Transfer Vehicles (OTV), are included in the existing fee category for “small satellites” on an interim basis.

29. Under the existing methodology of calculating regulatory fees for space and earth station payors, the Commission multiplies the space station and earth station FTE allocation percentages by the target goal of collections (overall total amount to collect), respectively, to determine the amount to be collected from each regulatory fee category. In the FY 2024 Second Report and Order, the Commission adjusted the split of space station allocation percentages between the GSO and NGSO regulatory fee categories to 60/40, respectively, because the Commission found it more accurately reflected the current FTE work in these two categories of regulatory fee payors. The amount to be collected by the space station and earth station regulatory fee categories divided by the projected number of units determines the fee rate. There are several space station regulatory fee categories—GSO, NGSO “other,” NGSO “less complex,” and small satellites—and each of these regulatory fee categories has its own respective FTE allocation percentage to determine the fee rate. In the FY 2024 Space Station Regulatory Fees Order, the Commission adopted the proposal to set the regulatory fee for small satellites for FY 2024 at the level set for FY 2023, i.e., $12,215, with future annual adjustments to reflect the percentage change in the Commission's annual appropriation, unit count, and FTE allocation percentage from the previous fiscal year. The Commission implemented these changes to the methodology for regulatory fees in the FY 2024 Second Report and Order. Accordingly, under the existing methodology, we propose to assess the small satellite fee for FY 2025 at $12,330. We calculate the proposed regulatory fees for space and earth station payors for FY 2025 under this methodology in Tables 3 and 4, taking into account our estimate of the Commission's S&E appropriation for FY 2025. We seek comment on these proposed regulatory fees if the Commission employs its existing methodologies for FY 2025.

30. However, if proposals made in the FY 2025 Space and Earth Station Regulatory Fees FNPRM to change the existing methodology are adopted, in part or in whole, and become effective for FY 2025, the resulting possible space and earth station regulatory fees could change substantially. For example, if the proposal is adopted to assess regulatory fees on authorized, not just operational, space stations, it may increase the number of units of space station payors, which in turn could decrease the calculated per-unit regulatory fee for GSO and NGSO space station payors. This change could assess fees on space station regulatees that may not be assessed regulatory fees under the existing methodology. In FY 2024, the Commission adopted its proposal to apportion regulatory fees between earth and space station payors based on the percentage of direct FTEs involved in the licensing and regulation of each category, which led to an the increase of earth station regulatory fees to $2,610 for FY 2024. At the same time, the Commission has recently proposed an alternative methodology for assessing regulatory fees in the FY 2025 Space and Earth Station Regulatory Fees FNPRM that would replace the existing four categories of space station regulatory fees for GSO and NGSO space stations with a single fee category for all space stations and a fee for small satellites. If adopted, this would also substantially change the regulatory fees calculated for FY 2025 under the existing methodology.

31. We recognize that the FY 2025 Space and Earth Station Regulatory Fees FNPRM proceeding is still ongoing and it is unknown whether any of the proposals will be adopted in whole or in part in time to be effective for FY 2025. In addition, the number of units per fee category also depends on whether certain proposals in the Space and Earth Station Regulatory Fees FNRPM are adopted and may impact the regulatory fee rates adopted in this proceeding in a subsequent Report and Order. Accordingly, we explain, as part of our calculations within Table 7, the methodology and the underlying assumptions for arriving at the calculated regulatory fees for the proposals in the FY 2025 Space and Earth Station Regulatory Fees FNPRM in order to provide as much information as reasonably possible at this time to potential commenters. We seek comment on these calculations and the methodology and underlying assumptions that went into them.

2. Adjustment of Reallocations of Certain Indirect FTEs as Direct FTEs

32. According to information provided by our Human Resources Management office, at the start of FY 2025, there were 384.5 direct non-auctions FTEs that are distributed among the core licensing bureaus. With respect to the indirect FTE time in the non-core bureaus and offices, staff has undertaken a high-level, yet comprehensive analysis of the work being performed by non-auctions FTEs in the Office of Economics and Analytics, Office of General Counsel, and Office of Engineering and Technology as well as the Public Safety and Homeland Security Bureau, Enforcement Bureau and the Consumer and Governmental Affairs Bureau (and other bureaus and offices) to determine if identifiable time of any of those FTEs is related to the oversight and regulation of fee payors such that it should be taken into consideration in applying our fee methodology. In other words, staff has examined and validated the data to determine whether any indirect FTE time in the non-core bureaus and offices should be reallocated to be considered as direct FTE time to a core bureau.

33. As discussed herein, based on staff analysis, which is reasonably accurate for FY 2025, we propose to reallocate 63 indirect FTEs from the Office of Economics and Analytics, the Office of General Counsel, and the Public Safety and Homeland Security Bureau as direct FTEs to core bureaus because, as the Commission concluded in FY 2024 and FY 2023, the nature of their work remains primarily related to the oversight and regulation of fee payors. Additionally, consistent with the Commission's determination for the past two fiscal years, we propose to reallocate two direct FTEs from the Media Bureau to be indirect FTEs because the nature of their work is sufficiently linked to work that is similar to that performed in the Enforcement Bureau, which has previously been categorized as indirect. These reallocations result in an overall proposed increase of 61 indirect FTEs being reallocated as direct FTEs to core bureaus. We find that these proposed reallocations are consistent with section 9 of the Communications Act, which requires us to determine regulatory fees based on FTEs.

34. As the Commission explained in the FY 2023 Report and Order, the nature of the work of the FTEs in its non-core bureaus and offices is generally categorized as indirect. For example, the Office of Engineering and Technology provides engineering and technical expertise to the agency as a whole and supports each of the agency's core bureaus. Likewise, the Enforcement Bureau FTE oversight is focused on the integrity of Commission's rules and ensuring the implementation of the Commission's Act, which is work that benefits the agency as a whole and the American public, and not one particular group of regulatory fee payors. Similarly, the work of FTEs in the Consumer and Governmental Affairs Bureau is primarily devoted to developing and implementing consumer policies as required by the Communications Act, including disability rights, consumer education, processing informal complaints, outreach to state, local, and Tribal governments, and oversight more generally of the telecommunications industry (e.g., establishing and oversight of the Reassigned Numbers Database). In sum, the Commission has found it would not be equitable for any one regulatory fee group of payors to shoulder the FTE burden of indirect work. Nothing in the proposals we offer today changes those prior general determinations. In this NPRM, we propose regulatory fee rates in Tables 3 and 4, based on our existing methodology incorporating these proposals. We seek comment on our proposals.

35. As demonstrated in Tables 1 and 2 below, we propose to reallocate a sum total of 61 indirect FTEs, to be distributed as described below. Based on these proposed reallocations and after adjustments are made to the direct FTE counts to implement Commission precedent, we would have a total of 445.5 non-auctions direct FTEs for FY 2025, and we would collect approximately $7.039 million (1.80%) in fees from the Office of International Affairs regulatory fee payors; $44.872 million (11.50%) in fees from the Space Bureau regulatory fee payors; $105.582 million (27.06%) in fees from Wireless Telecommunications Bureau regulatory fee payors; $116.580 million (29.88%%) in fees from Wireline Competition Bureau regulatory fee payors; and $116.119 million (29.76%) in fees from Media Bureau regulatory fee payors.

Table 1—Core Bureau FY 2023 FTE Percentages and Amounts for FY 2024 and FY 2025 With Proposed FTE Reallocation Adjustments
Core bureau | FY 2024 FTE % with FTE reallocations | FY 2024 Amount with FTE reallocations (millions) *: FY 2024 Appropriation was $390.192 | FY 2025 Proposed FTE % with adjusted FTE reallocations | FY 2025 Proposed amount with FTE reallocations (millions) *: FY 2025 Appropriation is $390.192
Wireline Bureau | 32.60 | $127.203 | 29.88 | $116.580
Media Bureau | 29.47 | 114.990 | 29.76 | 116.119
Media Bureau; subcategory Broadcasters | 13.12 | 51.193 | 13.14 | 51.286
Media Bureau; subcategory Cable | 16.35 | 63.796 | 16.62 | 64.833
Wireless Bureau | 25.65 | 100.084 | 27.06 | 105.582
Office of International Affairs | 1.72 | 6.711 | 1.80 | 7.039
Space Bureau | 10.56 | 41.204 | 11.50 | 44.872
* Figures may not add up to column totals due to rounding.

36. Our proposals to reallocate indirect FTEs relies on staff's validation of the data and the same analysis employed in FY 2023 and FY 2024 evaluating whether measurable FTE time for FY 2025 is primarily being spent on the regulation and oversight of regulatory fee payors such that it should be considered as direct to a core bureau. Specifically, where the amount of work under consideration equaled .5 FTE or less, we rounded down to the nearest whole FTE and only proposed our reallocations in one full FTE increments. In analyzing the work of indirect FTEs in the non-core bureaus, we applied conservative estimates. The Commission previously concluded that less than a full-time FTE demonstrates that the work being done is appropriately considered to be indirect and should not be reassigned.

37. Based upon our analysis of the data, some FTE time in the Office of Economics and Analytics, the Office of General Counsel, and the Public Safety and Homeland Security Bureau is being primarily spent on the regulation and oversight and regulation of regulatory fee payors. Similar to the last two years, we therefore propose that 63 indirect FTEs should be reallocated as direct FTEs to a core bureau. Additionally, consistent with past practice, we propose to reallocate two direct FTEs from the Media Bureau as indirect because the nature of their work is sufficiently linked to work that is similar to that performed in the Enforcement Bureau, which has previously been categorized as indirect. We therefore propose reallocating the sum total of 61 indirect FTE time to direct to a relevant core bureaus and office for calculating regulatory fees. Below, we discuss our analysis for the Office of Economics and Analytics, the Office of General Counsel, and the Public Safety and Homeland Security Bureau.

38. Office of Economics and Analytics (OEA) FTEs. The Commission historically has concluded that it is appropriate for the non-auctions FTEs in OEA to be considered indirect FTEs because their work benefits the Commission and the telecommunications industry and does not specifically focus on regulatory fee payors. As a general matter, OEA is responsible for expanding and strengthening the use of economic analysis in Commission policy making, for enhancing the development and use of auctions, and for implementing consistent and effective agency-wide data practices and policies. Specifically, OEA (a) provides economic analysis, including cost-benefit analysis, for rulemakings, transactions, adjudications, and other Commission actions; (b) manages Commission auctions in support of and in coordination with other bureaus and offices; (c) develops policies and strategies to help manage Commission data resources and establish best practices for data use throughout the Commission in coordination with other bureaus and offices; and (d) conducts long-term research on ways to improve the Commission's policies and processes in each of these areas. As the Commission has recognized the last two fiscal years, however, there is measurable FTE time in OEA that is done directly in furtherance of the oversight and regulation of regulatory fee payors in certain industry segments.

39. For FY 2025, as was the case in FY 2024, based on staff review of the data, we propose to reallocate 29 indirect FTEs from OEA as direct to a core bureau for regulatory fee purposes as follows: one to the Space Bureau, eight to the Wireless Telecommunications Bureau, 13 to the Wireline Competition Bureau, and seven to the Media Bureau. We seek comment on this proposed reallocation.

40. Office of General Counsel (OGC) FTEs. As explained in prior regulatory fee proceedings, much of the work of the OGC, as represented by FTE allocations, is considered to be indirect. OGC serves as the chief legal advisor to the Commission and its various bureaus and offices. In that capacity OGC's responsibilities are generally described as interpreting new and existing statutes and executive orders as they pertain to the Commission's exercise of its Communications Act authority and other authorities, as well as performing such functions involving implementation of such statutes and executive orders as may be assigned to it by the Commission. OGC advises the Commission in the preparation and revision of our rules, recommends decisions in adjudicatory matters before the Commission, assists the Commission in its decision-making capacity and performs a variety of legal functions regarding internal and other administrative matters. OGC also advises and represents the Commission in matters of litigation. These roles are divided between the Administrative Law Division and the Litigation Division and are overseen by the General Counsel (GC) and the GC's Front Office.

41. As the Commission has found in the past two years, however, we believe that certain aspects of OGC's work are sufficiently linked to the oversight and regulation of individual regulatory fee categories that the associated FTEs could properly be considered direct FTEs for such regulatory fee categories. For FY 2025, after staff evaluation of the data, we propose that four indirect FTEs from OGC should be reallocated as direct FTEs to a relevant core bureau for regulatory purposes. Specifically, based on the substance of the work that is being done directly in furtherance of the oversight and regulation of regulatory fee payors in certain industry segments for FY 2025, we propose to reallocate four indirect FTEs as direct to a core bureau follows: one to the Wireline Competition Bureau, one to the Wireless Telecommunications Bureau (instead of two as in FY 2024), one to the Space Bureau (new for this year), and one to the Media Bureau. We seek comment on this proposed reallocation for FY 2025.

42. Public Safety and Homeland Security Bureau (PSHSB) FTEs. The work of the PSHSB, as represented by FTE allocations, also has been largely considered to be indirect in prior regulatory fee proceedings. PSHSB advises and coordinates within the Commission on all matters pertaining to public safety, homeland security, national security, cybersecurity, emergency management and preparedness, disaster management, and related matters. PSHSB leads initiatives that strengthen public safety and emergency response capabilities enabling the Commission to assist the public, first responders, law enforcement, hospitals, the communications industry and all levels of government in times of emergency; thus, the majority of the work of its FTEs is best categorized as indirect. We conclude, however, as the Commission did in FY 2024 and FY 2023, that based on substantive work that is being done directly in furtherance of the oversight and regulation of regulatory fee payors in certain industry segments for FY 2025, it is appropriate to reallocate 30 indirect FTEs from PSHSB as direct to a core bureau for regulatory fee purposes as follows: 14 to the Wireless Telecommunications Bureau, nine to the Wireline Competition Bureau, and seven to the Media Bureau. We seek comment on this proposed reallocation.

43. Conclusion of the Proposal to Reallocate Certain Indirect FTEs from OEA, OGC, and PSHSB as Direct FTEs to a Relevant Core Bureau. As represented above, FTE time associated with the proposed reallocations for regulatory fee purposes would be added to the direct FTE totals for a relevant core bureau. In other words, this proposed reallocation of indirect FTEs would result in increasing the number of direct FTEs in a core bureau and reducing the total number of indirect FTEs within the Commission. Because our underlying methodology for calculating regulatory fees remains unchanged, we conclude that our fee regulatory fee calculation continues to be consistent with section 9 of the Communications Act, which requires us to base our methodology on the number of FTEs in calculating regulatory fees. We seek comment on this conclusion.

44. We continue to be mindful that our consideration of the work of FTEs as direct or indirect can change over time based on our evaluation of the FTE burden associated with the Commission's work assignments, fluctuations within industry segments, and needs of specific regulatory fee payors. Table 2 shows the percentage of regulatory fees allocated to each core bureau based on the proposed reallocation of a total of 61 indirect FTEs as direct to a core bureau, as discussed above. Such FTE reallocations, for regulatory fee purposes, would be proportionally distributed within the core bureau. We seek comment on these reallocations for FY 2025.

45. As reflected in Table 2 below, our proposals reallocate the sum total of 61 indirect FTEs as direct for regulatory fee purposes in FY 2025, resulting in a 15.9% increase in our overall direct FTE count for FY 2025, and a decrease of 4.25% in the overall direct FTE count from FY 2024. We make these proposals consistent with our long-standing regulatory fee methodology and based upon our determinations, which are reasonably accurate for fiscal year 2025. We seek comment on our proposals and this tentative conclusion.

Table 2—FTE Allocations: FY 2023 and FY 2024
Core bureau/office | FY 2024 FTE reallocations | Total # of direct FY 2024 FTEs with FTE reallocations | FY 2024% after reallocations | Total # of direct FY 2025 FTEs without FTE reallocations | FY 2025 FTE reallocations | Total # of direct FY 2025 FTEs with proposed FTE reallocations | FY 2025% after proposed reallocations
Office of International Affairs (Submarine Cable and International Bearer Circuits) | 0 | 8 | 1.72 | 8 | +0 from OEA +0 from OGC Total additional FTEs +0 | 8 | 1.80
Space Bureau (Space and Earth Stations) | +1 from OEA | 49 | 10.56 | 49 | +1 from OEA +1 from OGC Total additional FTEs +2 | 51 | 11.50
Wireless Telecommunications Bureau | +8 from OEA +2 from OGC +14 from PSHSB Total additional FTEs +24 | 119 | 25.65 | 97 | +8 from OEA +1 from OGC +14 from PSHSB Total additional FTEs +23 | 120 | 27.06
Wireline Competition Bureau | +13 from OEA +1 from OGC +9 from PSHSB Total additional FTEs +23 | 151.25 | 32.60 | 109.5 | +13 from OEA +1 from OGC +9 from PSHSB Total additional FTEs +23 | 132.5 | 29.88
Media Bureau | +7 from OEA +1 from OGC +7 from PSHSB −2 from MB Reallocated as Indirect Total additional FTEs +13 | 138 | 29.47 | 121 | +7 from OEA +1 from OGC +7 from PSHSB −2 from MB Reallocated as Indirect Total additional FTEs +13 | 134 | 29.76
Total | 61 | 465.25 | 100 | 384.50 | 61 | 445.50 | 100

46. Any proposals or comments requesting a change or modification to these proposed regulatory fees for FY 2025 should include a thorough analysis showing a sufficient basis for making the change and provide alternative options for the Commission to meet its statutory obligation to collect the full amount of the appropriation by the end of the fiscal year. Commenters should also indicate how such proposed alternative options are fair, administrable, and sustainable.

B. Broadcast Television Stations

47. For FY 2025, we propose to continue to assess fees for full-power broadcast television stations based on the population covered by a full-service broadcast television station's contour as the Commission has since 2020. Previously, from approximately 1995 through 2018, regulatory fees for full-power television stations were based on the Nielsen Designated Market Area (DMA) groupings 1-10, 11-25, 26-50, 51-100, and remaining markets (DMAs 101-210). The population-based methodology conforms with the service authorized here—broadcasting television to the American people. We further propose to continue our use of 2020 U.S. Census data to assess fees for full-power broadcast television stations, as we traditionally have over the last few years. The population data for broadcasters' service areas are determined using the TVStudy software and the Licensing and Management System (LMS) database, based on a station's projected noise-limited service contour. However, consistent with the Commission's decision in FY 2024, we will continue to base assessments on limiting the population count of full-power television stations that rely on satellite television stations to reach terrain-limited areas in Puerto Rico. As previously implemented, the Commission based assessments on a full-power television station and its satellite facility on a maximum of 3.1 million population. Hence, the maximum fee amount that will be paid by a full-power TV station and its associated satellite facility together is 3.1 million times .006379 (the fee rate) = $19,774). We seek comment on our mechanism for how we will calculate the regulatory fee based on the previously decided population-based methodology. We propose adopting a factor of $.006379 per population served for the FY 2025 full-power broadcast television station fee. The population data for each licensee and the population-based fee (population multiplied by $.006379 for each full-power broadcast television station) are listed in Table 8. We seek comment on these proposed fees.

C. Improving the Regulatory Fees Process

48. We have a statutory obligation to assess and collect regulatory fees each fiscal year in an amount equal to the Commission's annual S&E appropriation. We seek additional comment on “whether we should adopt new regulatory fee categories and on ways to improve our regulatory fee process regarding any and all categories of service.” We ask that commenters explain the legal bases for any proposals they make and how such proposals fit within the Commission's statutory authority and our existing regulatory fee methodology. We invite additional comment to help inform our consideration of these issues.

V. Procedural Matters

49. Included below are procedural items as well as our current payment and collection methods. We include these payments and collection procedures to remind regulatory fee payers and the public about these aspects of the annual regulatory fee collection process.

50. Credit Card Transaction Levels. In accordance with Treasury Financial Manual, Volume I, Part 5, Chapter 7000, Section 7065.20a—Credit Card Collections, the total daily credit card transactions processed from a single customer can be no more than $24,999.99 (hereinafter the “Maximum Daily Limit”) and the total monthly transactions processed from a single customer (based on a rolling 30-day period) can be no more than $100,000.00 (hereinafter the “Maximum Monthly Limit”). Transactions greater than the Maximum Limits will be rejected. If a customer initiates multiple transactions on the same day with the same credit card, those transactions causing the total charge to exceed the Maximum Limits will also be rejected. This applies to single payments or bundled payments of more than one bill. Multiple transactions to a single agency in one day may be aggregated and treated as a single transaction subject to the $24,999.99 limit. Customers who wish to pay an amount greater than $24,999.99 should consider available electronic alternatives such as debit cards, Automates Clearing House (ACH) debits from a bank account, and wire transfers. Each of these payment options is available after filing regulatory fee information in the Commission's Registration System (CORES). Further details will be provided regarding payment methods and procedures at the time of FY 2025 regulatory fee collection in Fact Sheets, https://www.fcc.gov/regfees.

51. Payment Methods. During the fee season for collecting regulatory fees, regulatees can pay their fees by credit card through Pay.gov, ACH, debit card, or by wire transfer. Additional payment instructions are posted on the Commission's website at https://www.fcc.gov/licensing-databases/fees/wire-transfer. The receiving bank for all wire payments is the U.S. Treasury, New York, NY (TREAS NYC). Any other form of payment (e.g., checks, cashier's checks, or money orders) will be rejected. For payments by wire, an FCC Form 159-E should still be transmitted via fax so that the Commission can associate the wire payment with the correct regulatory fee information. The fax should be sent to the Commission at (202) 418-2843 at least one hour before initiating the wire transfer (but on the same business day) so as not to delay crediting their account. Regulatees should discuss arrangements (including bank closing schedules) with their bankers several days before they plan to make the wire transfer to allow sufficient time for the transfer to be initiated and completed before the deadline. Complete instructions for making wire payments are posted at https://www.fcc.gov/licensing-databases/fees/wire-transfer.

52. Standard Fee Calculations and Payment Dates. The Commission will accept fee payments made in advance of the window for the payment of regulatory fees. The responsibility for payment of fees by service category is as follows:

• Media Services: Regulatory fees must be paid for initial construction permits that were granted on or before October 1, 2024 for AM/FM radio stations, full-power VHF/UHF broadcast television stations, and satellite television stations. Regulatory fees must be paid for all broadcast facility licenses granted on or before October 1, 2024.

• Wireline (Common Carrier) Services: Regulatory fees must be paid for authorizations that were granted on or before October 1, 2024. In instances where an authorization is transferred or assigned after October 1, 2024, responsibility for payment rests with the holder of the authorization as of the fee due date. Audio bridging service providers are included in this category. For Responsible Organizations (RespOrgs) that manage Toll Free Numbers (TFN), regulatory fees should be paid on all working, assigned, and reserved toll free numbers as well as toll free numbers in any other status as defined in section 52.103 of the Commission's rules. The unit count should be based on toll free numbers managed by RespOrgs on or about December 31, 2024.

• Wireless Services: Commercial Mobile Radio Service (CMRS) cellular, mobile, and messaging services (fees based on number of subscribers or telephone number count): Regulatory fees must be paid for authorizations that were granted on or before October 1, 2024. The number of subscribers, units, or telephone numbers on December 31, 2024 will be used as the basis from which to calculate the fee payment. In instances where a permit or license is transferred or assigned after October 1, 2024, responsibility for payment rests with the holder of the permit or license as of the fee due date.

• Wireless Services, Multi-year fees: The first eight regulatory fee categories in our Schedule of Regulatory Fees (first seven in our Calculation of Fees in Table 4) pay “small multi-year wireless regulatory fees.” Entities pay these regulatory fees in advance for the entire amount period covered by the five-year or ten-year terms of their initial licenses and pay regulatory fees again only when the license is renewed, or a new license is obtained. We include these fee categories in our rulemaking to publicize our estimates of the number of “small multi-year wireless” licenses that will be renewed or newly obtained in FY 2025.

• Multichannel Video Programming Distributor (MVPD) Services (cable television operators, Cable Television Relay Service (CARS) licensees, DBS, and IPTV): Regulatory fees must be paid for the number of basic cable television subscribers as of December 31, 2024. Regulatory fees also must be paid for CARS licenses that were granted on or before October 1, 2024. In instances where a permit or license is transferred or assigned after October 1, 2024, responsibility for payment rests with the holder of the permit or license as of the fee due date. For providers of DBS service and IPTV-based MVPDs, regulatory fees should be paid based on a subscriber count on or about December 31, 2024. In instances where a permit or license is transferred or assigned after October 1, 2024, responsibility for payment rests with the holder of the permit or license as of the fee due date.

• International Services: Regulatory fees must be paid for earth stations that were licensed (or authorized) on or before October 1, 2024. Regulatory fees must also be paid for geostationary orbit space stations (GSO) and non-geostationary orbit satellite systems (NGSO), and the two NGSO subcategories “Other” and “Less Complex,” that were licensed and operational on or before October 1, 2024. Licensees of small satellites that were licensed and operational on or before October 1, 2024 must also pay regulatory fees. In instances where a permit or license is transferred or assigned after October 1, 2024, responsibility for payment rests with the holder of the permit or license as of the fee due date. Proposals also have been made to assess regulatory fees on all space stations that are authorized only (earth stations are feeable when they become licensed or authorized).

• International Services (Submarine Cable Systems, Terrestrial and Satellite Services): Regulatory fees for submarine cable systems are to be paid on a per cable landing license basis based on lit circuit capacity as of December 31, 2023. Regulatory fees for terrestrial and satellite IBCs are to be paid based on active (used or leased) international bearer circuits as of December 31, 2023, in any terrestrial or satellite transmission facility for the provision of service to an end user or resale carrier. When calculating the number of such active circuits, entities must include circuits used by themselves or their affiliates. For these purposes, “active circuits” include backup and redundant circuits as of December 31, 2023. Whether circuits are used specifically for voice or data is not relevant for purposes of determining that they are active circuits. In instances where a permit or license is transferred or assigned after October 1, 2023, responsibility for payment rests with the holder of the permit or license as of the fee due date.

53. CMRS and Mobile Services Assessments. The Commission will compile data from the Numbering Resource Utilization Forecast (NRUF) report that is based on “assigned” telephone number (subscriber) counts that have been adjusted for porting to net Type 0 ports (“in” and “out”). We have included non-geographic numbers in the calculation of the number of subscribers for each CMRS provider in Table 3 and the CMRS regulatory fee factor proposed in Table 4. CMRS provider regulatory fees will be calculated and should be paid based on the inclusion of non-geographic numbers. CMRS providers can adjust the total number of subscribers, if needed. This information of telephone numbers (subscriber count) will be posted on CORES along with the carrier's Operating Company Numbers (OCNs).

54. A carrier wishing to revise its telephone number (subscriber) count can do so by accessing CORES and following the prompts to revise their telephone number counts. Any revisions to the telephone number counts should be accompanied by an explanation. The Commission will then review the revised count and supporting explanation, if any, and either approve or disapprove the submission in CORES. If the submission is disapproved, the Commission will contact the provider to afford the provider an opportunity to discuss its revised subscriber count and/or provide supporting documentation. If the Commission receives no response from the provider, or the Commission does not reverse its initial disapproval of the provider's revised count submission, the fee payment must be based on the number of subscribers listed initially in CORES. Once the timeframe for revision has passed, the telephone number counts are final and are the basis upon which CMRS regulatory fees are to be paid. Providers can view their final telephone counts online in CORES.

55. Because some carriers do not file the NRUF report, they may not see their telephone number counts in CORES. In these instances, the carriers should compute their fee payment using the standard methodology that is currently in place for CMRS Wireless services (i.e., compute their telephone number counts as of December 31, 2024), and submit their fee payment accordingly. Whether a carrier reviews its telephone number counts in CORES or not, the Commission reserves the right to audit the number of telephone numbers for which regulatory fees are paid. If the Commission determines that a carrier paid CMRS or mobile services regulatory fees based on an incorrect number of telephone numbers, the Commission will bill the carrier for the difference between what was paid and what should have been paid.

56. Providing Accountability Through Transparency Act. Consistent with the Providing Accountability Through Transparency Act, Public Law 118-9, a summary of this document will be available on https://www.fcc.gov/proposed-rulemakings.

Table 3—Calculation of FY 2025 Revenue Requirements and Pro-Rata Fees
[Regulatory fees for the categories shaded in gray are collected by the Commission in advance to cover the term of the license and are submitted at the time the application is filed.]
Fee category | FY 2025 payment units | Yrs | FY 2024 revenue estimate | Pro-rated FY 2025 revenue requirement | Computed FY 2025 regulatory fee | Rounded FY 2025 reg. fee | Expected FY 2025 revenue
PLMRS (Exclusive Use) | 1,280 | 10 | 287,500 | 320,000 | 25 | 25 | 320,000
PLMRS (Shared use) | 27,000 | 10 | 2,330,000 | 2,700,000 | 10 | 10 | 2,700,000
Microwave | 10,400 | 10 | 4,125,000 | 2,600,000 | 25 | 25 | 2,600,000
Marine (Ship) | 7,300 | 10 | 1,050,000 | 1,095,000 | 15 | 15 | 1,095,000
Aviation (Aircraft) | 5,900 | 10 | 580,000 | 590,000 | 10 | 10 | 590,000
Marine (Coast) | 360 | 10 | 112,000 | 144,000 | 40 | 40 | 144,000
Aviation (Ground) | 380 | 10 | 54,000 | 76,000 | 20 | 20 | 76,000
AM Class A ¹ | 60 | 1 | 266,220 | 266,269 | 4,438 | 4,440 | 266,400
AM Class B ¹ | 1,293 | 1 | 3,301,650 | 3,315,804 | 2,564 | 2,565 | 3,316,545
AM Class C ¹ | 755 | 1 | 1,183,840 | 1,184,649 | 1,569 | 1,570 | 1,185,350
AM Class D ¹ | 1,259 | 1 | 3,908,750 | 3,924,338 | 3,117 | 3,115 | 3,921,785
FM Classes A, B1 & C3 ¹ | 2,933 | 1 | 8,232,225 | 8,268,925 | 2,819 | 2,820 | 8,271,060
FM Classes B, C, C0, C1 & C2 ¹ | 3,021 | 1 | 10,080,560 | 10,129,055 | 3,353 | 3,355 | 10,135,455
AM Construction Permits ² | 4 | 1 | 1,170 | 2,240 | 560 | 560 | 2,240
FM Construction Permits ² | 20 | 1 | 14,350 | 13,720 | 980 | 980 | 19,600
Digital Television ⁵ (including Satellite TV) | 3.546 billion population | 1 | 23,363,518 | 22,621,616 | 0.0063789 | 0.006379 | 22,622,022
Digital TV Construction Permits ² | 8 | 1 | 26,000 | 41,600 | 5,200 | 5,200 | 41,600
LPTV/Class A/Translators FM Trans/Boosters | 6,135 | 1 | 1,522,675 | 1,518,473 | 247.4 | 245 | 1,503,075
CARS Stations | 95 | 1 | 191,100 | 194,577 | 2,048 | 2,050 | 194,750
Cable TV Systems, including IPTV & DBS | 42,000,000 | 1 | 63,500,000 | 64,638,412 | 1.5390 | 1.54 | 64,638,000
Interstate Telecommunication Service Providers | $21,500,000,000 | 1 | 122,434,000 | 112,707,157 | 0.005242 | 0.005240 | 112,660,000
Toll Free Numbers | 37,000,000 | 1 | 4,200,000 | 3,872,669 | 0.11000 | 0.11 | 4,070,000
CMRS Mobile Services (Cellular/Public Mobile) | 605,500,000 | 1 | 89,920,000 | 96,810,875 | 0.1593 | 0.16 | 96,880,000
CMRS Messaging Services | 566,800 | 1 | 48,000 | 45,344 | 0.0800 | 0.080 | 45,344
BRS/ ³ | 1,200 | 1 | 870,000 | 870,000 | 725 | 725 | 870,000
LMDS | 375 | 1 | 268,250 | 271,875 | 725 | 725 | 271,875
Per Gbps circuit Int'l Bearer Circuits Terrestrial (Common & Non-Common) & Satellite (Common & Non-Common) | 28,000 | 1 | 340,000 | 351,939 | 12.6 | 13 | 364,000
Submarine Cable Providers (See chart at bottom of Table 4) ⁴ | 76 | 1 | 6,264,362 | 6,686,843 | 88,159 | 88,160 | 6,700,160
Earth Stations | 2,900 | 1 | 3,248,000 | 8,243,030 | 2,842 | 2,840 | 8,236,000
Space Stations (Geostationary) | 140 | 1 | 31,112,790 | 21,978,421 | 153,695 | 153,695 | 21,978,385
Space Stations (Non-Geostationary, Other) | 11 | 1 | 5,975,120 | 11,483,892 | 1,043,990 | 1,043,990 | 11,483,890
Space Stations (Non-Geostationary, Less Complex) | 9 | 1 | 1,496,940 | 2,870,973 | 318,997 | 318,995 | 2,870,955
Space Stations (Non-Geostationary, Small Satellite) | 24 | 1 | 311,340 | 295,920 | 12,330 | 12,330 | 295,920
****** Total Estimated Revenue to be Collected |  |  | 390,621,601 | 390,192,000 |  |  | 390,369,411
****** Total Revenue Requirement |  |  | 390,192,000 | 390,192,000 |  |  | 390,192,000
Difference |  |  | 429,601 | 0 |  |  | 177,411
Notes on Table 3
¹ The fee amounts listed in the column entitled “Rounded FY 2025 Reg. Fee” are the result of dividing the revenue requirement by the payment units of each radio class category. The actual FY 2025 regulatory fees for AM/FM radio station are listed on a grid located at the end of Table 4.
² The AM and FM Construction Permit revenues and the full-power (VHF/UHF) Construction Permit revenues were adjusted, respectively, to set the regulatory fee to an amount no higher than the lowest licensed fee for that class of service based on the threshold 10,001-25,000, the traditional basis for identifying the lowest licensed fee. Reductions in the full-power (VHF/UHF) Construction Permit revenues, and in the AM and FM Construction Permit revenues, were offset by increases in the revenue totals for full-power television stations by market size, and in the AM and FM radio stations by class size and population served, respectively.
³ The MDS/MMDS category was renamed Broadband Radio Service (BRS). See Amendment of Parts 1, 21, 73, 74 and 101 of the Commission's Rules to Facilitate the Provision of Fixed and Mobile Broadband Access, Educational and Other Advanced Services in the 2150-2162 and 2500-2690 MHz Bands, Report & Order and Further Notice of Proposed Rulemaking, 19 FCC Rcd 14165, 14169, para. 6 (2004).
⁴ The chart at the end of Table 4 lists the submarine cable bearer circuit regulatory fees (common and non-common carrier basis) that resulted from the adoption of the Assessment and Collection of Regulatory Fees for Fiscal Year 2008, Report and Order and Further Notice of Proposed Rulemaking, 24 FCC Rcd 6388 (2008) and Assessment and Collection of Regulatory Fees for Fiscal Year 2008, Second Report and Order, 24 FCC Rcd 4208 (2009). The Submarine Cable fee in Table 3 is a weighted average of the various fee payers in the chart at the end of Table 4.
⁵ The actual full-power television regulatory fees to be paid by call sign are identified in Table 8.

Table 4—FY 2025 Schedule of Regulatory Fees
[Regulatory fees for the categories shaded in gray are collected by the Commission in advance to cover the term of the license and are submitted at the time the application is filed.]
Fee category | Annual regulatory fee (U.S. $s)
PLMRS (per license) (Exclusive Use) (47 CFR part 90) | 25.
Microwave (per license) (47 CFR part 101) | 25.
Marine (Ship) (per station) (47 CFR part 80) | 15.
Marine (Coast) (per license) (47 CFR part 80) | 40.
Rural Radio (47 CFR part 22) (previously listed under the Land Mobile category) | 10.
PLMRS (Shared Use) (per license) (47 CFR part 90) | 10.
Aviation (Aircraft) (per station) (47 CFR part 87) | 10.
Aviation (Ground) (per license) (47 CFR part 87) | 20.
CMRS Mobile/Cellular Services (per unit) (47 CFR parts 20, 22, 24, 27, 80 and 90) (Includes Non-Geographic telephone numbers) | 0.16.
CMRS Messaging Services (per unit) (47 CFR parts 20, 22, 24 and 90) | 0.08.
Broadband Radio Service (formerly MMDS/MDS) (per license) (47 CFR part 27) | 725.
Local Multipoint Distribution Service (per call sign) (47 CFR, part 101) | 725.
AM Radio Construction Permits | 560.
FM Radio Construction Permits | 980.
AM and FM Broadcast Radio Station Fees | See Table Below.
Digital TV (47 CFR part 73) VHF and UHF Commercial Fee Factor | $0.006379. See Table 8 for fee amounts due, also available at https://www.fcc.gov/licensing-databases/fees/regulatory-fees.
Digital TV Construction Permits | 5,200.
Low Power TV, Class A TV, TV/FM Translators & FM Boosters (47 CFR part 74) | 245.
CARS (47 CFR part 78) | 2,050.
Cable Television Systems (per subscriber) (47 CFR part 76), Including IPTV and Direct Broadcast Satellite (DBS) | 1.54.
Interstate Telecommunication Service Providers (per revenue dollar) | 0.00524.
Toll Free (per toll free subscriber) (47 CFR section 52.101 (f) of the rules) | 0.11.
Earth Stations (47 CFR part 25) | 2,840.
Space Stations (per operational station in geostationary orbit) (47 CFR part 25) also includes DBS Service (per operational station) (47 CFR part 100) | 153,695.
Space Stations (per operational system in non-geostationary orbit) (47 CFR part 25) (Other) | 1,043,990.
Space Stations (per operational system in non-geostationary orbit) (47 CFR part 25) (Less Complex) | 318,995.
Space Stations (per license/call sign in non-geostationary orbit) (47 CFR part 25) (Small Satellite) | 12,330.
International Bearer Circuits—Terrestrial/Satellites (per Gbps circuit) | 13.
Submarine Cable Landing Licenses Fee (per cable system) | See Table Below.

FY 2025 Radio Station Regulatory Fees
Population served | AM Class A | AM Class B | AM Class C | AM Class D | FM Classes A, B1 & C3 | FM Classes B, C, C0, C1 & C2
<=10,000 | $535 | $385 | $335 | $370 | $590 | $670
10,001-25,000 | 895 | 645 | 560 | 615 | 980 | 1,120
25,001-75,000 | 1,345 | 970 | 840 | 925 | 1,470 | 1,680
75,001-150,000 | 2,015 | 1,450 | 1,260 | 1,385 | 2,205 | 2,520
150,001-500,000 | 3,025 | 2,180 | 1,895 | 2,080 | 3,310 | 3,785
500,001-1,200,000 | 4,530 | 3,265 | 2,835 | 3,110 | 4,960 | 5,665
1,200,001-3,000,000 | 6,800 | 4,900 | 4,255 | 4,675 | 7,450 | 8,510
3,000,001-6,000,000 | 10,195 | 7,345 | 6,380 | 7,005 | 11,160 | 12,755
>6,000,000 | 15,295 | 11,025 | 9,570 | 10,510 | 16,750 | 19,140

FY 2025 International Bearer Circuits—Submarine Cable Systems
Submarine cable systems (capacity as of December 31, 2024) | Fee ratio (units) | FY 2025 Regulatory fees
Less than 50 Gbps | .0625 | $5,515
50 Gbps or greater, but less than 250 Gbps | .125 | 11,030
250 Gbps or greater, but less than 1,500 Gbps | .25 | 22,050
1,500 Gbps or greater, but less than 3,500 Gbps | .5 | 44,105
3,500 Gbps or greater, but less than 6,500 Gbps | 1.0 | 88,205
6,500 Gbps or greater | 2.0 | 176,410

Table 5—Sources of Payment Unit Estimates for FY 2025

In order to calculate individual service fees for FY 2025, we adjusted FY 2024 payment units for each service to more accurately reflect expected FY 2025 payment liabilities. We obtained our updated estimates through a variety of means and sources. For example, we used Commission licensee databases, actual prior year payment records, and industry and trade association projections, where available. The databases we consulted include our Universal Licensing System (ULS), International Bureau Filing System (IBFS), Licensing and Management System (LMS), and Cable Operations and Licensing System (COALS), as well as reports generated within the Commission such as the Wireless Telecommunications Bureau's Numbering Resource Utilization Forecast. Regulatory fee payment units are not all the same for all fee categories. For most fee categories, the term “units” reflect licenses or permits that have been issued, but for other fee categories, the term “units” reflect quantities such as subscribers, population counts, circuit counts, telephone numbers, and revenues. As more current data are received after the NPRM is released, the Commission sometimes adjusts the NPRM fee rates to reflect the new information in the Report and Order. This is intended to make sure that the fee rates in the Report and Order reflect more recent and accurate information. We realize that by adjusting the unit counts as more accurate information is received may adjust the fee rates for certain regulatory fee categories. Certain entities that collect the fees from customers in advance in order to pay the Commission, such as Cable and DBS companies, ITSP providers, Cell Phone and Toll-Free providers, may need to adjust their billings to customers as the Commission adjusts its fee rates. As a result, the Commission understands that these adjustments are necessary so that these regulatees can recover their fee obligations from their customers.

We sought verification for these estimates from multiple sources and, in all cases, we compared FY 2025 estimates with actual FY 2024 payment units to ensure that our revised estimates were reasonable. Where appropriate, we adjusted and/or rounded our final estimates to take into consideration the fact that certain variables that impact on the number of payment units cannot yet be estimated with sufficient accuracy. These include an unknown number of waivers and/or exemptions that may occur in FY 2025 and the fact that, in many services, the number of actual licensees or station operators fluctuates over time due to economic, technical, or other reasons. When we note, for example, that our estimated FY 2025 payment units are based on FY 2024 actual payment units, it does not necessarily mean that our FY 2025 projection is exactly the same number as in FY 2024. We have either rounded the FY 2025 number or adjusted it slightly to account for these variables.

Fee category | Sources of payment unit estimates
Land Mobile (All), Microwave, Marine (Ship & Coast), Aviation (Aircraft & Ground), Domestic Public Fixed | Based on Wireless Telecommunications Bureau (WTB) information as well as prior year payment information. Estimates have been adjusted to take into consideration the licensing of portions of these services.
CMRS Cellular/Mobile Services | Based on WTB projection reports, and FY 2024 payment data.
CMRS Messaging Services | Based on WTB reports, and FY 2024 payment data.
AM/FM Radio Stations | Based on downloaded LMS data, adjusted for exemptions, and actual FY 2024 payment units.
Digital TV Stations (Combined VHF/UHF units) | Based on LMS data, fee rate adjusted for exemptions, and population figures are calculated based on individual station parameters.
AM/FM/TV Construction Permits | Based on LMS data, adjusted for exemptions, and actual FY 2024 payment units.
LPTV, Translators and Boosters, Class A Television | Based on LMS data, adjusted for exemptions, and actual FY 2024 payment units.
BRS (formerly MDS/MMDS) LMDS | Based on WTB reports and actual FY 2024 payment units. Based on WTB reports and actual FY 2024 payment units.
Cable Television Relay Service (CARS) Stations | Based on cable trend data, data from the Media Bureau's COALS database, and actual FY 2024 payment units.
Cable Television System Subscribers, Including IPTV Subscribers | Based on publicly available data sources for estimated subscriber counts, trend information from past payment data, and actual FY 2023 payment units.
Interstate Telecommunication Service Providers | Based on FCC Form 499-A worksheets due in April 2025, and any data assistance provided by the Wireline Competition Bureau.
Earth Stations | Based on International Bureau licensing data and actual FY 2024 payment units.
Space Stations (GSOs & NGSOs) | Based on International Bureau data reports and actual FY 2024 payment units.
International Bearer Circuits | Based on assistance provided by the International Bureau, any data submissions by licensees, adjusted as necessary, and actual FY 2024 payment units.
Submarine Cable Licenses | Based on International Bureau license information, and actual FY 2024 payment units.

Table 6—Factors, Measurements, and Calculations That Determine Station Signal Contours and Associated Population Coverages

AM Stations

For stations with nondirectional daytime antennas, the theoretical radiation was used at all azimuths. For stations with directional daytime antennas, specific information on each day tower, including field ratio, phase, spacing, and orientation was retrieved, as well as the theoretical pattern root-mean-square of the radiation in all directions in the horizontal plane (RMS) figure (milliVolt per meter (mV/m) @1 km) for the antenna system. The standard, or augmented standard if pertinent, horizontal plane radiation pattern was calculated using techniques and methods specified in sections 73.150 and 73.152 of the Commission's rules. Radiation values were calculated for each of 360 radials around the transmitter site. Next, estimated soil conductivity data was retrieved from a database representing the information in FCC Figure R3. Using the calculated horizontal radiation values, and the retrieved soil conductivity data, the distance to the principal community (5 mV/m) contour was predicted for each of the 360 radials. The resulting distance to principal community contours were used to form a geographical polygon. Population counting was accomplished by determining which 2020 block centroids were contained in the polygon. (A block centroid is the center point of a small area containing population as computed by the U.S. Census Bureau.) The sum of the population figures for all enclosed blocks represents the total population for the predicted principal community coverage area.

FM Stations

The greater of the horizontal or vertical effective radiated power (ERP) (kW) and respective height above average terrain (HAAT) (m) combination was used. Where the antenna height above mean sea level (HAMSL) was available, it was used in lieu of the average HAAT figure to calculate specific HAAT figures for each of 360 radials under study. Any available directional pattern information was applied as well, to produce a radial-specific ERP figure. The HAAT and ERP figures were used in conjunction with the Field Strength (50-50) propagation curves specified in 47 CFR 73.313 of the Commission's rules to predict the distance to the principal community (70 dBu (decibel above 1 microVolt per meter) or 3.17 mV/m) contour for each of the 360 radials. The resulting distance to principal community contours were used to form a geographical polygon. Population counting was accomplished by determining which 2020 block centroids were contained in the polygon. The sum of the population figures for all enclosed blocks represents the total population for the predicted principal community coverage area.

Table 7—Satellite Charts for FY 2025 Regulatory Fees

Table A—Space Stations Potentially Subject to Regulatory Fees in FY 2025

These charts publish a list of space stations and systems that would be subject to regulatory fees in FY 2025, including under the proposal made in the Space and Earth Station Regulatory Fees Further Notice of Proposed Rulemaking1 to assess regulatory fees on all authorized space stations, not only operational space stations.

Space Stations (Geostationary Orbit): U.S.-Licensed Space Stations
Licensee | Call sign | Satellite name | Type
Astranis Projects USA LLC | S3092 | ARCTURUS | GSO
DIRECTV Enterprises, LLC | S2632 | DIRECTV D8 | GSO
DIRECTV Enterprises, LLC | S2640 | DIRECTV D11 | GSO
DIRECTV Enterprises, LLC | S2641 | DIRECTV D10 | GSO
DIRECTV Enterprises, LLC | S2669 | DIRECTV D9S | GSO
DIRECTV Enterprises, LLC | S2673 | DIRECTV D5 | GSO
DIRECTV Enterprises, LLC | S2797 | DIRECTV D12 | GSO
DIRECTV Enterprises, LLC | S2869 | DIRECTV D14 | GSO
DIRECTV Enterprises, LLC | S2930 | DIRECTV D15 | GSO
DIRECTV Enterprises, LLC | S3039 | DIRECTV D16 | GSO
DISH Operating L.L.C | S2694 | ECHOSTAR 10 | GSO
DISH Operating L.L.C | S2738 | ECHOSTAR 11 | GSO
DISH Operating L.L.C | S2790 | ECHOSTAR 14 | GSO
DISH Operating L.L.C | S2931 | ECHOSTAR 18 | GSO
EchoStar Satellite Operating Corporation | S2811 | ECHOSTAR 15 | GSO
EchoStar Satellite Operating Corporation | S2844 | ECHOSTAR 16 | GSO
EchoStar Satellite Services L.L.C | S2179 | ECHOSTAR 9 | GSO
EchoStar BSS Corp | S3093 | ECHOSTAR 23 | GSO
ES 172 LLC | S2610 | EUTELSAT 174A | GSO
ES 172 LLC | S3021 | EUTELSAT 172B | GSO
Horizon-3 Satellite LLC | S2947 | HORIZONS-3e | GSO
Hughes Network Systems, LLC | S2753 | ECHOSTAR XVII | GSO
Hughes Network Systems, LLC | S2834 | ECHOSTAR 19 | GSO
Hughes Network Systems, LLC | S3017 | ECHOSTAR 24 (JUPITER 3) | GSO
Intelsat License LLC/Viasat, Inc | S2160 | GALAXY 28 | GSO
Intelsat License LLC | S2237 | INTELSAT 11 | GSO
Intelsat License LLC | S2253 | GALAXY 11 | GSO
Intelsat License LLC | S2380 | INTELSAT 9 | GSO
Intelsat License LLC | S2381 | GALAXY 3C | GSO
Intelsat License LLC | S2382 | INTELSAT 10 | GSO
Intelsat License LLC | S2385 | GALAXY 14 | GSO
Intelsat License LLC | S2386 | GALAXY 13 | GSO
Intelsat License LLC | S2405 | INTELSAT 901 | GSO
Intelsat License LLC | S2406 | INTELSAT 902 | GSO
Intelsat License LLC | S2408 | INTELSAT 904 | GSO
Intelsat License LLC | S2409 | INTELSAT 905 | GSO
Intelsat License LLC | S2410 | INTELSAT 906 | GSO
Intelsat License LLC | S2414 | INTELSAT 10-02 | GSO
Intelsat License LLC | S2423 | HORIZONS 2 | GSO
Intelsat License LLC | S2647 | GALAXY 19 | GSO
Intelsat License LLC | S2687 | GALAXY 16 | GSO
Intelsat License LLC | S2704 | INTELSAT 5 | GSO
Intelsat License LLC | S2715 | GALAXY 17 | GSO
Intelsat License LLC | S2733 | GALAXY 18 | GSO
Intelsat License LLC | S2750 | INTELSAT 16 | GSO
Intelsat License LLC | S2751 | INTELSAT 28 | GSO
Intelsat License LLC | S2785 | INTELSAT 14 | GSO
Intelsat License LLC | S2804 | INTELSAT 25 | GSO
Intelsat License LLC | S2817 | INTELSAT 18 | GSO
Intelsat License LLC | S2831 | INTELSAT 23 | GSO
Intelsat License LLC | S2846 | INTELSAT 22 | GSO
Intelsat License LLC | S2847 | INTELSAT 20 | GSO
Intelsat License LLC | S2850 | INTELSAT 19 | GSO
Intelsat License LLC | S2863 | INTELSAT 21 | GSO
Intelsat License LLC | S2368 | INTELSAT 1R | GSO
Intelsat License LLC | S2789 | INTELSAT 15 | GSO
Intelsat License LLC | S2814 | INTELSAT 17 | GSO
Intelsat License LLC | S2887 | INTELSAT 30 | GSO
Intelsat License LLC | S2915 | INTELSAT 34 | GSO
Intelsat License LLC | S2924 | INTELSAT 31 | GSO
Intelsat License LLC | S2939 | INTELSAT 33e | GSO
Intelsat License LLC | S2948 | INTELSAT 36 | GSO
Intelsat License LLC | S2959 | INTELSAT 35e | GSO
Intelsat License LLC | S2972 | INTELSAT 37e | GSO
Intelsat License LLC | S3015 | GALAXY 33 | GSO
Intelsat License LLC | S3016 | GALAXY 30 | GSO
Intelsat License LLC | S3022 | INTELSAT 15R | GSO
Intelsat License LLC | S3023 | INTELSAT 39 | GSO
Intelsat License LLC | S3058 | HISPASAT 143W-1 | GSO
Intelsat License LLC | S3066 | INTELSAT 40e | GSO
Intelsat License LLC | S3076 | GALAXY 31 | GSO
Intelsat License LLC | S3078 | GALAXY 32 | GSO
Intelsat License LLC | S3083 | GALAXY 34 | GSO
Intelsat License LLC | S3143 | GALAXY 35 | GSO
Intelsat License LLC | S3148 | GALAXY 36 | GSO
Intelsat License LLC | S3164 | GALAXY 37 | GSO
Ligado Networks Subsidiary, LLC | S2358 | SKYTERRA-1 | GSO
Ligado Networks Subsidiary, LLC | AMSC-1 | MSAT-2 | GSO
Novavision Group, Inc | S2861 | DIRECTV KU-79W | GSO
Open Plaza Corp | S2922 | SKY-B1 | GSO
Satellite CD Radio LLC | S2812 | FM-6 | GSO
SES Americom, Inc | S2162 | AMC-3 | GSO
SES Americom, Inc | S2180 | AMC-15 | GSO
SES Americom, Inc | S2347 | AMC-6 | GSO
SES Americom, Inc | S2415 | NSS-10 | GSO
SES Americom, Inc | S2826 | SES-2 | GSO
SES Americom, Inc | S2807 | SES-1 | GSO
SES Americom, Inc | S2892 | SES-3 | GSO
SES Americom, Inc | S3097 | SES-19 | GSO
SES Americom, Inc | S3138 | SES-22 | GSO
SES Americom, Inc | S3096 | SES-18 | GS0
SES Americom, Inc | S3098 | SES-20 | GSO
SES Americom, Inc | S3099 | SES-21 | GSO
Silkwave Africa, LLC | S2666 | Afristar-2 | GSO
Silkwave Africa, LLC | S3074 | AsiaStar | GSO
Sirius XM Radio Inc | S2616 | XM-4 | GSO
Sirius XM Radio Inc | S2617 | XM-3 | GSO
Sirius XM Radio Inc | S2710 | FM-5 | GSO
Sirius XM Radio Inc | S3033 | SXM-7 | GSO
Sirius XM Radio Inc | S3034 | SXM-8 | GSO
Sirius XM Radio Inc | S3166 | SXM-9 | GSO
Sirius XM Radio Inc | S3167 | SXM-10 | GSO
Skynet Satellite Corp | S2933 | TELSTAR 12V | GSO
Skynet Satellite Corporation | S2357 | TELSTAR 11N | GSO
Viasat, Inc | S2747 | VIASAT-1 | GSO
Viasat, Inc | S2917 | VIASAT-3 | GSO
Viasat, Inc | S3050 | VIASAT-89US | GSO
XM Radio LLC | S2786 | XM-5 | GSO

Space Stations (Geostationary Orbit): Non-U.S.-Licensed Space Stations—Market Access Through Petition for Declaratory Ruling
Grantee | Call sign | Satellite name | Type
ABS Global Ltd | S2987 | ABS-3A | GSO
Avanti Hylas 2 Ltd | S3130 | HYLAS-4 | GSO
DBSD Services Ltd | S2651 | DBSD G1 | GSO
Embratel TVSAT Telecomunicacoes S.A | S3142 | Star One D2 | GSO
Embratel TVSAT Telecomunicacoes S.A | S3192 | Star One C4 | GSO
Empresa Argentina de Soluciones Satelitales S.A | S2956 | ARSAT-2 | GSO
Embratel Tvsat Telecommunicacoes S.A | S2678 | STAR ONE C2 | GSO
Embratel Tvsat Telecommunicacoes S.A | S2845 | STAR ONE C3 | GSO
Embratel TVSAT Telecomunicacões S.A | S3192 | STAR ONE C4 | GSO
Eutelsat S.A | S3055 | EUTELSAT 139 WEST A | GSO
Eutelsat S.A | S3056 | EUTELSAT 8 WEST B | GSO
Gamma Acquisition L.L.C | S2633 | TerreStar 1 | GSO
Hispamar Satélites, S.A | S2793 | AMAZONAS-2 | GSO
Hispamar Satélites, S.A | S2886 | AMAZONAS-3 | GSO
Hispamar Satélites, S.A | S3086 | AMAZONAS NEXUS | GSO
Hispasat, S.A | S2969 | HISPASAT 30W-6 | GSO
Horizons-4 Satellite LLC | S3180 | Horizon-4 | GSO
Inmarsat PLC | S2932 | Inmarsat-4 F3 | GSO
Inmarsat PLC | S2949 | Inmarsat-3 F5 | GSO
New Skies Satellites B.V | S2756 | NSS-9 | GSO
New Skies Satellites B.V | S2828 | SES-4 | GSO
New Skies Satellites B.V | S2870 | SES-6 | GSO
New Skies Satellites B.V | S2950 | SES-10 | GSO
Satelites Mexicanos, S.A. de C.V | S2695 | EUTELSAT 113 WEST A | GSO
Satelites Mexicanos, S.A. de C.V | S2873 | EUTELSAT 117 WEST A | GSO
Satelites Mexicanos, S.A. de C.V | S2926 | EUTELSAT 117 WEST B | GSO
Satelites Mexicanos, S.A. de C.V | S2938 | EUTELSAT 115 WEST B | GSO
SES Satellites (Gibraltar) Ltd | S2676 | AMC 21 | GSO
SES Satellites (Gibraltar) Ltd | S2951 | SES-15 | GSO
SES Americom, Inc | S2964 | SES-11 | GSO
SES Americom, Inc | S3037 | NSS-11 | GSO
SES DTH do Brasil Ltda | S2974 | SES-14 | GSO
SES-17 S.a.r.l | S3043 | SES-17 | GSO
Telesat Brasil Capacidade de Satelites Ltda | S2821 | ESTRELA DO SUL 2 | GSO
Telesat Canada | S2674 | ANIK F1R | GSO
Telesat Canada | S2703 | ANIK F3 | GSO
Telesat Canada | S2745 | ANIK F1 | GSO
Telesat Canada | S2472 | ANIK F2 | GSO
Telesat International Ltd | S2955 | TELSTAR 19 VANTAGE | GSO
Viasat, Inc | S2902 | VIASAT-2 | GSO

Space Stations (Geostationary Orbit): Non-U.S.-Licensed Space Stations—Market Access Through Earth Station Licenses
ITU or operator name (if available) | Call sign | Common name | Type
APSTAR VI | M292090 | APSTAR 6 | GSO
AUSSAT B 152E | M221170 | OPTUS D2 | GSO
Ciel Satellite Group | E050029 | Ciel-2 | GSO
Ciel Satellite Group | E140100 | Ciel-6i | GSO
QuetzSat, S.de R.L. de C.V | E090020 | Quetzsat-1 | GSO
Eutelsat 65 West A | E160081 | Eutelsat 65 West A | GSO
INMARSAT 4F1 | KA25 | INMARSAT 4F1 | GSO
INMARSAT 5F2 | E120072 | INMARSAT 5F2 | GSO
INMARSAT 5F3 | E150028 | INMARSAT 5F3 | GSO
JCSAT-2B | M174163 | JCSAT-2B | GSO
JCSAT-5A | E010016 | JCSAT-5A | GSO
NIMIQ 5 | E080107 | NIMIQ 5 | GSO
WILDBLUE-1 | E040213 | WILDBLUE-1 | GSO

Space Stations (per License/Call Sign in Non-Geostationary Orbit)
[Small satellite]
Licensee/grantee | Call sign | Satellite name | Type
Aethero Space Inc | S3189 | Deimos | Small Satellite.
Capella Space Corp | S3162 | Acadia-1 | Small Satellite.
Capella Space Corp | S3137 | Capella-9, Capella-10 | Small Satellite.
ICEYE US, Inc | S3082 | ICEYE | Small Satellite.
ICEYE US, Inc | S3165 | ICEYE Second Tranche | Small Satellite.
Launcher, Inc | S3161 | Orbiter SN3 | Small Satellite.
Loft Orbital Solutions Inc | S3072 | YAM-3 | Small Satellite.
Loft Orbital Solutions Inc | S3147 | YAM-5 | Small Satellite.
Loft Orbital Solutions, Inc | S3170 | YAM-6 | Small Satellite.
Loft Orbital Solutions, Inc | S3184 | YAM-7 | Small Satellite.
Lynk Global, Inc | S3087 | Lynk Towers | Small Satellite.
Momentus Space, LLC | S3144 | VIGORIDE-5 | OTV.
Momentus Space, LLC | S3154 | VIGORIDE-6 | OTV.
Odyssey SpaceWorks | S3176 | OSW Cazorla | Small Satellite.
Quantum Space LLC | S3179 | Quantum Sentry | Small Satellite.
R2 Space, Inc | S3067 | XR-1 | Small Satellite.
Space Logistics, LLC | S2990 | Mission Extension Vehicle-1 | RPO/OOS.
Space Logistics, LLC | S3059 | Mission Extension Vehicle-2 | RPO/OOS.
Space Sciences & Engineering LLC | S3153 | GNOMES-4 | Small Satellite.
Space Sciences & Engineering LLC | S3185 | GNOMES-5 | Small Satellite
Turion Space Corp | S3146 | DROID.001 | Small Satellite.
Umbra Lab Inc | S3095 | Umbra SAR | Small Satellite.
Umbra Lab Inc | S3168 | Umbra Block Two SAR Constellation | Small Satellite.
Umbra Lab Inc | S3186 | Umbra Block 2.1 SAR Constellation | Small Satellite.

Space Stations (Non-Geostationary Orbit)—Less Complex
Licensee/grantee | Call sign | Satellite/system name | Type (authorized stations)
Astro Digital U.S., Inc | S3014 | Landmapper-BC | Less Complex (5).
BlackSky Global, LLC | S3032 | Global | Less Complex (16).
Capella Space Corp | S3178 | Acadia-3, Acadia-4, Acadia-5, Acadia-6 | Less Complex (4).
Hawkeye 360 | S3042 | HE360 | Less Complex (174).
Maxar License, Inc., DG Consents Sub, Inc | S2129/S2348 | WorldView 1, 2 & 3, GeoEye-1, Worldview Legion | Less Complex (15).
MethaneSAT, LLC | S3160 | MethaneSat-1 | Less Complex (1).
Muon Space, Inc | S3173 | MuSat-2, MuSat-3 | Less Complex (2).
Orbital Sidekick, Inc | S3139 | GHOSt | Less Complex (6).
Planet Labs PBC | S2912/S3152 | Flock/Skysats/ Tanager | Less Complex (576).
Sidus Space, Inc | S3175 | LizzieSat-2, LizzieSat-3, LizzieSat-4, LizzieSat-5 | Less Complex (4).
Spire Global, Inc | S2946/S3045/S3182 | LEMUR & MINAS & HUBBLE | Less Complex (636).
The Tomorrow Companies, Inc | S3156 | Tomorrow.io Weather Constellation | Less Complex (4).

Space Stations (Non-Geostationary Orbit)—Other
Licensee/grantee | Call sign | Satellite/ system name | Type (authorized stations)
AST & Science, LLC | S3065 | Bluebird Block 1 | Other (5).
Globalstar License LLC | S2115 | GLOBALSTAR | Other (96).
Iridium Constellation LLC | S2110 | IRIDIUM | Other (99).
Kepler Communications, Inc | S2981 | KEPLER | Other (140).
Kineis | S3054 | KINEIS | Other (25).
Kuiper Systems LLC | S3051 | KUIPER | Other (3,232).
Myriota Pty. Ltd | S3047 | MYRIOTA | Other (26).
O3b Limited | S2935 | O3b | Other (42).
ORBCOMM License Corp | S2103 | ORBCOMM | Other (72).
Space Exploration Holdings, LLC | S2983/S3018/ S2992/S3069 | SPACEX/Ku-/Ka-/V-band/Gen 2 | Other (11,908).
Space Norway AS | S2978 | ARCTIC SATELLITE BROADBAND MISSION | Other (2).
Swarm Technologies, Inc | S3041 | SWARM | Other (150).
Telesat LEO Inc | S2976 | TELESAT Ku/Ka-Band | Other (117).
Theia Holdings A, Inc | S2986 | THEIA | Other (112).
WorldVu Satellites Ltd. | S2963/S2994 | ONEWEB Ku-/Ka-/V-BAND | Other (2,000).
Viasat, Inc | S2985 | ViaSat—NGSO | Other (20).

Table B—FY 2025 Space and Earth Station Regulatory Fees Calculations if Proposals To Amend the Existing Fee Methodology Are Adopted and Effective

The following chart provides an analysis of potential regulatory fees for space and earth stations for FY 2025 assuming the proposal to amend the existing methodology by creating tiers of “small” and “large” constellations within the NGSO space station “other” fee category, as described in the Space and Earth Station Regulatory Fees Further Notice of Proposed Rulemaking, is adopted and effective for FY 2025. This proposal includes the creation of new fee categories for Large and Small Constellations in the NGSO “other” category and assessment of fees on authorized, not just operational, space stations. It assumes the same number of earth station payors in FY 2025 as there were in FY 2024 (2900 units). It does not incorporate the proposals included in the alternative methodology.

A | FY 2025 S&E Appropriation | $390,192,000
B | FY 2025 Space Bureau Percent of Direct FTEs | 11.50%
C | Space Bureau Collection Requirement (A*B) | $44,872,080
D | Earth Station Share of Collection (18.37%) (C*18.37%) ($44,872,080 * 18.37% = $8,243,001) | $8,243,001
E | Earth Station Per Unit Fee (D/No. of Units of Earth Stations) ($8,243,001/2,900 = $2,842) | * $2,840
F | Space Station Share of Collection (C−D) ($44,872,080−$8,243,001 = $36,629,079) | $36,629,079
G | GSO Share of Space Station Share (60%) (F * 60%) ($36,629,079 * 60% = $21,977,447) | $21,977,447
H | GSO Per Unit Fee (G/No. of Authorized GSO Space Stations in FY2025) Table A above estimates 161 authorized GSO space stations, as of October 1, 2024. ($21,977,447/161 = $136,506 | $136,505 *
I | NGSO Share of Space Station Share (40%) (F*40%) ($36,629,079 * 40% = $14,651,632) | $14,651,632
J | Small Satellite Share of Space Station Collection ($12,330*No. of Units of Small Satellites Authorized in FY2025) Table A above estimates 24 authorized small satellite licenses, as of October 1, 2024, at $12,330 per unit | $295,920
K | Remaining Less Complex Share of NGSO Share ((I*NGSO Less Complex Share of NGSO Fees (20%))−(J*NGSO Less Complex Share of NGSO Fees (20%)) (($14,651,632 * 20%)−($295,920 * 20% = $59,184) = $2,871,142) | $2,871,142
L | NGSO Less Complex Per Unit Fee (K/No. of Units of Authorized NGSO Less Complex Space Stations Systems in FY2025) Table A above estimates 12 authorized NGSO space station systems that fall within the “less complex” category, as of October 1, 2024 | $239,260 *
M | Remaining NGSO Other Share of NGSO Share (80%)((I*NGSO Other Share of NGSO Fees (80%))−(J*NGSO Other Share of NGSO Fees (80%)) (($14,651,632 * 80%)−($295,920 * 80%) = $11,484,569) | $11,484,569
N | Small Constellation Share of NGSO Other Share (50%) (M*50%) ($11,484,569 * 50% = $5,742,285) | $5,742,285
O | Small Constellation Per Unit Fee (N/No. of Units of Authorized Small Constellations in FY2025) The number of NGSO space stations systems that do not pay regulatory fees using either the Small Satellite or NGSO Less Complex category, is derived from the Space Bureau's Approved Space Station List, as of October 1, 2024, and licensing records obtained via ICFS, which are summarized in Table A above. There are 16 such NGSO authorized systems. Of these, 13 systems have 500 or fewer authorized space stations, and 13 systems have 1,000 or fewer authorized space stations. ($5,742,285/13 = $441,715) | Using 500 satellites as dividing line $441,715 * | Using 1000 satellites as dividing line $441,715.*
P | Large Constellation Share of NGSO Other Share (50%) (M*50%) ($11,484,569 * 50% = $5,742,284) | $5,742,285
Q | Large Constellation Per Unit Fee (P/No. of Units of Authorized Large Constellations in FY2025) The number of NGSO space stations systems that do not pay regulatory fees using either the Small Satellite or NGSO Less Complex category, is derived from the Space Bureau's Approved Space Station List, as of October 1, 2024, and licensing records obtained via ICFS, which are also summarized in in Table A above. There are 3 such NGSO authorized systems with more than 500 authorized space stations, and 3 systems with more than 1000 authorized space stations. ($5,742,285/3 = $1,914,095) | Using 500 satellites as dividing line $1,914,095 * | Using 1000 satellites as dividing line $1,914,095.*

Table C—FY 2025 Space and Earth Station Regulatory Fees Calculated if the Proposed Alternative Fee Methodology is Adopted and Effective

The following chart provides an analysis of potential regulatory fees for space and earth stations for FY 2025 assuming the alternative fee methodology, as described in the Space and Earth Station Regulatory Fees Further Notice of Proposed Rulemaking, is adopted and effective for FY 2025. This proposal includes the assessment of fees on authorized, not just operational, space stations. It assumes the same number of earth station payors in FY 2025 as there were in FY 2024 (2900 units).

A | FY 2025 S&E Appropriation | $390,192,000
B | FY 2025 Space Bureau Percent of Direct FTEs | 11.50%
C | Space Bureau Collection Requirement (A*B) | $44,872,080
D | Earth Station Share of Collection (18.37%) (C*18.37%) | $8,243,001
E | Earth Station Per Unit Fee (D/No. of Units of Earth Stations) ($8,243,001/2900 = $2,842) | $2,840 *
F | Space Station Share of Collection (C−D) | $36,629,079
G | Small Satellite Share of Space Station Collection ($12,330 * No. of Authorized Small Satellites Authorized in FY2025) The Space Bureau's Approved Space Station List, as of October 1, 2024, shows 24 authorized small satellite licenses, which results in 24 units at $12,330 per unit using FY 2024 fee rates | $295,920.
H | Remaining Space Station Share of Collection (F−G) | $36,333,159
I | Number of Initial Space Station Units: Table A above estimates 161 authorized GSO space stations, as of October 1, 2024. The number of initial units of NGSO space stations systems, consisting of systems up to 100 authorized space stations that do not pay regulatory fees using the Small Satellite category, is derived from the Space Bureau's Approved Space Station List, as of October 1, 2024, and licensing records obtained via ICFS, which are also summarized in the table below. There are an estimated 28 such NGSO authorized systems. Each counts towards a single initial unit | 189 (161 GSO + 28 NGSO)
J | Number of Additional Space Station Units: NGSO: The number of additional units of NGSO space stations is derived from the Space Bureau's Approved Space Station List, as of October 1, 2024, and licensing records obtained via ICFS, which are also provided in the table below. Each additional unit includes a unit for authorized space station from 101-500, and per each additional 500 authorized space stations after 500 (i.e., 101-500 = 1 unit; 501-1000 = 1 unit; 1001-1500 = 1 unit, etc.). Calculations are provided using this methodology for both 500 and 1000 additional space stations increments. | Using per 500 additional NGSO space stations: 44 | Using per 1000 additional NGSO space stations: 25.
K | Total Units (I + J) | 233 | 214
L | Per Unit Space Station Regulatory Fee (H/K) | Using per unit of 500 additional NGSO space stations: $155,935 * | Using per unit of 1000 additional NGSO space stations: $169,780.*
* Fee amounts are rounded to the nearest 5 digits.

Authorized NGSO Space Stations
[Excluding small satellites and RPO/OOS/OTV]
| Name | Call sign | Number of authorized space stations | Number of units assessed (500 tier) | Number of units assessed (1,000 tier)
1 | AST&Science | S3065 | 5 | 1 | 1
2 | Astro Digital U.S., Inc | S3014 | 5 | 1 | 1
3 | BlackSky Global, LLC | S3032 | 16 | 1 | 1
4 | Capella Space Corp | S3178 (Acadia 3, 4, 5, 6) | 4 | 1 | 1
5 | Globalstar License LLC | S2115 | 96 | 1 | 1
6 | HawkEye 360, Inc | S3042 | 174 | 2 | 2
7 | Iridium Constellation LLC | S2110 | 99 | 1 | 1
8 | Kepler Communications Inc | S2981 | 140 | 2 | 2
9 | Kinéis | S3054 | 25 | 1 | 1
10 | Kuiper Systems LLC | S3051 | 3,232 | 8 | 5
11 | Maxar License Inc., DG Consents Sub, Inc | S2129/S2348 | 15 | 1 | 1
12 | MethaneSAT, LLC | S3160 | 1 | 1 | 1
13 | Muon Space, Inc | S3173 | 2 | 1 | 1
14 | Myriota Pty. Ltd | S3047 | 26 | 1 | 1
15 | O3b Limited | S2935 | 42 | 1 | 1
16 | ORBCOMM License Corp | S2103 | 72 | 1 | 1
17 | Orbital Sidekick, Inc | S3139 | 6 | 1 | 1
18 | Planet Labs PBC | S2912 | 576 | 3 | 2
19 | Sidus Space, Inc | S3175 (LizzieSat-2,3,4,5) | 4 | 1 | 1
20 | Space Exploration Holdings, LLC | S2983/S3018/S2992/S3069 | 11,908 | 25 | 13
21 | Space Norway AS | S2978 | 2 | 1 | 1
22 | Spire Global, Inc | S2946/S3045/S3182 | 636 | 3 | 2
23 | Swarm Technologies, Inc | S3041 | 150 | 2 | 2
24 | Telesat LEO Inc | S2976 | 117 | 2 | 2
25 | Theia Holdings A, Inc | S2986 | 112 | 2 | 2
26 | Tomorrow Companies Inc | S3156 | 4 | 1 | 1
27 | ViaSat, Inc | S2985 | 20 | 1 | 1
28 | WorldVu Satellites Limited | S2963/S2994 | 2,000 | 5 | 3
| Total NGSO Units |  |  | 72 | 53

Table 8—FY 2025 Full-Service Broadcast Television Stations by Call Sign
Facility Id. | Call sign | Service area population | Terrain limited population | Terrain limited fee amount
3246 | KAAH-TV | 1,018,897 | 939,246 | $5,991
18285 | KAAL | 605,222 | 580,564 | 3,703
11912 | KAAS-TV | 243,984 | 243,947 | 1,556
56528 | KABB | 3,017,860 | 3,000,477 | 19,140
282 | KABC-TV | 18,303,336 | 17,670,502 | 112,720
1236 | KACV-TV | 383,228 | 383,071 | 2,444
33261 | KADN-TV | 889,583 | 889,583 | 5,675
8263 | KAEF-TV | 139,510 | 124,133 | 792
2728 | KAET | 4,867,739 | 4,836,434 | 30,852
2767 | KAFT | 1,294,492 | 1,218,670 | 7,774
62442 | KAID | 864,547 | 857,276 | 5,469
4145 | KAII-TV | 203,698 | 179,435 | 1,145
67494 | KAIL | 2,091,288 | 2,061,175 | 13,148
13988 | KAIT | 594,090 | 583,749 | 3,724
40517 | KAJB | 393,654 | 393,355 | 2,509
65522 | KAKE | 821,488 | 816,811 | 5,210
804 | KAKM | 397,237 | 395,241 | 2,521
148 | KAKW-DT | 3,350,876 | 3,242,159 | 20,682
51598 | KALB-TV | 933,915 | 932,500 | 5,948
51241 | KALO | 1,018,088 | 971,631 | 6,198
40820 | KAMC | 411,973 | 411,949 | 2,628
8523 | KAMR-TV | 377,485 | 377,410 | 2,407
65301 | KAMU-TV | 395,784 | 392,044 | 2,501
2506 | KAPP | 337,194 | 298,159 | 1,902
3658 | KARD | 680,743 | 678,724 | 4,330
23079 | KARE | 4,243,145 | 4,234,439 | 27,011
33440 | KARK-TV | 1,243,813 | 1,230,366 | 7,849
37005 | KARZ-TV | 1,153,588 | 1,134,221 | 7,235
32311 | KASA-TV | 1,198,361 | 1,159,350 | 7,395
41212 | KASN | 1,200,705 | 1,185,725 | 7,564
7143 | KASW | 4,828,272 | 4,813,078 | 30,703
55049 | KASY-TV | 1,182,887 | 1,143,258 | 7,293
33471 | KATC | 1,376,057 | 1,376,057 | 8,778
13813 | KATN | 95,520 | 95,197 | 607
21649 | KATU | 3,400,708 | 3,238,560 | 20,659
33543 | KATV | 1,285,451 | 1,265,986 | 8,076
50182 | KAUT-TV | 1,810,654 | 1,809,428 | 11,542
21488 | KAUU | 398,876 | 396,486 | 2,529
6864 | KAUZ-TV | 366,943 | 365,162 | 2,329
73101 | KAVU-TV | 323,202 | 322,961 | 2,060
49579 | KAWB | 193,767 | 193,705 | 1,236
49578 | KAWE | 139,854 | 137,788 | 879
58684 | KAYU-TV | 925,282 | 861,276 | 5,494
29234 | KAZA-TV | 15,481,136 | 14,233,993 | 90,799
17433 | KAZD | 8,087,952 | 8,085,339 | 51,576
776273 | KAZF | 253,785 | 188,057 | 1,200
1151 | KAZQ | 1,137,703 | 1,126,947 | 7,189
776268 | KAZS | 396,796 | 390,474 | 2,491
35811 | KAZT-TV | 495,353 | 409,112 | 2,610
4148 | KBAK-TV | 1,626,532 | 1,363,867 | 8,700
16940 | KBCA | 465,218 | 465,157 | 2,967
53586 | KBCB | 1,510,168 | 1,478,647 | 9,432
22685 | KBDI-TV | 4,731,715 | 4,335,180 | 27,654
65395 | KBFD-DT | 1,016,508 | 887,671 | 5,662
169030 | KBGS-TV | 176,271 | 173,911 | 1,109
61068 | KBHE-TV | 153,390 | 144,914 | 924
48556 | KBIM-TV | 226,233 | 226,194 | 1,443
29108 | KBIN-TV | 1,014,918 | 1,013,041 | 6,462
33658 | KBJR-TV | 278,564 | 274,572 | 1,751
83306 | KBLN-TV | 322,286 | 145,745 | 930
63768 | KBLR | 2,280,730 | 2,220,879 | 14,167
53324 | KBME-TV | 146,149 | 146,082 | 932
10150 | KBMT | 799,217 | 798,262 | 5,092
22121 | KBMY | 142,682 | 142,622 | 910
49760 | KBOI-TV | 872,030 | 863,497 | 5,508
55370 | KBRR | 154,408 | 154,405 | 985
66414 | KBSD-DT | 151,986 | 151,901 | 969
66415 | KBSH-DT | 97,884 | 95,916 | 612
19593 | KBSI | 730,259 | 728,325 | 4,646
66416 | KBSL-DT | 47,462 | 46,328 | 296
4939 | KBSV | 1,535,281 | 1,424,913 | 9,090
62469 | KBTC-TV | 4,319,699 | 4,228,861 | 26,976
61214 | KBTV-TV | 771,692 | 771,692 | 4,923
6669 | KBTX-TV | 5,354,551 | 5,351,089 | 34,135
35909 | KBVO | 1,911,833 | 1,684,206 | 10,744
58618 | KBVU | 136,908 | 121,846 | 777
6823 | KBYU-TV | 2,838,181 | 2,620,447 | 16,716
33756 | KBZK | 156,388 | 139,258 | 888
21422 | KCAL-TV | 18,258,912 | 17,586,821 | 112,186
11265 | KCAU-TV | 769,096 | 754,352 | 4,812
14867 | KCBA | 3,334,176 | 2,557,080 | 16,312
27507 | KCBD | 433,372 | 432,694 | 2,760
9628 | KCBS-TV | 18,628,137 | 17,359,665 | 110,737
49750 | KCBY-TV | 92,825 | 77,624 | 495
33710 | KCCI | 1,216,146 | 1,209,219 | 7,714
9640 | KCCW-TV | 294,831 | 287,246 | 1,832
63158 | KCDO-TV | 3,305,368 | 3,160,730 | 20,162
62424 | KCDT | 807,726 | 762,258 | 4,862
83913 | KCEB | 446,377 | 445,850 | 2,844
57219 | KCEC | 4,497,531 | 4,237,580 | 27,032
10245 | KCEN-TV | 2,224,490 | 2,174,193 | 13,869
13058 | KCET | 17,868,933 | 16,310,676 | 104,046
18079 | KCFW-TV | 196,292 | 157,001 | 1,002
132606 | KCGE | 129,876 | 129,876 | 828
60793 | KCHF | 1,157,628 | 1,127,207 | 7,190
33722 | KCIT | 392,243 | 391,646 | 2,498
62468 | KCKA | 1,082,723 | 906,771 | 5,784
41969 | KCLO-TV | 150,949 | 145,392 | 927
47903 | KCNC-TV | 4,460,509 | 4,175,114 | 26,633
71586 | KCNS | 9,007,762 | 8,012,556 | 51,112
33742 | KCOP-TV | 18,134,022 | 17,318,605 | 110,475
19117 | KCOS | 1,092,982 | 1,092,792 | 6,971
63165 | KCOY-TV | 700,154 | 478,768 | 3,054
33894 | KCPQ | 5,131,164 | 4,985,829 | 31,805
53843 | KCPT | 2,690,171 | 2,688,808 | 17,152
33875 | KCRA-TV | 11,608,107 | 7,153,845 | 45,634
9719 | KCRG-TV | 981,965 | 971,818 | 6,199
60728 | KCSD-TV | 323,237 | 323,093 | 2,061
59494 | KCSG | 229,899 | 220,818 | 1,409
33749 | KCTS-TV | 4,848,434 | 4,778,758 | 30,484
41230 | KCTV | 2,732,197 | 2,730,443 | 17,417
58605 | KCVU | 700,745 | 689,702 | 4,400
10036 | KCWC-DT | 42,872 | 38,501 | 246
64444 | KCWE | 2,642,880 | 2,641,432 | 16,850
51502 | KCWI-TV | 1,152,163 | 1,151,070 | 7,343
42008 | KCWO-TV | 55,411 | 55,383 | 353
166511 | KCWV | 210,633 | 210,626 | 1,344
24316 | KCWX | 4,947,756 | 4,941,660 | 31,523
68713 | KCWY-DT | 85,085 | 84,715 | 540
22201 | KDAF | 7,951,276 | 7,949,040 | 50,707
33764 | KDBC-TV | 1,101,513 | 1,097,028 | 6,998
79258 | KDCK | 43,010 | 42,993 | 274
166332 | KDCU-DT | 773,823 | 773,808 | 4,936
38375 | KDEN-TV | 3,973,266 | 3,942,210 | 25,147
17037 | KDFI | 7,990,955 | 7,989,287 | 50,964
33770 | KDFW | 7,962,141 | 7,959,855 | 50,776
29102 | KDIN-TV | 1,193,740 | 1,189,191 | 7,586
25454 | KDKA-TV | 3,569,162 | 3,428,192 | 21,868
60740 | KDKF | 73,619 | 66,137 | 422
4691 | KDLH | 267,326 | 264,686 | 1,688
41975 | KDLO-TV | 214,024 | 213,819 | 1,364
55379 | KDLT-TV | 700,230 | 689,305 | 4,397
55375 | KDLV-TV | 98,101 | 97,673 | 623
25221 | KDMD | 394,250 | 391,278 | 2,496
78915 | KDMI | 1,248,443 | 1,247,337 | 7,957
56524 | KDNL-TV | 3,013,924 | 3,009,244 | 19,196
24518 | KDOC-TV | 18,264,021 | 17,379,123 | 110,861
1005 | KDOR-TV | 1,180,603 | 1,177,894 | 7,514
60736 | KDRV | 551,809 | 469,537 | 2,995
61064 | KDSD-TV | 65,355 | 60,171 | 384
53329 | KDSE | 52,777 | 51,188 | 327
56527 | KDSM-TV | 1,202,702 | 1,201,866 | 7,667
49326 | KDTN | 7,901,133 | 7,898,922 | 50,387
83491 | KDTP | 25,965 | 23,729 | 151
33778 | KDTV-DT | 8,697,794 | 7,750,134 | 49,438
67910 | KDTX-TV | 7,985,188 | 7,983,676 | 50,928
126 | KDVR | 4,301,541 | 4,144,268 | 26,436
18084 | KECI-TV | 228,161 | 210,560 | 1,343
51208 | KECY-TV | 407,175 | 403,848 | 2,576
58408 | KEDT | 527,343 | 527,343 | 3,364
55435 | KEET | 181,333 | 161,389 | 1,030
41983 | KELO-TV | 767,130 | 715,437 | 4,564
34440 | KEMO-TV | 9,007,762 | 8,012,556 | 51,112
776162 | KEMS | 55,920 | 54,847 | 350
2777 | KEMV | 634,060 | 576,758 | 3,679
26304 | KENS | 3,091,086 | 3,077,749 | 19,633
63845 | KENV-DT | 52,294 | 45,932 | 293
18338 | KENW | 85,762 | 85,762 | 547
50591 | KEPB-TV | 631,758 | 574,973 | 3,668
56029 | KEPR-TV | 529,602 | 519,486 | 3,314
49324 | KERA-TV | 7,984,381 | 7,981,440 | 50,914
40878 | KERO-TV | 1,387,245 | 1,257,683 | 8,023
61067 | KESD-TV | 172,302 | 165,214 | 1,054
25577 | KESQ-TV | 1,487,393 | 615,803 | 3,928
50205 | KETA-TV | 1,874,445 | 1,860,161 | 11,866
62182 | KETC | 2,945,200 | 2,942,622 | 18,771
37101 | KETD | 3,918,776 | 3,879,692 | 24,749
2768 | KETG | 421,357 | 403,179 | 2,572
12895 | KETH-TV | 7,296,694 | 7,296,428 | 46,544
55643 | KETK-TV | 1,072,485 | 1,071,097 | 6,833
2770 | KETS | 1,209,518 | 1,191,713 | 7,602
53903 | KETV | 1,491,674 | 1,486,408 | 9,482
92872 | KETZ | 505,102 | 502,310 | 3,204
68853 | KEYC-TV | 553,554 | 539,853 | 3,444
33691 | KEYE-TV | 3,533,479 | 3,444,549 | 21,973
60637 | KEYT-TV | 1,466,777 | 1,275,243 | 8,135
83715 | KEYU | 366,142 | 366,071 | 2,335
34406 | KEZI | 1,221,893 | 1,166,907 | 7,444
73701 | KFAA-TV | 7,987,157 | 7,983,918 | 50,929
34412 | KFBB-TV | 96,782 | 95,488 | 609
125 | KFCT | 967,548 | 960,099 | 6,124
51466 | KFDA-TV | 394,744 | 393,695 | 2,511
22589 | KFDM | 770,621 | 770,609 | 4,916
48521 | KFDR | 672,350 | 657,307 | 4,193
65370 | KFDX-TV | 367,320 | 366,583 | 2,338
49264 | KFFV | 4,674,758 | 4,634,964 | 29,566
12729 | KFFX-TV | 467,787 | 463,006 | 2,954
83992 | KFJX | 709,125 | 679,797 | 4,336
42122 | KFMB-TV | 4,239,135 | 3,914,207 | 24,969
53321 | KFME | 442,176 | 441,664 | 2,817
74256 | KFNB | 84,543 | 83,990 | 536
21613 | KFNE | 53,059 | 52,392 | 334
21612 | KFNR | 9,724 | 9,457 | 60
66222 | KFOR-TV | 1,789,693 | 1,789,342 | 11,414
33716 | KFOX-TV | 1,107,424 | 1,097,251 | 6,999
41517 | KFPH-DT | 385,474 | 313,720 | 2,001
81509 | KFPX-TV | 1,072,290 | 1,072,222 | 6,840
31597 | KFQX | 197,918 | 173,495 | 1,107
59013 | KFRE-TV | 1,850,426 | 1,835,478 | 11,709
51429 | KFSF-DT | 7,986,866 | 7,039,241 | 44,903
66469 | KFSM-TV | 1,003,012 | 978,896 | 6,244
8620 | KFSN-TV | 1,973,837 | 1,957,017 | 12,484
29560 | KFTA-TV | 907,937 | 894,593 | 5,707
83714 | KFTC | 64,284 | 64,250 | 410
60537 | KFTH-DT | 7,287,908 | 7,287,530 | 46,487
60549 | KFTR-DT | 18,326,526 | 16,971,273 | 108,260
61335 | KFTS | 77,847 | 66,866 | 427
81441 | KFTU-DT | 109,271 | 105,476 | 673
34439 | KFTV-DT | 1,930,415 | 1,914,464 | 12,212
664 | KFVE | 91,164 | 81,417 | 519
592 | KFVS-TV | 867,835 | 847,638 | 5,407
29015 | KFWD | 7,970,373 | 7,964,229 | 50,804
35336 | KFXA | 914,357 | 912,893 | 5,823
17625 | KFXB-TV | 377,548 | 370,365 | 2,363
70917 | KFXK-TV | 969,012 | 966,868 | 6,168
84453 | KFXL-TV | 977,327 | 976,428 | 6,229
56079 | KFXV | 1,335,643 | 1,335,643 | 8,520
41427 | KFYR-TV | 153,218 | 150,858 | 962
25685 | KGAN | 1,121,266 | 1,109,006 | 7,074
34457 | KGBT-TV | 1,350,104 | 1,350,004 | 8,612
7841 | KGCW | 938,174 | 935,835 | 5,970
24485 | KGEB | 1,257,918 | 1,224,797 | 7,813
34459 | KGET-TV | 982,744 | 940,071 | 5,997
53320 | KGFE | 120,164 | 120,164 | 767
7894 | KGIN | 235,875 | 233,749 | 1,491
83945 | KGLA-DT | 1,754,806 | 1,754,806 | 11,194
34445 | KGMB | 1,016,756 | 907,381 | 5,788
58608 | KGMC | 2,076,523 | 2,052,808 | 13,095
36914 | KGMD-TV | 101,247 | 100,762 | 643
36920 | KGMV | 209,577 | 175,904 | 1,122
10061 | KGNS-TV | 283,777 | 274,877 | 1,753
34470 | KGO-TV | 9,406,080 | 8,630,291 | 55,053
56034 | KGPE | 1,829,902 | 1,812,936 | 11,565
81694 | KGPX-TV | 792,059 | 724,592 | 4,622
25511 | KGTF | 155,729 | 154,491 | 985
40876 | KGTV | 4,257,568 | 3,912,037 | 24,955
36918 | KGUN-TV | 1,479,221 | 1,292,183 | 8,243
34874 | KGW | 3,397,112 | 3,239,730 | 20,666
63177 | KGWC-TV | 84,597 | 84,117 | 537
63162 | KGWL-TV | 37,314 | 37,199 | 237
63166 | KGWN-TV | 558,685 | 528,237 | 3,370
63170 | KGWR-TV | 49,435 | 49,242 | 314
4146 | KHAW-TV | 102,381 | 101,946 | 650
60353 | KHBS | 610,455 | 588,263 | 3,753
27300 | KHCE-TV | 2,848,289 | 2,842,696 | 18,134
26431 | KHET | 1,022,459 | 1,009,772 | 6,441
21160 | KHGI-TV | 245,331 | 244,515 | 1,560
36917 | KHII-TV | 1,017,217 | 907,842 | 5,791
29085 | KHIN | 1,137,059 | 1,135,866 | 7,246
17688 | KHME | 196,002 | 194,233 | 1,239
47670 | KHMT | 193,159 | 188,714 | 1,204
47987 | KHNE-TV | 205,833 | 204,923 | 1,307
34867 | KHNL | 1,016,725 | 907,350 | 5,788
60354 | KHOG-TV | 862,177 | 797,810 | 5,089
4144 | KHON-TV | 1,016,508 | 944,271 | 6,024
34529 | KHOU | 7,289,635 | 7,287,991 | 46,490
4690 | KHQA-TV | 308,541 | 308,333 | 1,967
34537 | KHQ-TV | 938,773 | 887,184 | 5,659
30601 | KHRR | 1,298,625 | 1,241,818 | 7,922
34348 | KHSD-TV | 203,077 | 199,032 | 1,270
24508 | KHSL-TV | 634,956 | 615,388 | 3,926
69677 | KHSV | 2,384,812 | 2,343,597 | 14,950
64544 | KHVO | 101,138 | 99,980 | 638
23394 | KIAH | 7,307,171 | 7,306,816 | 46,610
34564 | KICU-TV | 8,992,796 | 7,837,235 | 49,994
56028 | KIDK | 351,335 | 348,794 | 2,225
58560 | KIDY | 126,096 | 126,079 | 804
53382 | KIEM-TV | 177,885 | 166,501 | 1,062
66258 | KIFI-TV | 360,684 | 357,711 | 2,282
16950 | KIFR | 2,356,175 | 2,330,021 | 14,863
10188 | KIII | 580,363 | 577,602 | 3,685
29095 | KIIN | 1,405,103 | 1,375,871 | 8,777
34527 | KIKU | 1,017,227 | 920,837 | 5,874
63865 | KILM | 18,009,859 | 16,478,550 | 105,117
56033 | KIMA-TV | 325,241 | 275,599 | 1,758
66402 | KIMT | 671,281 | 662,859 | 4,228
67089 | KINC | 2,320,873 | 2,230,933 | 14,231
34847 | KING-TV | 4,735,386 | 4,686,752 | 29,897
51708 | KINT-TV | 1,093,579 | 1,093,227 | 6,974
26249 | KION-TV | 2,602,418 | 906,539 | 5,783
62427 | KIPT | 190,856 | 189,839 | 1,211
66781 | KIRO-TV | 4,715,994 | 4,685,383 | 29,888
62430 | KISU-TV | 358,145 | 353,319 | 2,254
12896 | KITU-TV | 749,934 | 749,934 | 4,784
64548 | KITV | 1,016,508 | 890,101 | 5,678
59255 | KIVI-TV | 864,257 | 856,996 | 5,467
47285 | KIXE-TV | 484,629 | 444,405 | 2,835
13792 | KJJC-TV | 85,813 | 84,995 | 542
14000 | KJLA | 18,725,198 | 17,464,578 | 111,407
20015 | KJNP-TV | 96,266 | 96,001 | 612
53315 | KJRE | 15,414 | 15,394 | 98
59439 | KJRH-TV | 1,475,194 | 1,458,401 | 9,303
55364 | KJRR | 45,707 | 44,148 | 282
7675 | KJTL | 365,659 | 365,242 | 2,330
55031 | KJTV-TV | 426,315 | 426,302 | 2,719
13814 | KJUD | 32,087 | 31,083 | 198
36607 | KJZZ-TV | 2,837,622 | 2,620,561 | 16,717
776230 | KKAC | 128,739 | 128,719 | 821
776239 | KKAD | 55,004 | 54,083 | 345
83180 | KKAI | 1,016,756 | 995,859 | 6,353
58267 | KKAP | 1,002,980 | 967,770 | 6,173
24766 | KKCO | 252,558 | 223,619 | 1,426
776228 | KKEL | 8,625 | 8,430 | 54
35097 | KKJB | 780,452 | 775,264 | 4,945
22644 | KKPX-TV | 8,265,775 | 7,324,470 | 46,723
35037 | KKTV | 3,340,505 | 2,899,502 | 18,496
35042 | KLAS-TV | 2,421,827 | 2,256,225 | 14,392
52907 | KLAX-TV | 350,490 | 350,144 | 2,234
3660 | KLBK-TV | 409,551 | 409,512 | 2,612
65523 | KLBY | 29,875 | 29,852 | 190
38430 | KLCS | 17,868,933 | 16,310,676 | 104,046
77719 | KLCW-TV | 404,384 | 404,369 | 2,579
51479 | KLDO-TV | 267,717 | 267,717 | 1,708
37105 | KLEI | 149,648 | 122,977 | 784
56032 | KLEW-TV | 173,816 | 158,086 | 1,008
35059 | KLFY-TV | 1,380,417 | 1,379,775 | 8,802
54011 | KLJB | 1,003,676 | 992,763 | 6,333
11264 | KLKN | 1,295,353 | 1,249,913 | 7,973
52593 | KLML | 285,490 | 232,725 | 1,485
47975 | KLNE-TV | 124,206 | 124,134 | 792
38590 | KLPA-TV | 395,240 | 395,079 | 2,520
38588 | KLPB-TV | 749,224 | 749,224 | 4,779
749 | KLRN | 2,865,059 | 2,843,302 | 18,137
11951 | KLRT-TV | 1,206,848 | 1,187,015 | 7,572
8564 | KLRU | 3,404,331 | 3,364,831 | 21,464
8322 | KLSR-TV | 617,791 | 555,511 | 3,544
31114 | KLST | 205,611 | 176,862 | 1,128
24436 | KLTJ | 7,239,268 | 7,239,082 | 46,178
38587 | KLTL-TV | 438,847 | 438,847 | 2,799
38589 | KLTM-TV | 670,083 | 665,283 | 4,244
38591 | KLTS-TV | 930,704 | 927,650 | 5,917
68540 | KLTV | 1,125,646 | 1,108,403 | 7,071
12913 | KLUJ-TV | 1,304,523 | 1,304,523 | 8,322
57220 | KLUZ-TV | 1,122,002 | 1,061,683 | 6,772
11683 | KLVX | 2,368,176 | 2,246,495 | 14,330
82476 | KLWB | 1,066,369 | 1,066,248 | 6,802
40250 | KLWY | 652,057 | 648,301 | 4,136
64551 | KMAU | 230,508 | 205,410 | 1,310
51499 | KMAX-TV | 11,771,919 | 7,828,092 | 49,935
65686 | KMBC-TV | 2,690,459 | 2,688,812 | 17,152
35183 | KMCB | 77,018 | 70,797 | 452
41237 | KMCC | 2,384,330 | 2,325,062 | 14,832
42636 | KMCI-TV | 2,611,447 | 2,610,077 | 16,650
38584 | KMCT-TV | 270,862 | 270,855 | 1,728
22127 | KMCY | 80,761 | 80,722 | 515
162016 | KMDE | 34,041 | 34,035 | 217
26428 | KMEB | 239,702 | 216,916 | 1,384
39665 | KMEG | 763,806 | 758,839 | 4,841
35123 | KMEX-DT | 18,389,371 | 16,955,856 | 108,161
40875 | KMGH-TV | 4,484,612 | 4,211,082 | 26,862
35131 | KMID | 453,896 | 453,890 | 2,895
16749 | KMIR-TV | 3,014,399 | 805,795 | 5,140
63164 | KMIZ | 552,020 | 549,962 | 3,508
53541 | KMLM-DT | 358,819 | 358,819 | 2,289
52046 | KMLU | 685,717 | 681,660 | 4,348
47981 | KMNE-TV | 44,963 | 41,160 | 263
24753 | KMOH-TV | 217,161 | 202,513 | 1,292
4326 | KMOS-TV | 823,502 | 819,698 | 5,229
41425 | KMOT | 90,764 | 88,505 | 565
70034 | KMOV | 3,058,356 | 3,053,447 | 19,478
51488 | KMPH-TV | 1,871,826 | 1,831,011 | 11,680
44052 | KMSB | 1,390,772 | 1,081,454 | 6,899
68883 | KMSP-TV | 4,232,627 | 4,200,278 | 26,794
12525 | KMSS-TV | 1,047,384 | 1,044,317 | 6,662
43095 | KMTP-TV | 5,746,338 | 4,850,897 | 30,944
35189 | KMTR | 858,621 | 737,863 | 4,707
35190 | KMTV-TV | 1,482,627 | 1,481,213 | 9,449
77063 | KMTW | 782,241 | 782,233 | 4,990
35200 | KMVT | 203,865 | 194,642 | 1,242
32958 | KMVU-DT | 333,344 | 255,430 | 1,629
86534 | KMYA-DT | 181,750 | 181,710 | 1,159
51518 | KMYS | 2,695,906 | 2,689,444 | 17,156
54420 | KMYT-TV | 1,378,264 | 1,366,926 | 8,720
35822 | KMYU | 174,066 | 170,667 | 1,089
993 | KNAT-TV | 1,194,249 | 1,164,035 | 7,425
24749 | KNAZ-TV | 370,644 | 251,297 | 1,603
47906 | KNBC | 18,007,954 | 16,466,286 | 105,038
81464 | KNBN | 158,327 | 149,470 | 953
9754 | KNCT | 2,162,813 | 2,134,345 | 13,615
82611 | KNDB | 140,899 | 140,846 | 898
82615 | KNDM | 81,669 | 81,636 | 521
12395 | KNDO | 326,624 | 291,816 | 1,861
12427 | KNDU | 531,985 | 514,613 | 3,283
17683 | KNEP | 96,311 | 91,722 | 585
776145 | KNGF | 418,755 | 418,649 | 2,671
48003 | KNHL | 282,894 | 282,649 | 1,803
125710 | KNIC-DT | 2,916,877 | 2,900,176 | 18,500
59363 | KNIN-TV | 861,563 | 857,065 | 5,467
48525 | KNLC | 3,009,669 | 3,007,124 | 19,182
84215 | KNMD-TV | 1,175,472 | 1,147,431 | 7,319
55528 | KNME-TV | 1,185,928 | 1,145,659 | 7,308
47707 | KNMT | 3,242,939 | 3,141,420 | 20,039
48975 | KNOE-TV | 706,833 | 703,468 | 4,487
49273 | KNOP-TV | 84,998 | 83,626 | 533
10228 | KNPB | 687,138 | 528,128 | 3,369
55362 | KNRR | 24,339 | 24,315 | 155
35277 | KNSD | 4,176,531 | 3,908,916 | 24,935
19191 | KNSN-TV | 703,800 | 557,463 | 3,556
23302 | KNSO | 1,962,568 | 1,942,998 | 12,394
35280 | KNTV | 9,285,323 | 8,743,038 | 55,772
144 | KNVA | 3,326,171 | 3,285,676 | 20,959
33745 | KNVN | 497,887 | 470,307 | 3,000
69692 | KNVO | 1,359,785 | 1,359,785 | 8,674
29557 | KNWA-TV | 929,628 | 912,611 | 5,822
59440 | KNXV-TV | 4,836,838 | 4,826,028 | 30,785
59014 | KOAA-TV | 1,865,217 | 1,422,070 | 9,071
50588 | KOAB-TV | 254,424 | 250,749 | 1,600
50590 | KOAC-TV | 2,168,640 | 1,718,555 | 10,963
58552 | KOAM-TV | 822,738 | 789,385 | 5,035
53928 | KOAT-TV | 1,171,605 | 1,145,416 | 7,307
35313 | KOB | 1,189,849 | 1,152,270 | 7,350
35321 | KOBF | 198,225 | 163,241 | 1,041
8260 | KOBI | 595,619 | 551,251 | 3,516
62272 | KOBR | 227,347 | 226,868 | 1,447
50170 | KOCB | 1,803,171 | 1,802,139 | 11,496
4328 | KOCE-TV | 18,212,242 | 17,141,918 | 109,348
84225 | KOCM | 1,615,493 | 1,614,922 | 10,302
12508 | KOCO-TV | 1,890,246 | 1,881,152 | 12,000
83181 | KOCW | 80,292 | 80,262 | 512
18283 | KODE-TV | 789,082 | 781,251 | 4,984
66195 | KOED-TV | 1,555,369 | 1,523,164 | 9,716
50198 | KOET | 657,252 | 637,057 | 4,064
51189 | KOFY-TV | 5,746,338 | 4,850,897 | 30,944
34859 | KOGG | 206,000 | 173,034 | 1,104
166534 | KOHD | 248,737 | 244,163 | 1,558
35380 | KOIN | 3,398,786 | 3,237,691 | 20,653
35388 | KOKH-TV | 1,800,124 | 1,797,602 | 11,467
11910 | KOKI-TV | 1,428,477 | 1,415,308 | 9,028
48663 | KOLD-TV | 1,278,430 | 932,536 | 5,949
7890 | KOLN | 1,565,175 | 1,465,478 | 9,348
63331 | KOLO-TV | 1,045,027 | 912,343 | 5,820
28496 | KOLR | 1,111,540 | 1,075,340 | 6,860
21656 | KOMO-TV | 4,798,742 | 4,748,599 | 30,291
65583 | KOMU-TV | 560,878 | 559,926 | 3,572
776087 | KONC | 1,752,026 | 1,713,180 | 10,928
35396 | KONG | 4,651,055 | 4,627,490 | 29,519
60675 | KOOD | 107,949 | 107,840 | 688
50589 | KOPB-TV | 3,433,002 | 3,231,453 | 20,613
2566 | KOPX-TV | 1,674,969 | 1,674,820 | 10,684
64877 | KORO | 572,684 | 572,684 | 3,653
6865 | KOSA-TV | 412,004 | 408,993 | 2,609
34347 | KOTA-TV | 189,181 | 166,163 | 1,060
8284 | KOTI | 318,713 | 97,757 | 624
35434 | KOTV-DT | 1,476,322 | 1,464,332 | 9,341
56550 | KOVR | 11,787,731 | 7,857,430 | 50,123
51101 | KOZJ | 431,452 | 429,469 | 2,740
51102 | KOZK | 876,101 | 867,569 | 5,534
3659 | KOZL-TV | 1,026,947 | 999,396 | 6,375
35455 | KPAX-TV | 224,598 | 210,969 | 1,346
67868 | KPAZ-TV | 4,842,326 | 4,829,190 | 30,805
6124 | KPBS | 3,878,727 | 3,740,193 | 23,859
50044 | KPBT-TV | 405,749 | 405,749 | 2,588
77452 | KPCB-DT | 30,087 | 30,010 | 191
35460 | KPDX | 3,335,153 | 3,195,785 | 20,386
12524 | KPEJ-TV | 439,758 | 439,752 | 2,805
41223 | KPHO-TV | 4,847,036 | 4,823,456 | 30,769
61551 | KPIC | 162,187 | 108,923 | 695
86205 | KPIF | 294,133 | 287,132 | 1,832
25452 | KPIX-TV | 8,939,616 | 8,011,243 | 51,104
58912 | KPJK | 8,580,033 | 7,562,337 | 48,240
166510 | KPJR-TV | 3,994,308 | 3,966,833 | 25,304
13994 | KPLC | 1,433,578 | 1,431,830 | 9,134
41964 | KPLO-TV | 55,567 | 52,690 | 336
35417 | KPLR-TV | 3,020,349 | 3,017,559 | 19,249
12144 | KPMR | 1,305,956 | 1,148,984 | 7,329
47973 | KPNE-TV | 89,112 | 84,360 | 538
35486 | KPNX | 4,833,873 | 4,829,331 | 30,806
77512 | KPNZ | 2,843,405 | 2,620,343 | 16,715
73998 | KPOB-TV | 131,017 | 130,539 | 833
26655 | KPPX-TV | 4,839,734 | 4,825,175 | 30,780
53117 | KPRC-TV | 7,306,242 | 7,305,940 | 46,605
48660 | KPRY-TV | 42,882 | 42,790 | 273
61071 | KPSD-TV | 19,034 | 17,986 | 115
53544 | KPTB-DT | 351,156 | 349,137 | 2,227
81445 | KPTF-DT | 83,380 | 83,378 | 532
77451 | KPTH | 709,738 | 706,066 | 4,504
51491 | KPTM | 1,544,022 | 1,542,684 | 9,841
33345 | KPTS | 849,715 | 845,613 | 5,394
50633 | KPTV | 3,367,478 | 3,193,457 | 20,371
82575 | KPTW | 93,904 | 86,230 | 550
1270 | KPVI-DT | 301,761 | 295,401 | 1,884
58835 | KPXB-TV | 7,268,859 | 7,268,534 | 46,366
68695 | KPXC-TV | 3,953,241 | 3,922,814 | 25,024
68834 | KPXD-TV | 7,851,329 | 7,849,492 | 50,072
33337 | KPXE-TV | 2,621,434 | 2,620,523 | 16,716
5801 | KPXG-TV | 3,396,167 | 3,240,309 | 20,670
81507 | KPXJ | 1,114,713 | 1,111,470 | 7,090
61173 | KPXL-TV | 2,675,400 | 2,663,341 | 16,989
35907 | KPXM-TV | 3,872,706 | 3,871,246 | 24,695
58978 | KPXN-TV | 18,009,859 | 16,478,550 | 105,117
77483 | KPXO-TV | 1,016,659 | 977,430 | 6,235
21156 | KPXR-TV | 870,810 | 864,123 | 5,512
69619 | KPYX | 8,951,798 | 8,033,747 | 51,247
10242 | KQCA | 11,066,274 | 6,905,589 | 44,051
41430 | KQCD-TV | 46,118 | 43,974 | 281
18287 | KQCK | 3,914,615 | 3,869,797 | 24,685
78322 | KQCW-DT | 1,198,492 | 1,192,260 | 7,605
35525 | KQDS-TV | 309,526 | 305,800 | 1,951
35500 | KQED | 8,924,403 | 7,934,659 | 50,615
35663 | KQEH | 8,924,403 | 7,934,659 | 50,615
8214 | KQET | 3,221,916 | 2,234,120 | 14,251
5471 | KQIN | 585,179 | 585,151 | 3,733
17686 | KQME | 203,177 | 198,383 | 1,265
61063 | KQSD-TV | 32,060 | 31,225 | 199
8378 | KQSL | 209,114 | 145,828 | 930
20427 | KQTV | 1,587,910 | 1,493,576 | 9,528
78921 | KQUP | 801,534 | 624,922 | 3,986
306 | KRBC-TV | 237,068 | 236,992 | 1,512
166319 | KRBK | 1,018,307 | 1,001,775 | 6,390
22161 | KRCA | 18,303,336 | 17,670,502 | 112,720
57945 | KRCB | 9,553,735 | 9,246,484 | 58,983
41110 | KRCG | 758,918 | 744,644 | 4,750
8291 | KRCR-TV | 523,130 | 470,701 | 3,003
10192 | KRCW-TV | 3,330,638 | 3,194,693 | 20,379
49134 | KRDK-TV | 396,418 | 396,379 | 2,529
52579 | KRDO-TV | 3,041,472 | 2,649,733 | 16,903
70578 | KREG-TV | 159,270 | 97,419 | 621
34868 | KREM | 935,162 | 865,664 | 5,522
51493 | KREN-TV | 890,359 | 755,865 | 4,822
70596 | KREX-TV | 154,968 | 154,745 | 987
70579 | KREY-TV | 77,765 | 69,062 | 441
48589 | KREZ-TV | 148,142 | 101,846 | 650
43328 | KRGV-TV | 1,359,834 | 1,359,671 | 8,673
82698 | KRII | 130,753 | 129,582 | 827
29114 | KRIN | 989,283 | 975,977 | 6,226
25559 | KRIS-TV | 576,145 | 576,104 | 3,675
22204 | KRIV | 7,295,333 | 7,294,571 | 46,532
14040 | KRMA-TV | 4,385,284 | 4,186,932 | 26,708
14042 | KRMJ | 184,799 | 169,573 | 1,082
20476 | KRMT | 3,457,214 | 3,353,993 | 21,395
84224 | KRMU | 86,743 | 70,549 | 450
20373 | KRMZ | 37,319 | 34,727 | 222
47971 | KRNE-TV | 45,930 | 38,258 | 244
60307 | KRNV-DT | 1,043,407 | 879,554 | 5,611
65526 | KRON-TV | 9,335,037 | 8,729,878 | 55,688
53539 | KRPV-DT | 65,504 | 65,504 | 418
48575 | KRQE | 1,174,664 | 1,143,133 | 7,292
57431 | KRSU-TV | 1,078,345 | 1,076,370 | 6,866
82613 | KRTN-TV | 86,907 | 67,161 | 428
35567 | KRTV | 95,862 | 94,385 | 602
84157 | KRWB-TV | 118,050 | 117,368 | 749
35585 | KRWF | 82,308 | 82,308 | 525
55516 | KRWG-TV | 929,122 | 719,343 | 4,589
48360 | KRXI-TV | 802,294 | 612,918 | 3,910
307 | KSAN-TV | 142,667 | 142,664 | 910
11911 | KSAS-TV | 773,161 | 773,144 | 4,932
53118 | KSAT-TV | 3,075,254 | 3,027,321 | 19,311
35584 | KSAX | 380,811 | 380,811 | 2,429
35587 | KSAZ-TV | 4,854,767 | 4,831,287 | 30,819
38214 | KSBI | 1,751,439 | 1,749,811 | 11,162
19653 | KSBW | 5,564,606 | 4,838,506 | 30,865
19654 | KSBY | 564,561 | 526,110 | 3,356
82910 | KSCC | 534,707 | 534,707 | 3,411
10202 | KSCE | 1,093,223 | 1,089,485 | 6,950
35608 | KSCI | 18,212,242 | 17,141,918 | 109,348
26231 | KSCN-TV | 18,512,098 | 18,476,669 | 117,863
72348 | KSCW-DT | 927,681 | 922,979 | 5,888
46981 | KSDK | 3,013,779 | 3,007,368 | 19,184
35594 | KSEE | 1,888,344 | 1,874,494 | 11,957
29121 | KSFL-TV | 328,842 | 328,837 | 2,098
48658 | KSFY-TV | 731,978 | 677,603 | 4,322
17680 | KSGW-TV | 63,725 | 62,410 | 398
59444 | KSHB-TV | 2,616,078 | 2,614,543 | 16,678
73706 | KSHV-TV | 927,614 | 927,074 | 5,914
29096 | KSIN-TV | 349,020 | 347,636 | 2,218
34846 | KSIX-TV | 79,019 | 79,019 | 504
35606 | KSKN | 841,494 | 741,761 | 4,732
70482 | KSLA | 998,682 | 998,217 | 6,368
6359 | KSL-TV | 2,839,353 | 2,616,980 | 16,694
71558 | KSMN | 357,081 | 357,075 | 2,278
33336 | KSMO-TV | 2,585,699 | 2,584,094 | 16,484
28510 | KSMQ-TV | 540,217 | 524,751 | 3,347
35611 | KSMS-TV | 1,684,095 | 922,727 | 5,886
21161 | KSNB-TV | 748,097 | 747,971 | 4,771
72359 | KSNC | 166,315 | 165,997 | 1,059
67766 | KSNF | 640,722 | 637,167 | 4,064
72361 | KSNG | 143,267 | 143,050 | 913
72362 | KSNK | 46,872 | 43,725 | 279
67335 | KSNT | 657,321 | 629,824 | 4,018
10179 | KSNV | 2,283,885 | 2,225,135 | 14,194
72358 | KSNW | 810,301 | 809,927 | 5,167
61956 | KSPS-TV | 935,711 | 883,159 | 5,634
52953 | KSPX-TV | 7,814,495 | 5,846,886 | 37,297
166546 | KSQA | 391,323 | 383,112 | 2,444
53313 | KSRE | 83,984 | 83,984 | 536
35843 | KSTC-TV | 4,228,163 | 4,218,565 | 26,910
63182 | KSTF | 49,439 | 49,305 | 315
28010 | KSTP-TV | 4,230,921 | 4,222,032 | 26,932
60534 | KSTR-DT | 7,934,842 | 7,931,770 | 50,597
64987 | KSTS | 9,125,502 | 7,902,723 | 50,411
22215 | KSTU | 2,834,133 | 2,604,938 | 16,617
23428 | KSTW | 4,945,092 | 4,849,973 | 30,938
5243 | KSVI | 192,678 | 191,712 | 1,223
58827 | KSWB-TV | 3,976,536 | 3,773,857 | 24,073
60683 | KSWK | 78,448 | 78,334 | 500
35645 | KSWO-TV | 461,432 | 437,725 | 2,792
61350 | KSYS | 551,328 | 475,899 | 3,036
59988 | KTAB-TV | 281,813 | 281,579 | 1,796
999 | KTAJ-TV | 2,529,426 | 2,528,757 | 16,131
35648 | KTAL-TV | 1,072,280 | 1,070,439 | 6,828
12930 | KTAS | 501,069 | 491,644 | 3,136
81458 | KTAZ | 4,835,851 | 4,811,877 | 30,695
35649 | KTBC | 4,138,493 | 3,857,454 | 24,607
67884 | KTBN-TV | 18,729,484 | 17,423,297 | 111,143
67999 | KTBO-TV | 1,758,274 | 1,756,813 | 11,207
35652 | KTBS-TV | 1,138,628 | 1,135,638 | 7,244
28324 | KTBU | 7,242,592 | 7,242,368 | 46,199
67950 | KTBW-TV | 4,873,117 | 4,763,879 | 30,389
35655 | KTBY | 360,565 | 358,722 | 2,288
68594 | KTCA-TV | 4,022,616 | 4,008,908 | 25,573
68597 | KTCI-TV | 3,912,137 | 3,908,528 | 24,933
35187 | KTCW | 106,581 | 93,009 | 593
36916 | KTDO | 1,093,374 | 1,089,602 | 6,951
2769 | KTEJ | 417,496 | 415,013 | 2,647
83707 | KTEL-TV | 61,338 | 61,328 | 391
35666 | KTEN | 629,981 | 627,687 | 4,004
24514 | KTFD-TV | 3,767,471 | 3,727,523 | 23,778
35512 | KTFF-DT | 2,403,821 | 2,383,063 | 15,202
20871 | KTFK-DT | 7,705,367 | 5,721,312 | 36,496
68753 | KTFN | 1,095,022 | 1,091,962 | 6,966
35084 | KTFQ-TV | 1,188,205 | 1,154,792 | 7,366
29232 | KTGM | 153,836 | 153,653 | 980
2787 | KTHV | 1,302,388 | 1,276,430 | 8,142
29100 | KTIN | 275,295 | 273,715 | 1,746
66170 | KTIV | 806,217 | 800,304 | 5,105
49397 | KTKA-TV | 805,221 | 786,518 | 5,017
35670 | KTLA | 18,962,616 | 17,555,224 | 111,985
62354 | KTLM | 1,148,738 | 1,148,738 | 7,328
49153 | KTLN-TV | 5,867,943 | 5,221,797 | 33,310
64984 | KTMD | 7,304,022 | 7,303,795 | 46,591
14675 | KTMF | 203,121 | 182,458 | 1,164
10177 | KTMW | 2,690,440 | 2,543,730 | 16,226
21533 | KTNC-TV | 9,007,762 | 8,012,556 | 51,112
47996 | KTNE-TV | 95,310 | 90,746 | 579
60519 | KTNL-TV | 8,275 | 8,274 | 53
74100 | KTNV-TV | 2,422,112 | 2,249,532 | 14,350
71023 | KTNW | 512,412 | 493,366 | 3,147
8651 | KTOO-TV | 32,198 | 32,017 | 204
7078 | KTPX-TV | 1,138,473 | 1,136,085 | 7,247
68541 | KTRE | 438,137 | 420,563 | 2,683
35675 | KTRK-TV | 7,318,272 | 7,316,846 | 46,674
28230 | KTRV-TV | 869,223 | 861,267 | 5,494
69170 | KTSC | 3,598,645 | 3,397,164 | 21,671
61066 | KTSD-TV | 84,807 | 83,980 | 536
37511 | KTSF | 8,697,794 | 7,750,134 | 49,438
67760 | KTSM-TV | 1,093,389 | 1,090,716 | 6,958
35678 | KTTC | 836,828 | 748,435 | 4,774
28501 | KTTM | 77,930 | 75,368 | 481
11908 | KTTU-TV | 1,393,795 | 1,109,962 | 7,080
22208 | KTTV | 18,130,338 | 17,373,502 | 110,826
28521 | KTTW | 381,013 | 377,833 | 2,410
65355 | KTTZ-TV | 402,714 | 402,692 | 2,569
35685 | KTUL | 1,573,310 | 1,543,051 | 9,843
10173 | KTUU-TV | 397,237 | 395,237 | 2,521
77480 | KTUZ-TV | 1,841,616 | 1,840,457 | 11,740
49632 | KTVA | 353,795 | 353,563 | 2,255
34858 | KTVB | 869,177 | 862,056 | 5,499
31437 | KTVC | 140,329 | 104,355 | 666
68581 | KTVD | 4,468,718 | 4,179,057 | 26,658
35692 | KTVE | 607,145 | 606,961 | 3,872
49621 | KTVF | 96,106 | 95,973 | 612
5290 | KTVH-DT | 244,448 | 199,923 | 1,275
35693 | KTVI | 3,025,572 | 3,022,219 | 19,279
40993 | KTVK | 4,837,443 | 4,825,882 | 30,784
22570 | KTVL | 446,924 | 395,259 | 2,521
18066 | KTVM-TV | 205,391 | 134,661 | 859
59139 | KTVN | 1,043,407 | 885,756 | 5,650
21251 | KTVO | 220,732 | 220,235 | 1,405
35694 | KTVQ | 197,125 | 190,529 | 1,215
50592 | KTVR | 153,040 | 56,934 | 363
23422 | KTVT | 8,233,312 | 8,230,812 | 52,504
35703 | KTVU | 9,036,813 | 8,056,602 | 51,393
35705 | KTVW-DT | 4,827,096 | 4,809,796 | 30,682
68889 | KTVX | 2,838,210 | 2,602,217 | 16,600
55907 | KTVZ | 249,013 | 246,030 | 1,569
18286 | KTWO-TV | 84,574 | 84,044 | 536
70938 | KTWU | 1,834,018 | 1,697,183 | 10,826
51517 | KTXA | 8,210,642 | 8,208,172 | 52,360
42359 | KTXD-TV | 8,012,541 | 8,010,333 | 51,098
51569 | KTXH | 7,302,378 | 7,301,602 | 46,577
10205 | KTXL | 9,145,873 | 6,451,158 | 41,152
308 | KTXS-TV | 269,545 | 267,328 | 1,705
69315 | KUAC-TV | 96,544 | 96,043 | 613
51233 | KUAM-TV | 153,836 | 153,836 | 981
2722 | KUAS-TV | 1,060,599 | 1,041,636 | 6,645
2731 | KUAT-TV | 1,596,429 | 1,361,399 | 8,684
60520 | KUBD | 15,387 | 13,666 | 87
70492 | KUBE-TV | 7,297,882 | 7,297,596 | 46,551
1136 | KUCW | 2,837,693 | 2,601,359 | 16,594
69396 | KUED | 2,837,687 | 2,603,895 | 16,610
69582 | KUEN | 2,806,982 | 2,580,258 | 16,459
82576 | KUES | 32,094 | 26,754 | 171
82585 | KUEW | 174,491 | 162,588 | 1,037
66611 | KUFM-TV | 203,395 | 180,333 | 1,150
169028 | KUGF-TV | 89,762 | 89,455 | 571
68717 | KUHM-TV | 166,592 | 156,454 | 998
69269 | KUHT | 7,288,782 | 7,288,082 | 46,491
62382 | KUID-TV | 482,761 | 308,950 | 1,971
169027 | KUKL-TV | 140,626 | 131,415 | 838
35724 | KULR-TV | 194,552 | 186,663 | 1,191
41429 | KUMV-TV | 70,878 | 70,314 | 449
81447 | KUNP | 133,781 | 45,006 | 287
4624 | KUNS-TV | 4,682,176 | 4,668,774 | 29,782
86532 | KUOK | 28,807 | 28,738 | 183
66589 | KUON-TV | 1,516,440 | 1,502,853 | 9,587
86263 | KUPB | 386,448 | 386,448 | 2,465
65535 | KUPK | 147,290 | 146,174 | 932
27431 | KUPT | 101,334 | 101,329 | 646
89714 | KUPU | 1,019,651 | 1,010,979 | 6,449
57884 | KUPX-TV | 2,824,302 | 2,598,543 | 16,576
23074 | KUSA | 4,470,580 | 4,195,376 | 26,762
61072 | KUSD-TV | 519,419 | 519,181 | 3,312
10238 | KUSI-TV | 3,853,072 | 3,707,454 | 23,650
43567 | KUSM-TV | 155,558 | 140,071 | 894
69694 | KUTF | 1,357,824 | 1,164,486 | 7,428
81451 | KUTH-DT | 2,636,456 | 2,416,549 | 15,415
68886 | KUTP | 4,842,720 | 4,823,413 | 30,769
35823 | KUTV | 2,837,398 | 2,601,168 | 16,593
63927 | KUVE-DT | 1,370,137 | 1,024,072 | 6,533
7700 | KUVI-DT | 1,287,700 | 1,076,164 | 6,865
35841 | KUVN-DT | 7,987,884 | 7,986,084 | 50,943
58609 | KUVS-DT | 4,496,875 | 4,458,448 | 28,440
49766 | KVAL-TV | 1,113,777 | 992,676 | 6,332
32621 | KVAW | 58,052 | 58,052 | 370
58795 | KVCR-DT | 19,073,599 | 18,308,953 | 116,793
35846 | KVCT | 291,432 | 290,038 | 1,850
10195 | KVCW | 2,283,670 | 2,224,688 | 14,191
64969 | KVDA | 3,114,838 | 3,092,933 | 19,730
19783 | KVEA | 18,300,497 | 17,059,098 | 108,820
12523 | KVEO-TV | 1,357,022 | 1,356,984 | 8,656
2495 | KVEW | 537,519 | 524,246 | 3,344
35852 | KVHP | 773,592 | 773,545 | 4,934
49832 | KVIA-TV | 1,093,416 | 1,090,743 | 6,958
35855 | KVIE | 11,759,390 | 8,232,137 | 52,513
40450 | KVIH-TV | 139,435 | 119,247 | 761
40446 | KVII-TV | 392,629 | 391,979 | 2,500
61961 | KVLY-TV | 409,018 | 408,931 | 2,609
16729 | KVMD | 15,940,782 | 15,143,297 | 96,599
83825 | KVME-TV | 26,212 | 22,277 | 142
25735 | KVOA | 1,386,793 | 1,069,725 | 6,824
35862 | KVOS-TV | 2,566,816 | 2,493,670 | 15,907
69733 | KVPT | 1,856,508 | 1,833,293 | 11,695
55372 | KVRR | 403,075 | 403,075 | 2,571
166331 | KVSN-DT | 3,136,196 | 2,698,298 | 17,212
608 | KVTH-DT | 319,985 | 318,374 | 2,031
2784 | KVTJ-DT | 1,459,963 | 1,459,552 | 9,310
607 | KVTN-DT | 970,045 | 963,130 | 6,144
35867 | KVUE | 3,458,312 | 3,395,187 | 21,658
78910 | KVUI | 286,007 | 279,513 | 1,783
35870 | KVVU-TV | 2,369,125 | 2,246,682 | 14,332
36170 | KVYE | 404,453 | 401,890 | 2,564
35095 | KWBA-TV | 1,194,062 | 1,136,172 | 7,248
78314 | KWBM | 694,164 | 676,716 | 4,317
27425 | KWBN | 1,016,508 | 893,029 | 5,697
76268 | KWBQ | 1,186,772 | 1,147,638 | 7,321
66413 | KWCH-DT | 897,522 | 896,232 | 5,717
71549 | KWCM-TV | 253,609 | 245,441 | 1,566
35419 | KWDK | 4,867,196 | 4,778,196 | 30,480
42007 | KWES-TV | 506,963 | 506,675 | 3,232
50194 | KWET | 125,090 | 109,790 | 700
35881 | KWEX-DT | 2,871,330 | 2,864,298 | 18,271
35883 | KWGN-TV | 4,368,605 | 4,155,087 | 26,505
37099 | KWHB | 1,056,520 | 1,056,118 | 6,737
36846 | KWHE | 1,015,533 | 885,013 | 5,645
56384 | KWHY | 18,512,098 | 18,476,669 | 117,863
35096 | KWKB | 1,167,302 | 1,156,465 | 7,377
162115 | KWKS | 38,196 | 37,876 | 242
12522 | KWKT-TV | 1,631,788 | 1,626,721 | 10,377
21162 | KWNB-TV | 87,130 | 85,538 | 546
67347 | KWOG | 634,387 | 615,024 | 3,923
56852 | KWPX-TV | 4,985,717 | 4,873,427 | 31,088
6885 | KWQC-TV | 1,082,087 | 1,072,789 | 6,843
53318 | KWSE | 85,141 | 83,532 | 533
71024 | KWSU-TV | 824,342 | 528,984 | 3,374
25382 | KWTV-DT | 1,801,405 | 1,800,115 | 11,483
35903 | KWTX-TV | 2,532,542 | 2,418,595 | 15,428
593 | KWWL | 1,127,596 | 1,116,266 | 7,121
84410 | KWWT | 358,813 | 358,813 | 2,289
14674 | KWYB | 91,657 | 72,951 | 465
10032 | KWYP-DT | 163,309 | 143,265 | 914
35920 | KXAN-TV | 3,476,567 | 3,408,238 | 21,741
49330 | KXAS-TV | 8,080,362 | 8,077,819 | 51,528
24287 | KXGN-TV | 14,265 | 13,906 | 89
37103 | KXHI | 105,022 | 101,614 | 648
35954 | KXII | 2,904,223 | 2,845,456 | 18,151
55083 | KXLA | 18,725,198 | 17,464,578 | 111,407
35959 | KXLF-TV | 301,370 | 256,892 | 1,639
53847 | KXLN-DT | 7,293,696 | 7,293,476 | 46,525
35906 | KXLT-TV | 369,632 | 369,086 | 2,354
61978 | KXLY-TV | 884,722 | 852,475 | 5,438
55684 | KXMA-TV | 42,033 | 41,964 | 268
55686 | KXMB-TV | 164,736 | 160,794 | 1,026
55685 | KXMC-TV | 108,096 | 100,774 | 643
55683 | KXMD-TV | 66,215 | 66,107 | 422
47995 | KXNE-TV | 314,798 | 313,705 | 2,001
81593 | KXNW | 707,066 | 702,866 | 4,484
35991 | KXRM-TV | 2,129,262 | 1,769,815 | 11,290
1255 | KXTF | 157,622 | 157,168 | 1,003
25048 | KXTV | 11,761,085 | 8,212,854 | 52,390
35994 | KXTX-TV | 8,029,815 | 8,026,902 | 51,204
62293 | KXVA | 195,284 | 195,242 | 1,245
23277 | KXVO | 1,535,792 | 1,534,836 | 9,791
9781 | KXXV | 2,192,443 | 2,159,450 | 13,775
31870 | KYAZ | 7,248,533 | 7,248,341 | 46,237
29086 | KYIN | 596,722 | 594,616 | 3,793
60384 | KYLE-TV | 367,648 | 367,562 | 2,345
33639 | KYMA-DT | 403,372 | 400,541 | 2,555
47974 | KYNE-TV | 1,089,692 | 1,089,546 | 6,950
53820 | KYOU-TV | 679,167 | 668,722 | 4,266
36003 | KYTV | 1,129,940 | 1,117,420 | 7,128
55644 | KYTX | 956,234 | 955,262 | 6,094
13815 | KYUR | 397,084 | 395,055 | 2,520
5237 | KYUS-TV | 12,525 | 12,495 | 80
33752 | KYVE | 317,640 | 273,973 | 1,748
55762 | KYVV-TV | 66,372 | 65,857 | 420
25453 | KYW-TV | 11,769,848 | 11,559,783 | 73,740
69531 | KZJL | 7,244,427 | 7,244,235 | 46,211
69571 | KZJO | 4,814,396 | 4,758,120 | 30,352
61062 | KZSD-TV | 40,148 | 34,607 | 221
33079 | KZTV | 578,385 | 575,560 | 3,671
57292 | WAAY-TV | 1,644,869 | 1,570,146 | 10,016
1328 | WABC-TV | 22,259,872 | 21,880,695 | 139,577
4190 | WABE-TV | 6,138,218 | 6,116,631 | 39,018
43203 | WABG-TV | 352,521 | 352,047 | 2,246
17005 | WABI-TV | 532,053 | 512,796 | 3,271
16820 | WABM | 1,857,082 | 1,825,082 | 11,642
23917 | WABW-TV | 1,106,011 | 1,104,788 | 7,047
19199 | WACH | 1,448,991 | 1,442,358 | 9,201
189358 | WACP | 9,884,531 | 9,777,819 | 62,373
23930 | WACS-TV | 785,954 | 782,957 | 4,994
60018 | WACX | 5,173,569 | 5,164,028 | 32,941
361 | WACY-TV | 992,148 | 991,650 | 6,326
455 | WADL | 4,727,529 | 4,719,528 | 30,106
589 | WAFB | 1,928,550 | 1,927,924 | 12,298
591 | WAFF | 1,642,889 | 1,574,162 | 10,042
70689 | WAGA-TV | 6,879,310 | 6,793,067 | 43,333
48305 | WAGM-TV | 60,320 | 59,087 | 377
37809 | WAGV | 1,267,813 | 1,122,725 | 7,162
706 | WAIQ | 624,285 | 622,198 | 3,969
701 | WAKA | 796,039 | 790,015 | 5,040
4143 | WALA-TV | 1,431,666 | 1,428,457 | 9,112
70713 | WALB | 794,686 | 793,085 | 5,059
60536 | WAMI-DT | 6,013,991 | 6,013,991 | 38,363
70852 | WAND | 1,345,860 | 1,344,596 | 8,577
39270 | WANE-TV | 1,182,627 | 1,182,599 | 7,544
72120 | WANF | 6,907,445 | 6,833,668 | 43,592
64546 | WAOW | 642,013 | 633,108 | 4,039
52073 | WAPA-TV | 3,310,492 | 2,963,089 | 18,902
49712 | WAPT | 784,962 | 783,938 | 5,001
67792 | WAQP | 2,125,841 | 2,121,638 | 13,534
13206 | WATC-DT | 6,582,231 | 6,553,248 | 41,803
71082 | WATE-TV | 1,971,491 | 1,724,804 | 11,003
22819 | WATL | 6,759,193 | 6,686,998 | 42,656
20287 | WATM-TV | 868,640 | 735,080 | 4,689
11907 | WATN-TV | 1,792,866 | 1,789,289 | 11,414
13989 | WAVE | 1,998,359 | 1,989,161 | 12,689
71127 | WAVY-TV | 2,171,033 | 2,171,033 | 13,849
54938 | WAWD | 661,368 | 661,287 | 4,218
65247 | WAWV-TV | 684,558 | 679,421 | 4,334
12793 | WAXN-TV | 3,101,362 | 3,092,322 | 19,726
65696 | WBAL-TV | 10,637,240 | 10,226,692 | 65,236
74417 | WBAY-TV | 1,275,960 | 1,275,160 | 8,134
71085 | WBBH-TV | 2,368,347 | 2,368,347 | 15,108
65204 | WBBJ-TV | 654,842 | 651,262 | 4,154
9617 | WBBM-TV | 10,069,057 | 10,062,626 | 64,189
9088 | WBBZ-TV | 1,293,109 | 1,281,368 | 8,174
70138 | WBDT | 3,996,184 | 3,976,552 | 25,366
51349 | WBEC-TV | 5,979,674 | 5,979,674 | 38,144
10758 | WBFF | 9,293,641 | 9,148,848 | 58,361
12497 | WBFS-TV | 5,895,133 | 5,895,133 | 37,605
6568 | WBGU-TV | 1,325,871 | 1,325,871 | 8,458
81594 | WBIF | 315,981 | 315,981 | 2,016
84802 | WBIH | 734,949 | 717,111 | 4,574
717 | WBIQ | 1,649,738 | 1,621,834 | 10,346
46984 | WBIR-TV | 2,083,590 | 1,795,576 | 11,454
67048 | WBKB-TV | 131,202 | 123,916 | 790
34167 | WBKI | 2,220,753 | 2,204,001 | 14,059
4692 | WBKO | 1,079,438 | 953,403 | 6,082
76001 | WBKP | 54,703 | 54,532 | 348
68427 | WBMM | 595,569 | 595,314 | 3,798
73692 | WBNA | 1,955,499 | 1,904,525 | 12,149
23337 | WBNG-TV | 1,400,072 | 1,023,266 | 6,527
71217 | WBNS-TV | 3,083,491 | 3,021,775 | 19,276
72958 | WBNX-TV | 3,642,087 | 3,632,499 | 23,172
71218 | WBOC-TV | 880,031 | 880,031 | 5,614
71220 | WBOY-TV | 689,705 | 605,977 | 3,866
60850 | WBPH-TV | 11,348,739 | 10,115,153 | 64,525
7692 | WBPX-TV | 7,354,860 | 7,283,151 | 46,459
5981 | WBRA-TV | 1,705,750 | 1,657,188 | 10,571
71221 | WBRC | 1,976,420 | 1,942,307 | 12,390
71225 | WBRE-TV | 2,912,468 | 2,263,626 | 14,440
38616 | WBRZ-TV | 2,299,439 | 2,298,465 | 14,662
82627 | WBSF | 1,816,355 | 1,811,602 | 11,556
30826 | WBTV | 4,973,067 | 4,828,412 | 30,800
66407 | WBTW | 2,060,897 | 2,044,444 | 13,042
16363 | WBUI | 964,071 | 964,061 | 6,150
59281 | WBUP | 124,208 | 111,143 | 709
60830 | WBUY-TV | 1,568,306 | 1,566,684 | 9,994
72971 | WBXX-TV | 2,270,940 | 2,098,066 | 13,384
25456 | WBZ-TV | 8,524,410 | 8,283,402 | 52,840
63153 | WCAU | 11,821,594 | 11,646,436 | 74,293
363 | WCAV | 1,122,505 | 960,525 | 6,127
46728 | WCAX-TV | 793,321 | 675,201 | 4,307
39659 | WCBB | 985,125 | 952,373 | 6,075
10587 | WCBD-TV | 1,336,923 | 1,336,923 | 8,528
12477 | WCBI-TV | 675,135 | 673,011 | 4,293
9610 | WCBS-TV | 23,434,126 | 22,837,346 | 145,679
49157 | WCCB | 4,088,954 | 4,017,224 | 25,626
9629 | WCCO-TV | 4,237,121 | 4,228,346 | 26,973
14050 | WCCT-TV | 5,898,482 | 5,384,454 | 34,347
69544 | WCCU | 673,293 | 673,293 | 4,295
3001 | WCCV-TV | 3,000,204 | 2,188,016 | 13,957
23937 | WCES-TV | 1,138,637 | 1,137,146 | 7,254
65666 | WCET | 3,245,827 | 3,234,134 | 20,631
46755 | WCFE-TV | 468,278 | 427,164 | 2,725
71280 | WCHS-TV | 1,276,867 | 1,199,053 | 7,649
42124 | WCIA | 809,784 | 809,348 | 5,163
711 | WCIQ | 3,433,774 | 3,244,161 | 20,695
71428 | WCIU-TV | 10,205,649 | 10,199,522 | 65,063
9015 | WCIV | 1,341,404 | 1,341,404 | 8,557
42116 | WCIX | 568,778 | 555,600 | 3,544
16993 | WCJB-TV | 1,080,055 | 1,080,055 | 6,890
11125 | WCLF | 5,072,243 | 5,072,204 | 32,356
68007 | WCLJ-TV | 2,538,971 | 2,537,989 | 16,190
3255 | WCLO-TV | 3,274,828 | 3,009,859 | 19,200
50781 | WCMH-TV | 2,988,929 | 2,947,009 | 18,799
9917 | WCML | 229,956 | 221,000 | 1,410
9908 | WCMU-TV | 717,859 | 708,880 | 4,522
9922 | WCMV | 435,637 | 421,372 | 2,688
9913 | WCMW | 107,851 | 105,871 | 675
32326 | WCNC-TV | 4,347,601 | 4,262,460 | 27,190
53734 | WCNY-TV | 1,328,626 | 1,263,336 | 8,059
73642 | WCOV-TV | 916,080 | 911,398 | 5,814
40618 | WCPB | 612,947 | 612,947 | 3,910
59438 | WCPO-TV | 3,461,834 | 3,448,166 | 21,996
10981 | WCPX-TV | 9,906,756 | 9,905,251 | 63,186
71297 | WCSC-TV | 1,188,482 | 1,188,482 | 7,581
39664 | WCSH | 1,844,256 | 1,625,773 | 10,371
69479 | WCTE | 645,441 | 572,887 | 3,654
18334 | WCTI-TV | 1,741,252 | 1,734,851 | 11,067
31590 | WCTV | 1,083,799 | 1,083,709 | 6,913
33081 | WCTX | 7,999,974 | 7,453,383 | 47,545
65684 | WCVB-TV | 8,334,723 | 8,171,970 | 52,129
9987 | WCVE-TV | 1,894,231 | 1,892,374 | 12,071
83304 | WCVI-TV | 41,004 | 40,978 | 261
34204 | WCVN-TV | 2,242,264 | 2,237,912 | 14,276
9989 | WCVW | 1,662,141 | 1,660,801 | 10,594
73042 | WCWF | 1,175,186 | 1,174,365 | 7,491
35385 | WCWG | 3,895,811 | 3,546,156 | 22,621
29712 | WCWJ | 1,938,352 | 1,938,263 | 12,364
73264 | WCWN | 1,917,787 | 1,630,664 | 10,402
2455 | WCYB-TV | 2,296,374 | 1,447,129 | 9,231
11291 | WDAF-TV | 2,724,533 | 2,722,049 | 17,364
21250 | WDAM-TV | 507,937 | 495,331 | 3,160
22129 | WDAY-TV | 389,109 | 389,023 | 2,482
22124 | WDAZ-TV | 155,202 | 154,877 | 988
71325 | WDBB | 1,874,003 | 1,841,150 | 11,745
71326 | WDBD | 924,445 | 923,304 | 5,890
71329 | WDBJ | 1,603,364 | 1,421,509 | 9,068
51567 | WDCA | 8,945,253 | 8,890,093 | 56,710
16530 | WDCQ-TV | 1,226,421 | 1,226,397 | 7,823
30576 | WDCW | 9,008,590 | 8,971,597 | 57,230
54385 | WDEF-TV | 1,887,280 | 1,668,579 | 10,644
32851 | WDFX-TV | 343,408 | 343,096 | 2,189
43846 | WDHN | 454,174 | 453,945 | 2,896
71338 | WDIO-DT | 345,803 | 332,242 | 2,119
714 | WDIQ | 674,543 | 625,633 | 3,991
53114 | WDIV-TV | 5,555,564 | 5,555,436 | 35,438
71427 | WDJT-TV | 3,315,464 | 3,306,632 | 21,093
39561 | WDKA | 640,692 | 640,230 | 4,084
64017 | WDKY-TV | 1,280,920 | 1,245,717 | 7,946
67893 | WDLI-TV | 4,131,639 | 4,098,980 | 26,147
72335 | WDPB | 652,694 | 652,694 | 4,164
83740 | WDPM-DT | 1,493,282 | 1,491,552 | 9,515
1283 | WDPN-TV | 12,164,952 | 12,033,746 | 76,763
6476 | WDPX-TV | 7,354,860 | 7,283,151 | 46,459
28476 | WDRB | 2,166,593 | 2,149,625 | 13,712
12171 | WDSC-TV | 4,131,441 | 4,131,441 | 26,354
17726 | WDSE | 335,589 | 320,243 | 2,043
71353 | WDSI-TV | 1,155,212 | 1,094,624 | 6,983
71357 | WDSU | 1,746,300 | 1,746,300 | 11,140
7908 | WDTI | 2,314,404 | 2,313,996 | 14,761
65690 | WDTN | 3,998,815 | 3,979,357 | 25,384
70592 | WDTV | 554,217 | 513,260 | 3,274
25045 | WDVM-TV | 3,360,750 | 2,931,025 | 18,697
4110 | WDWL | 2,449,731 | 2,192,227 | 13,984
49421 | WEAO | 3,954,789 | 3,936,003 | 25,108
71363 | WEAR-TV | 1,662,799 | 1,662,271 | 10,604
7893 | WEAU | 1,031,280 | 993,529 | 6,338
61003 | WEBA-TV | 652,051 | 645,245 | 4,116
19561 | WECN | 2,551,597 | 2,296,482 | 14,649
48666 | WECT | 1,284,078 | 1,284,078 | 8,191
13602 | WEDH | 5,419,331 | 4,792,684 | 30,573
13607 | WEDN | 3,520,804 | 2,654,657 | 16,934
69338 | WEDQ | 6,372,341 | 6,354,538 | 40,536
21808 | WEDU | 6,372,341 | 6,354,538 | 40,536
13594 | WEDW | 21,942,405 | 21,529,106 | 137,334
13595 | WEDY | 5,419,331 | 4,792,684 | 30,573
24801 | WEEK-TV | 730,054 | 729,949 | 4,656
6744 | WEFS | 4,115,849 | 4,115,849 | 26,255
24215 | WEHT | 854,000 | 838,936 | 5,352
721 | WEIQ | 1,138,095 | 1,137,690 | 7,257
18301 | WEIU-TV | 442,120 | 442,040 | 2,820
69271 | WEKW-TV | 1,306,163 | 800,635 | 5,107
60825 | WELF-TV | 1,547,836 | 1,455,263 | 9,283
26602 | WELU | 2,052,918 | 1,847,568 | 11,786
40761 | WEMT | 1,708,704 | 1,169,182 | 7,458
69237 | WENH-TV | 4,865,355 | 4,679,954 | 29,853
71508 | WENY-TV | 636,768 | 501,692 | 3,200
83946 | WEPH | 604,510 | 602,977 | 3,846
81508 | WEPX-TV | 945,425 | 945,425 | 6,031
25738 | WESH | 4,917,201 | 4,906,261 | 31,297
65670 | WETA-TV | 9,177,186 | 9,112,861 | 58,131
69944 | WETK | 681,830 | 571,729 | 3,647
60653 | WETM-TV | 844,248 | 745,266 | 4,754
18252 | WETP-TV | 2,251,212 | 1,940,383 | 12,378
2709 | WEUX | 396,788 | 387,527 | 2,472
72041 | WEVV-TV | 751,428 | 750,047 | 4,785
59441 | WEWS-TV | 4,098,329 | 4,061,663 | 25,909
72052 | WEYI-TV | 3,802,069 | 3,734,694 | 23,824
72054 | WFAA | 8,238,058 | 8,226,984 | 52,480
81669 | WFBD | 919,012 | 918,335 | 5,858
69532 | WFDC-DT | 9,008,590 | 8,971,597 | 57,230
10132 | WFFF-TV | 644,230 | 566,681 | 3,615
25040 | WFFT-TV | 1,133,445 | 1,133,031 | 7,228
11123 | WFGC | 3,402,762 | 3,402,762 | 21,706
6554 | WFGX | 1,631,714 | 1,631,224 | 10,406
13991 | WFIE | 742,941 | 741,771 | 4,732
715 | WFIQ | 550,070 | 548,067 | 3,496
64592 | WFLA-TV | 6,656,303 | 6,639,930 | 42,356
22211 | WFLD | 10,111,733 | 10,105,397 | 64,462
72060 | WFLI-TV | 1,357,801 | 1,252,063 | 7,987
39736 | WFLX | 6,299,680 | 6,299,680 | 40,186
72062 | WFMJ-TV | 4,291,547 | 3,802,286 | 24,255
72064 | WFMY-TV | 5,399,787 | 5,364,129 | 34,218
39884 | WFMZ-TV | 11,348,739 | 10,115,153 | 64,525
83943 | WFNA | 1,511,431 | 1,509,839 | 9,631
47902 | WFOR-TV | 5,952,062 | 5,952,062 | 37,968
11909 | WFOX-TV | 1,881,740 | 1,881,740 | 12,004
40626 | WFPT | 6,479,421 | 6,072,020 | 38,733
21245 | WFPX-TV | 2,980,937 | 2,976,800 | 18,989
25396 | WFQX-TV | 537,914 | 533,910 | 3,406
9635 | WFRV-TV | 1,313,825 | 1,300,885 | 8,298
53115 | WFSB | 4,799,110 | 4,417,573 | 28,180
6093 | WFSG | 403,233 | 403,173 | 2,572
21801 | WFSU-TV | 592,693 | 592,676 | 3,781
11913 | WFTC | 4,159,690 | 4,144,073 | 26,435
64588 | WFTS-TV | 6,213,173 | 6,213,039 | 39,633
16788 | WFTT-TV | 5,291,296 | 5,291,296 | 33,753
72076 | WFTV | 4,707,940 | 4,707,940 | 30,032
70649 | WFTX-TV | 2,076,721 | 2,076,721 | 13,247
60553 | WFTY-DT | 5,838,625 | 5,724,691 | 36,518
25395 | WFUP | 235,473 | 234,457 | 1,496
60555 | WFUT-DT | 21,842,105 | 21,428,169 | 136,690
22108 | WFWA | 1,071,881 | 1,071,733 | 6,837
9054 | WFXB | 1,448,018 | 1,447,713 | 9,235
3228 | WFXG | 1,126,109 | 1,115,208 | 7,114
70815 | WFXL | 748,116 | 748,087 | 4,772
19707 | WFXP | 556,627 | 543,130 | 3,465
24813 | WFXR | 1,418,873 | 1,283,217 | 8,186
6463 | WFXT | 8,044,623 | 7,951,492 | 50,723
22245 | WFXU | 225,675 | 225,675 | 1,440
43424 | WFXV | 682,282 | 587,673 | 3,749
25236 | WFXW | 217,631 | 217,631 | 1,388
41397 | WFYI | 2,614,535 | 2,613,865 | 16,674
53930 | WGAL | 6,592,850 | 5,851,154 | 37,325
2708 | WGBA-TV | 1,219,315 | 1,218,972 | 7,776
24314 | WGBC | 233,035 | 232,798 | 1,485
72099 | WGBH-TV | 8,264,395 | 8,151,180 | 51,996
12498 | WGBO-DT | 9,984,682 | 9,984,501 | 63,691
11113 | WGBP-TV | 1,964,065 | 1,956,753 | 12,482
72098 | WGBX-TV | 8,354,289 | 8,184,570 | 52,209
72096 | WGBY-TV | 4,556,980 | 3,838,887 | 24,488
62388 | WGCU | 1,789,951 | 1,789,951 | 11,418
54275 | WGEM-TV | 325,716 | 325,430 | 2,076
27387 | WGEN-TV | 47,451 | 47,451 | 303
7727 | WGFL | 958,665 | 958,665 | 6,115
25682 | WGGB-TV | 3,501,457 | 3,092,700 | 19,728
11027 | WGGN-TV | 4,010,515 | 3,987,566 | 25,437
9064 | WGGS-TV | 2,978,169 | 2,919,596 | 18,624
72106 | WGHP | 4,716,324 | 4,663,025 | 29,745
710 | WGIQ | 367,358 | 367,140 | 2,342
12520 | WGMB-TV | 1,815,089 | 1,814,919 | 11,577
25683 | WGME-TV | 1,562,382 | 1,391,898 | 8,879
24618 | WGNM | 765,295 | 764,308 | 4,876
72119 | WGNO | 1,737,340 | 1,737,340 | 11,082
9762 | WGNT | 2,218,861 | 2,218,861 | 14,154
72115 | WGN-TV | 10,139,791 | 10,133,994 | 64,645
40619 | WGPT | 570,828 | 347,754 | 2,218
65074 | WGPX-TV | 3,063,562 | 3,053,879 | 19,481
64547 | WGRZ | 1,896,029 | 1,833,959 | 11,699
63329 | WGTA | 1,174,842 | 1,134,460 | 7,237
66285 | WGTE-TV | 2,250,689 | 2,250,689 | 14,357
59279 | WGTQ | 114,517 | 109,995 | 702
59280 | WGTU | 395,169 | 388,357 | 2,477
23948 | WGTV | 6,872,895 | 6,793,292 | 43,334
7623 | WGTW-TV | 830,912 | 830,818 | 5,300
24783 | WGVK | 2,565,756 | 2,563,031 | 16,350
24784 | WGVU-TV | 1,943,807 | 1,894,218 | 12,083
21536 | WGWG | 1,146,502 | 1,146,502 | 7,314
56642 | WGWW | 1,742,591 | 1,714,951 | 10,940
58262 | WGXA | 799,532 | 798,664 | 5,095
73371 | WHAM-TV | 1,381,792 | 1,333,395 | 8,506
32327 | WHAS-TV | 2,065,124 | 2,034,746 | 12,980
6096 | WHA-TV | 1,715,866 | 1,709,075 | 10,902
13950 | WHBF-TV | 1,726,114 | 1,713,500 | 10,930
12521 | WHBQ-TV | 1,735,050 | 1,714,081 | 10,934
10894 | WHBR | 1,425,293 | 1,424,691 | 9,088
65128 | WHDF | 1,720,614 | 1,666,798 | 10,633
72145 | WHDH | 7,993,816 | 7,899,325 | 50,390
83929 | WHDT | 6,334,757 | 6,334,757 | 40,409
70041 | WHEC-TV | 1,322,761 | 1,278,323 | 8,154
67971 | WHFT-TV | 5,976,793 | 5,976,793 | 38,126
41458 | WHIO-TV | 4,041,602 | 4,033,560 | 25,730
713 | WHIQ | 1,383,801 | 1,329,761 | 8,483
61216 | WHIZ-TV | 962,141 | 885,771 | 5,650
18780 | WHLA-TV | 569,415 | 530,529 | 3,384
48668 | WHLT | 481,036 | 479,959 | 3,062
24582 | WHLV-TV | 4,739,820 | 4,739,820 | 30,235
37102 | WHMB-TV | 3,187,327 | 3,126,458 | 19,944
61004 | WHMC | 838,228 | 838,228 | 5,347
36117 | WHME-TV | 1,490,612 | 1,490,518 | 9,508
37106 | WHNO | 1,561,961 | 1,561,961 | 9,964
72300 | WHNS | 2,753,561 | 2,462,848 | 15,711
48693 | WHNT-TV | 1,687,347 | 1,607,863 | 10,257
66221 | WHO-DT | 1,226,093 | 1,209,327 | 7,714
6866 | WHOI | 716,035 | 715,956 | 4,567
72313 | WHP-TV | 4,219,869 | 3,695,568 | 23,574
51980 | WHPX-TV | 5,666,126 | 5,176,293 | 33,020
73036 | WHRM-TV | 537,971 | 535,112 | 3,413
25932 | WHRO-TV | 2,261,464 | 2,261,381 | 14,425
68058 | WHSG-TV | 6,744,093 | 6,678,392 | 42,601
4688 | WHSV-TV | 894,602 | 760,620 | 4,852
9990 | WHTJ | 867,445 | 743,025 | 4,740
72326 | WHTM-TV | 3,349,178 | 2,923,354 | 18,648
11117 | WHTN | 2,282,597 | 2,269,471 | 14,477
27772 | WHUT-TV | 8,785,956 | 8,745,663 | 55,789
18793 | WHWC-TV | 1,205,932 | 1,152,576 | 7,352
72338 | WHYY-TV | 10,984,166 | 10,590,279 | 67,555
5360 | WIAT | 1,959,076 | 1,921,566 | 12,258
63160 | WIBW-TV | 1,312,372 | 1,263,123 | 8,057
25684 | WICD | 1,220,886 | 1,219,775 | 7,781
25686 | WICS | 1,060,412 | 1,058,572 | 6,753
24970 | WICU-TV | 704,263 | 654,470 | 4,175
62210 | WICZ-TV | 1,208,124 | 932,840 | 5,951
18410 | WIDP | 2,258,204 | 2,022,801 | 12,903
26025 | WIFS | 1,664,757 | 1,659,814 | 10,588
720 | WIIQ | 325,293 | 321,753 | 2,052
68939 | WILL-TV | 1,148,587 | 1,125,681 | 7,181
6863 | WILX-TV | 3,505,808 | 3,321,258 | 21,186
22093 | WINK-TV | 2,135,187 | 2,135,187 | 13,620
67787 | WINM | 1,035,236 | 1,004,998 | 6,411
41314 | WINP-TV | 2,918,791 | 2,870,939 | 18,314
3646 | WIPB | 2,098,072 | 2,097,589 | 13,381
48408 | WIPL | 902,112 | 849,374 | 5,418
53863 | WIPM-TV | 2,018,636 | 1,743,992 | 714
53859 | WIPR-TV | 3,164,369 | 2,988,035 | 19,061
10253 | WIPX-TV | 2,538,971 | 2,537,989 | 16,190
39887 | WIRS | 962,531 | 803,553 | 2,847
71336 | WIRT-DT | 125,282 | 123,221 | 786
13990 | WIS | 2,873,204 | 2,819,721 | 17,987
65143 | WISC-TV | 1,816,917 | 1,779,975 | 11,354
13960 | WISE-TV | 1,105,600 | 1,105,444 | 7,052
39269 | WISH-TV | 3,141,430 | 3,093,806 | 19,735
65680 | WISN-TV | 3,041,677 | 3,036,957 | 19,373
73083 | WITF-TV | 2,757,178 | 2,500,545 | 15,951
73107 | WITI | 3,149,773 | 3,140,719 | 20,035
594 | WITN-TV | 1,942,458 | 1,927,751 | 12,297
61005 | WITV | 1,002,380 | 1,002,380 | 6,394
7780 | WIVB-TV | 1,911,934 | 1,834,562 | 11,703
11260 | WIVT | 831,941 | 612,317 | 3,906
60571 | WIWN | 3,387,206 | 3,370,697 | 21,502
62207 | WIYC | 673,128 | 670,480 | 4,277
73120 | WJAC-TV | 2,152,162 | 1,855,359 | 11,835
10259 | WJAL | 9,654,785 | 9,309,845 | 59,388
50780 | WJAR | 7,602,846 | 7,447,435 | 47,507
35576 | WJAX-TV | 1,909,321 | 1,909,321 | 12,180
27140 | WJBF | 1,669,785 | 1,652,861 | 10,544
73123 | WJBK | 5,840,177 | 5,804,131 | 37,025
37174 | WJCL | 1,031,857 | 1,031,857 | 6,582
73130 | WJCT | 1,893,148 | 1,892,490 | 12,072
29719 | WJEB-TV | 1,880,192 | 1,880,192 | 11,994
65749 | WJET-TV | 711,412 | 685,375 | 4,372
7651 | WJFB | 2,745,573 | 2,734,787 | 17,445
49699 | WJFW-TV | 281,148 | 271,274 | 1,730
73136 | WJHG-TV | 912,881 | 905,531 | 5,776
57826 | WJHL-TV | 2,035,505 | 1,463,539 | 9,336
68519 | WJKT | 645,594 | 645,161 | 4,115
1051 | WJLA-TV | 9,654,785 | 9,314,754 | 59,419
86537 | WJLP | 22,694,994 | 22,426,423 | 143,058
9630 | WJMN-TV | 158,494 | 151,938 | 969
61008 | WJPM-TV | 587,058 | 586,836 | 3,743
58340 | WJPX | 2,861,004 | 2,653,740 | 16,928
21735 | WJRT-TV | 2,831,612 | 2,583,368 | 16,479
23918 | WJSP-TV | 4,678,958 | 4,643,904 | 29,623
41210 | WJTC | 1,517,180 | 1,516,056 | 9,671
48667 | WJTV | 966,513 | 958,676 | 6,115
73150 | WJW | 3,969,148 | 3,895,876 | 24,852
61007 | WJWJ-TV | 1,180,652 | 1,180,652 | 7,531
58342 | WJWN-TV | 1,830,695 | 1,568,858 | 2,847
53116 | WJXT | 1,899,110 | 1,899,110 | 12,114
11893 | WJXX | 1,888,910 | 1,888,113 | 12,044
32334 | WJYS | 9,820,848 | 9,820,831 | 62,647
25455 | WJZ-TV | 10,637,240 | 10,228,751 | 65,249
73152 | WJZY | 4,965,077 | 4,831,865 | 30,822
64983 | WKAQ-TV | 3,259,225 | 2,914,322 | 1,063
6104 | WKAR-TV | 1,713,640 | 1,709,038 | 10,902
34171 | WKAS | 522,877 | 496,277 | 3,166
51570 | WKBD-TV | 5,180,191 | 5,179,980 | 33,043
73153 | WKBN-TV | 4,870,043 | 4,522,748 | 28,851
13929 | WKBS-TV | 1,054,914 | 914,205 | 5,832
74424 | WKBT-DT | 973,803 | 920,961 | 5,875
54176 | WKBW-TV | 2,261,221 | 2,175,654 | 13,878
53465 | WKCF | 5,109,221 | 5,107,692 | 32,582
73155 | WKEF | 3,860,944 | 3,850,405 | 24,562
34177 | WKGB-TV | 444,266 | 442,639 | 2,824
34196 | WKHA | 475,212 | 372,027 | 2,373
34207 | WKLE | 918,947 | 911,337 | 5,813
34212 | WKMA-TV | 558,464 | 558,150 | 3,560
71293 | WKMG-TV | 4,643,692 | 4,643,692 | 29,622
34195 | WKMJ-TV | 1,572,974 | 1,565,579 | 9,987
34202 | WKMR | 457,241 | 422,772 | 2,697
34174 | WKMU | 339,477 | 339,064 | 2,163
42061 | WKNO | 1,649,295 | 1,647,327 | 10,508
83931 | WKNX-TV | 1,778,483 | 1,548,751 | 9,879
34205 | WKOH | 591,189 | 584,484 | 3,728
67869 | WKOI-TV | 3,996,184 | 3,976,552 | 25,366
34211 | WKON | 1,170,361 | 1,163,470 | 7,422
18267 | WKOP-TV | 1,641,367 | 1,465,642 | 9,349
64545 | WKOW | 1,999,166 | 1,978,160 | 12,619
21432 | WKPC-TV | 1,620,977 | 1,613,304 | 10,291
65758 | WKPD | 277,245 | 276,367 | 1,763
34200 | WKPI-TV | 552,999 | 432,287 | 2,758
27504 | WKPT-TV | 1,107,992 | 876,999 | 5,594
58341 | WKPV | 981,832 | 762,182 | 2,847
11289 | WKRC-TV | 3,412,677 | 3,359,970 | 21,433
73187 | WKRG-TV | 1,661,088 | 1,660,222 | 10,591
73188 | WKRN-TV | 2,843,550 | 2,823,383 | 18,010
34222 | WKSO-TV | 675,800 | 663,810 | 4,234
40902 | WKTC | 1,422,142 | 1,421,788 | 9,070
60654 | WKTV | 1,566,267 | 1,340,030 | 8,548
73195 | WKYC | 4,162,460 | 4,109,739 | 26,216
24914 | WKYT-TV | 1,263,314 | 1,247,201 | 7,956
71861 | WKYU-TV | 447,402 | 444,471 | 2,835
34181 | WKZT-TV | 1,092,295 | 1,075,603 | 6,861
18819 | WLAE-TV | 1,489,518 | 1,489,518 | 9,502
36533 | WLAJ | 4,230,811 | 4,195,529 | 26,763
2710 | WLAX | 480,917 | 455,361 | 2,905
68542 | WLBT | 930,984 | 929,897 | 5,932
39644 | WLBZ | 374,046 | 364,463 | 2,325
69328 | WLED-TV | 333,929 | 175,095 | 1,117
63046 | WLEF-TV | 201,828 | 200,259 | 1,277
73203 | WLEX-TV | 1,083,858 | 1,075,334 | 6,860
37806 | WLFB | 756,510 | 656,110 | 4,185
37808 | WLFG | 1,555,609 | 1,240,816 | 7,915
73204 | WLFI-TV | 2,422,930 | 2,397,991 | 15,297
73205 | WLFL | 4,154,373 | 4,151,842 | 26,485
19777 | WLII-DT | 2,472,430 | 2,284,000 | 14,570
37503 | WLIO | 1,076,204 | 1,052,712 | 6,715
38336 | WLIW | 21,331,793 | 21,007,396 | 134,006
27696 | WLJC-TV | 1,433,034 | 1,317,702 | 8,406
71645 | WLJT | 382,232 | 381,417 | 2,433
53939 | WLKY | 2,035,700 | 2,028,397 | 12,939
11033 | WLLA | 2,204,047 | 2,203,715 | 14,057
1222 | WLMA | 1,681,703 | 1,678,515 | 10,707
17076 | WLMB | 2,820,328 | 2,813,733 | 17,949
68518 | WLMT | 1,739,879 | 1,737,416 | 11,083
22591 | WLNE-TV | 6,880,185 | 6,815,475 | 43,476
74420 | WLNS-TV | 4,230,811 | 4,195,529 | 26,763
73206 | WLNY-TV | 7,829,527 | 7,746,153 | 49,413
84253 | WLOO | 897,764 | 896,755 | 5,720
56537 | WLOS | 3,337,211 | 2,748,224 | 17,531
37732 | WLOV-TV | 608,778 | 606,994 | 3,872
13995 | WLOX | 1,236,798 | 1,224,809 | 7,813
38586 | WLPB-TV | 1,263,410 | 1,263,379 | 8,059
73189 | WLPX-TV | 1,012,910 | 963,892 | 6,149
66358 | WLRN-TV | 6,010,422 | 6,010,422 | 38,340
73226 | WLS-TV | 10,428,632 | 10,421,900 | 66,481
73230 | WLTV-DT | 5,988,029 | 5,988,029 | 38,198
37176 | WLTX | 1,614,789 | 1,611,719 | 10,281
37179 | WLTZ | 738,023 | 734,057 | 4,683
21259 | WLUC-TV | 103,185 | 95,367 | 608
4150 | WLUK-TV | 1,237,211 | 1,236,394 | 7,887
73238 | WLVI | 7,993,816 | 7,899,325 | 50,390
36989 | WLVT-TV | 11,348,739 | 10,115,153 | 64,525
3978 | WLWC | 3,398,164 | 3,257,998 | 20,783
46979 | WLWT | 3,499,610 | 3,489,652 | 22,260
54452 | WLXI | 3,243,843 | 3,015,382 | 19,235
55350 | WLYH | 3,349,178 | 2,923,354 | 18,648
43192 | WMAB-TV | 389,089 | 384,767 | 2,454
43170 | WMAE-TV | 692,999 | 663,737 | 4,234
43197 | WMAH-TV | 1,302,245 | 1,301,790 | 8,304
43176 | WMAO-TV | 333,490 | 333,321 | 2,126
47905 | WMAQ-TV | 10,069,653 | 10,068,069 | 64,224
59442 | WMAR-TV | 10,025,750 | 9,879,744 | 63,023
43184 | WMAU-TV | 637,434 | 631,358 | 4,027
43193 | WMAV-TV | 1,018,601 | 1,018,556 | 6,497
43169 | WMAW-TV | 731,384 | 716,614 | 4,571
46991 | WMAZ-TV | 1,238,176 | 1,180,117 | 7,528
66398 | WMBB | 990,632 | 964,744 | 6,154
43952 | WMBC-TV | 22,446,503 | 21,778,765 | 138,927
42121 | WMBD-TV | 720,722 | 720,669 | 4,597
83969 | WMBF-TV | 526,232 | 526,232 | 3,357
60829 | WMCF-TV | 644,916 | 641,833 | 4,094
9739 | WMCN-TV | 10,984,166 | 10,590,279 | 67,555
19184 | WMC-TV | 2,057,112 | 2,053,563 | 13,100
189357 | WMDE | 6,933,795 | 6,802,466 | 43,393
73255 | WMDN | 259,822 | 259,616 | 1,656
16455 | WMDT | 790,315 | 790,315 | 5,041
39656 | WMEA-TV | 965,365 | 911,355 | 5,814
39648 | WMEB-TV | 411,335 | 396,677 | 2,530
70537 | WMEC | 199,187 | 198,698 | 1,267
39649 | WMED-TV | 28,850 | 27,884 | 178
776266 | WMEI | 910,872 | 910,788 | 5,810
39662 | WMEM-TV | 61,231 | 60,308 | 385
41893 | WMFD-TV | 2,011,673 | 1,686,812 | 10,760
41436 | WMFP | 6,230,964 | 5,959,061 | 38,013
61111 | WMGM-TV | 830,912 | 830,818 | 5,300
43847 | WMGT-TV | 614,625 | 614,040 | 3,917
73263 | WMHT | 1,729,302 | 1,559,066 | 9,945
68545 | WMLW-TV | 1,863,951 | 1,863,679 | 11,888
53819 | WMOR-TV | 6,400,456 | 6,400,333 | 40,828
81503 | WMOW | 122,110 | 106,904 | 682
65944 | WMPB | 8,059,368 | 7,940,127 | 50,650
43168 | WMPN-TV | 843,756 | 841,772 | 5,370
65942 | WMPT | 9,500,117 | 9,442,413 | 60,233
60827 | WMPV-TV | 1,565,537 | 1,564,599 | 9,981
10221 | WMSN-TV | 2,030,916 | 2,010,636 | 12,826
2174 | WMTJ | 2,764,573 | 2,492,464 | 15,899
6870 | WMTV | 1,628,641 | 1,625,206 | 10,367
73288 | WMTW | 2,041,342 | 1,737,673 | 11,085
23935 | WMUM-TV | 926,604 | 921,419 | 5,878
73292 | WMUR-TV | 5,652,739 | 5,453,759 | 34,790
42663 | WMVS | 3,216,887 | 3,155,770 | 20,131
42665 | WMVT | 3,216,887 | 3,155,770 | 20,131
81946 | WMWC-TV | 935,338 | 912,437 | 5,820
56548 | WMYA-TV | 1,808,659 | 1,723,755 | 10,996
74211 | WMYD | 5,840,155 | 5,839,880 | 37,253
20624 | WMYT-TV | 4,965,077 | 4,831,865 | 30,822
25544 | WMYV | 4,406,813 | 4,379,408 | 27,936
73310 | WNAB | 2,600,886 | 2,591,235 | 16,529
73311 | WNAC-TV | 7,817,084 | 7,459,610 | 47,585
47535 | WNBC | 23,283,577 | 22,722,761 | 144,948
83965 | WNBW-DT | 1,557,530 | 1,550,637 | 9,892
72307 | WNCF | 665,079 | 658,994 | 4,204
50782 | WNCN | 4,201,973 | 4,186,944 | 26,709
57838 | WNCT-TV | 2,034,787 | 1,975,930 | 12,604
41674 | WNDU-TV | 1,901,588 | 1,870,311 | 11,931
28462 | WNDY-TV | 3,141,430 | 3,093,806 | 19,735
71928 | WNED-TV | 1,408,141 | 1,390,745 | 8,872
60931 | WNEH | 1,389,794 | 1,383,193 | 8,823
41221 | WNEM-TV | 1,437,726 | 1,434,104 | 9,148
49439 | WNEO | 3,343,598 | 3,265,373 | 20,830
73318 | WNEP-TV | 3,472,501 | 2,879,994 | 18,371
18795 | WNET | 22,428,695 | 21,915,470 | 139,799
51864 | WNEU | 7,676,529 | 7,606,661 | 48,523
23942 | WNGH-TV | 6,461,522 | 6,281,764 | 40,071
67802 | WNIN | 907,713 | 891,200 | 5,685
41671 | WNIT | 1,335,767 | 1,335,767 | 8,521
48457 | WNJB | 22,145,547 | 21,374,668 | 136,349
48477 | WNJN | 22,145,547 | 21,374,668 | 136,349
48481 | WNJS | 7,729,626 | 7,710,589 | 49,186
48465 | WNJT | 7,729,626 | 7,710,589 | 49,186
73333 | WNJU | 23,283,577 | 22,722,761 | 144,948
73336 | WNJX-TV | 1,446,990 | 1,265,826 | 873
61217 | WNKY | 414,184 | 412,652 | 2,632
71905 | WNLO | 1,911,934 | 1,834,562 | 11,703
4318 | WNMU | 178,504 | 177,692 | 1,133
73344 | WNNE | 801,186 | 684,501 | 4,366
54280 | WNOL-TV | 1,730,074 | 1,730,074 | 11,036
71676 | WNPB-TV | 2,094,971 | 1,923,306 | 12,269
62137 | WNPI-DT | 159,208 | 154,143 | 983
41398 | WNPT | 2,692,492 | 2,657,273 | 16,951
28468 | WNPX-TV | 2,494,581 | 2,470,662 | 15,760
61009 | WNSC-TV | 2,860,897 | 2,853,300 | 18,201
61010 | WNTV | 2,775,252 | 2,572,161 | 16,408
16539 | WNTZ-TV | 328,336 | 327,661 | 2,090
7933 | WNUV | 9,944,268 | 9,731,571 | 62,078
9999 | WNVC | 867,445 | 743,025 | 4,740
10019 | WNVT | 1,894,231 | 1,892,374 | 12,071
73354 | WNWO-TV | 2,915,507 | 2,915,507 | 18,598
136751 | WNYA | 1,932,105 | 1,656,014 | 10,564
30303 | WNYB | 1,784,805 | 1,758,025 | 11,214
6048 | WNYE-TV | 20,693,079 | 20,445,674 | 130,423
34329 | WNYI | 1,609,642 | 1,329,569 | 8,481
67784 | WNYO-TV | 1,449,480 | 1,428,169 | 9,110
73363 | WNYT | 1,975,605 | 1,653,904 | 10,550
22206 | WNYW | 21,377,740 | 21,043,915 | 134,239
69618 | WOAI-TV | 3,063,753 | 3,050,610 | 19,460
66804 | WOAY-TV | 536,548 | 414,046 | 2,641
41225 | WOFL | 4,897,034 | 4,891,577 | 31,203
70651 | WOGX | 1,262,333 | 1,262,333 | 8,052
8661 | WOI-DT | 1,278,698 | 1,277,340 | 8,148
39746 | WOIO | 4,198,546 | 4,095,152 | 26,123
71725 | WOLE-DT | 1,581,955 | 1,411,809 | 5,205
73375 | WOLF-TV | 3,025,477 | 2,531,097 | 16,146
60963 | WOLO-TV | 2,854,959 | 2,814,886 | 17,956
36838 | WOOD-TV | 2,637,147 | 2,631,110 | 16,784
67602 | WOPX-TV | 4,677,102 | 4,676,992 | 29,835
64865 | WORA-TV | 3,172,055 | 2,933,387 | 18,712
73901 | WORO-DT | 2,847,102 | 2,661,536 | 16,978
60357 | WOST | 1,055,465 | 918,659 | 5,860
66185 | WOSU-TV | 3,073,523 | 3,013,857 | 19,225
131 | WOTF-TV | 4,204,625 | 4,204,625 | 26,821
10212 | WOTV | 2,493,328 | 2,492,908 | 15,902
50147 | WOUB-TV | 739,667 | 721,384 | 4,602
50141 | WOUC-TV | 1,680,457 | 1,618,502 | 10,324
23342 | WOWK-TV | 1,098,995 | 1,028,502 | 6,561
65528 | WOWT | 1,516,978 | 1,514,052 | 9,658
31570 | WPAN | 1,392,393 | 1,392,261 | 8,881
51988 | WPBF | 3,601,603 | 3,601,603 | 22,975
21253 | WPBN-TV | 452,157 | 440,310 | 2,809
62136 | WPBS-TV | 332,147 | 296,972 | 1,894
13456 | WPBT | 5,976,331 | 5,976,331 | 38,123
13924 | WPCB-TV | 2,920,794 | 2,802,648 | 17,878
64033 | WPCH-TV | 6,826,973 | 6,747,200 | 43,040
4354 | WPCT | 207,688 | 207,286 | 1,322
17012 | WPDE-TV | 1,845,347 | 1,838,747 | 11,729
52527 | WPEC | 6,332,850 | 6,332,850 | 40,397
84088 | WPFO | 1,390,230 | 1,272,952 | 8,120
54728 | WPGA-TV | 575,813 | 575,578 | 3,672
60820 | WPGD-TV | 2,787,190 | 2,772,517 | 17,686
73875 | WPGH-TV | 3,209,933 | 3,099,658 | 19,773
2942 | WPGX | 448,453 | 445,686 | 2,843
73879 | WPHL-TV | 10,944,731 | 10,756,717 | 68,617
73881 | WPIX | 22,259,872 | 21,818,842 | 139,182
69880 | WPKD-TV | 3,366,547 | 3,181,216 | 20,293
53113 | WPLG | 6,165,413 | 6,165,413 | 39,329
11906 | WPMI-TV | 1,609,741 | 1,609,491 | 10,267
10213 | WPMT | 2,757,178 | 2,500,545 | 15,951
18798 | WPNE-TV | 1,210,150 | 1,209,366 | 7,715
73907 | WPNT | 3,148,917 | 3,050,465 | 19,459
28480 | WPPT | 11,348,739 | 10,115,153 | 64,525
51984 | WPPX-TV | 8,429,105 | 8,212,096 | 52,385
47404 | WPRI-TV | 7,754,340 | 7,480,561 | 47,718
51991 | WPSD-TV | 852,232 | 848,332 | 5,412
12499 | WPSG | 11,342,493 | 11,068,585 | 70,607
66219 | WPSU-TV | 1,016,983 | 842,529 | 5,374
73905 | WPTA | 1,136,029 | 1,135,873 | 7,246
25067 | WPTD | 3,535,155 | 3,522,151 | 22,468
25065 | WPTO | 3,080,289 | 3,066,947 | 19,564
59443 | WPTV-TV | 6,414,108 | 6,414,108 | 40,916
57476 | WPTZ | 801,186 | 684,501 | 4,366
8616 | WPVI-TV | 11,997,071 | 11,834,791 | 75,494
48772 | WPWR-TV | 10,111,733 | 10,105,397 | 64,462
51969 | WPXA-TV | 7,486,662 | 7,341,812 | 46,833
71236 | WPXC-TV | 1,812,411 | 1,812,329 | 11,561
5800 | WPXD-TV | 5,357,614 | 5,357,504 | 34,176
37104 | WPXE-TV | 3,105,562 | 3,094,581 | 19,740
48406 | WPXG-TV | 2,760,323 | 2,697,351 | 17,206
73312 | WPXH-TV | 1,558,487 | 1,543,110 | 9,843
73910 | WPXI | 3,270,399 | 3,179,997 | 20,285
2325 | WPXJ-TV | 2,383,753 | 2,319,308 | 14,795
52628 | WPXK-TV | 1,897,932 | 1,672,850 | 10,671
21729 | WPXL-TV | 1,738,354 | 1,738,354 | 11,089
48608 | WPXM-TV | 5,673,283 | 5,673,283 | 36,190
73356 | WPXN-TV | 22,193,311 | 21,756,322 | 138,784
27290 | WPXP-TV | 6,117,297 | 6,117,297 | 39,022
50063 | WPXQ-TV | 3,398,164 | 3,257,998 | 20,783
70251 | WPXR-TV | 1,361,522 | 1,199,794 | 7,653
40861 | WPXS | 2,313,093 | 2,228,599 | 14,216
53065 | WPXT | 1,058,317 | 1,005,248 | 6,412
37971 | WPXU-TV | 764,835 | 764,835 | 4,879
67077 | WPXV-TV | 1,997,620 | 1,997,620 | 12,743
74091 | WPXW-TV | 8,918,745 | 8,866,240 | 56,558
21726 | WPXX-TV | 1,563,942 | 1,560,675 | 9,956
73319 | WQAD-TV | 1,077,293 | 1,065,179 | 6,795
65130 | WQCW | 1,234,953 | 1,165,995 | 7,438
71561 | WQEC | 177,193 | 175,191 | 1,118
41315 | WQED | 3,491,971 | 3,385,114 | 21,594
60556 | WQHS-DT | 3,982,203 | 3,936,334 | 25,110
53716 | WQLN | 573,688 | 553,172 | 3,529
52075 | WQMY | 403,099 | 246,363 | 1,572
64550 | WQOW | 383,460 | 372,929 | 2,379
5468 | WQPT-TV | 928,221 | 922,909 | 5,887
64690 | WQPX-TV | 1,624,976 | 1,207,503 | 7,703
52408 | WQRF-TV | 1,384,090 | 1,360,850 | 8,681
2175 | WQTO | 2,533,848 | 1,714,503 | 3,876
8688 | WRAL-TV | 4,258,430 | 4,255,027 | 27,143
10133 | WRAY-TV | 4,701,102 | 4,682,210 | 29,868
64611 | WRAZ | 4,206,845 | 4,204,439 | 26,820
136749 | WRBJ-TV | 1,029,422 | 1,026,759 | 6,550
3359 | WRBL | 1,573,722 | 1,534,121 | 9,786
57221 | WRBU | 2,964,043 | 2,960,986 | 18,888
54940 | WRBW | 4,929,252 | 4,926,807 | 31,428
59137 | WRCB | 1,674,932 | 1,436,942 | 9,166
47904 | WRC-TV | 9,040,003 | 8,996,367 | 57,388
54963 | WRDC | 4,380,924 | 4,374,069 | 27,902
55454 | WRDQ | 4,765,929 | 4,765,929 | 30,402
73937 | WRDW-TV | 1,630,465 | 1,580,144 | 10,080
66174 | WREG-TV | 1,645,112 | 1,638,826 | 10,454
61011 | WRET-TV | 2,775,252 | 2,572,161 | 16,408
73940 | WREX | 2,777,313 | 2,554,899 | 16,298
54443 | WRFB | 2,361,435 | 2,105,790 | 1,063
73942 | WRGB | 1,773,206 | 1,559,637 | 9,949
411 | WRGT-TV | 3,563,572 | 3,528,799 | 22,510
74416 | WRIC-TV | 2,264,724 | 2,197,233 | 14,016
61012 | WRJA-TV | 1,227,284 | 1,220,205 | 7,784
412 | WRLH-TV | 2,215,949 | 2,152,568 | 13,731
61013 | WRLK-TV | 1,268,677 | 1,267,713 | 8,087
43870 | WRLM | 3,954,789 | 3,936,003 | 25,108
74156 | WRNN-TV | 21,146,732 | 20,904,564 | 133,350
73964 | WROC-TV | 1,210,157 | 1,192,546 | 7,607
159007 | WRPT | 108,521 | 108,009 | 689
20590 | WRPX-TV | 2,980,937 | 2,976,800 | 18,989
62009 | WRSP-TV | 1,062,091 | 1,060,251 | 6,763
40877 | WRTV | 3,148,448 | 3,125,475 | 19,937
15320 | WRUA | 2,624,204 | 2,339,222 | 14,922
71580 | WRXY-TV | 2,114,529 | 2,114,529 | 13,489
48662 | WSAV-TV | 1,094,897 | 1,094,884 | 6,984
6867 | WSAW-TV | 657,843 | 651,328 | 4,155
36912 | WSAZ-TV | 1,173,019 | 1,103,266 | 7,038
56092 | WSBE-TV | 8,044,866 | 7,776,757 | 49,608
73982 | WSBK-TV | 7,834,658 | 7,766,985 | 49,546
72053 | WSBS-TV | 47,386 | 47,386 | 302
73983 | WSBT-TV | 1,790,673 | 1,780,628 | 11,359
23960 | WSB-TV | 6,772,503 | 6,695,450 | 42,710
69446 | WSCG | 961,649 | 961,649 | 6,134
64971 | WSCV | 6,029,382 | 6,029,382 | 38,461
70536 | WSEC | 517,830 | 517,364 | 3,300
49711 | WSEE-TV | 585,062 | 562,271 | 3,587
21258 | WSES | 1,905,067 | 1,866,312 | 11,905
73988 | WSET-TV | 1,587,650 | 1,345,990 | 8,586
13993 | WSFA | 1,206,335 | 1,168,069 | 7,451
11118 | WSFJ-TV | 1,911,871 | 1,902,328 | 12,135
10203 | WSFL-TV | 5,890,244 | 5,890,244 | 37,574
72871 | WSFX-TV | 1,088,964 | 1,088,964 | 6,947
73999 | WSIL-TV | 650,734 | 647,093 | 4,128
4297 | WSIU-TV | 994,418 | 936,746 | 5,976
74007 | WSJV | 1,686,953 | 1,680,493 | 10,720
78908 | WSKA | 530,610 | 416,302 | 2,656
74034 | WSKG-TV | 866,172 | 616,130 | 3,930
76324 | WSKY-TV | 2,003,325 | 2,002,894 | 12,776
776220 | WSLN | 3,269,796 | 3,020,118 | 19,265
57840 | WSLS-TV | 1,436,974 | 1,276,869 | 8,145
21737 | WSMH | 2,350,370 | 2,335,477 | 14,898
41232 | WSMV-TV | 2,883,773 | 2,837,323 | 18,099
70119 | WSNS-TV | 10,069,653 | 10,068,069 | 64,224
74070 | WSOC-TV | 4,156,321 | 4,085,565 | 26,062
66391 | WSPA-TV | 3,717,232 | 3,549,667 | 22,643
64352 | WSPX-TV | 1,285,581 | 1,167,040 | 7,445
17611 | WSRE | 1,490,766 | 1,489,946 | 9,504
63867 | WSST-TV | 312,974 | 312,260 | 1,992
60341 | WSTE-DT | 3,284,058 | 3,220,155 | 19,775
21252 | WSTM-TV | 1,437,543 | 1,367,590 | 8,724
11204 | WSTR-TV | 3,424,743 | 3,411,973 | 21,765
19776 | WSUR-DT | 3,276,102 | 3,182,722 | 5,205
2370 | WSVI | 41,004 | 41,004 | 262
63840 | WSVN | 6,165,386 | 6,165,386 | 39,329
73374 | WSWB | 1,516,774 | 1,088,360 | 6,943
28155 | WSWG | 389,103 | 389,030 | 2,482
71680 | WSWP-TV | 849,038 | 633,378 | 4,040
74094 | WSYM-TV | 1,695,809 | 1,694,640 | 10,810
73113 | WSYR-TV | 1,314,500 | 1,226,575 | 7,824
40758 | WSYT | 1,962,530 | 1,731,744 | 11,047
56549 | WSYX | 2,871,413 | 2,825,664 | 18,025
65681 | WTAE-TV | 2,985,875 | 2,865,692 | 18,280
23341 | WTAJ-TV | 1,158,024 | 925,907 | 5,906
4685 | WTAP-TV | 489,083 | 469,004 | 2,992
416 | WTAT-TV | 1,284,148 | 1,284,148 | 8,192
67993 | WTBY-TV | 16,997,114 | 16,897,718 | 107,791
29715 | WTCE-TV | 2,964,583 | 2,964,583 | 18,911
65667 | WTCI | 1,276,295 | 1,159,269 | 7,395
67786 | WTCT | 590,643 | 586,819 | 3,743
28954 | WTCV | 2,861,004 | 2,653,740 | 16,928
74422 | WTEN | 1,913,356 | 1,621,808 | 10,346
9881 | WTGL | 4,516,827 | 4,516,827 | 28,813
27245 | WTGS | 1,064,292 | 1,064,066 | 6,788
70655 | WTHI-TV | 966,268 | 914,388 | 5,833
70162 | WTHR | 3,175,603 | 3,122,761 | 19,920
147 | WTIC-TV | 5,397,501 | 4,767,795 | 30,414
26681 | WTIN-TV | 3,277,279 | 3,162,469 | 873
66536 | WTIU | 1,690,704 | 1,689,678 | 10,778
1002 | WTJP-TV | 2,037,103 | 2,002,301 | 12,773
4593 | WTJR | 316,974 | 316,852 | 2,021
70287 | WTJX-TV | 112,125 | 104,561 | 667
47401 | WTKR | 2,242,929 | 2,242,846 | 14,307
82735 | WTLF | 883,350 | 883,326 | 5,635
23486 | WTLH | 1,082,589 | 1,082,542 | 6,906
67781 | WTLJ | 1,738,667 | 1,736,853 | 11,079
65046 | WTLV | 2,041,165 | 2,022,822 | 12,904
74098 | WTMJ-TV | 3,139,304 | 3,123,411 | 19,924
74109 | WTNH | 7,999,974 | 7,453,267 | 47,544
19200 | WTNZ | 1,790,817 | 1,598,570 | 10,197
590 | WTOC-TV | 1,061,993 | 1,061,993 | 6,774
74112 | WTOG | 6,239,245 | 6,236,871 | 39,785
4686 | WTOK-TV | 391,847 | 386,112 | 2,463
13992 | WTOL | 4,534,147 | 4,527,590 | 28,881
21254 | WTOM-TV | 120,159 | 116,524 | 743
74122 | WTOV-TV | 3,866,114 | 3,605,421 | 22,999
82574 | WTPC-TV | 2,138,494 | 2,132,635 | 13,604
86496 | WTPX-TV | 258,246 | 258,154 | 1,647
6869 | WTRF-TV | 2,938,363 | 2,562,114 | 16,344
67798 | WTSF | 879,853 | 811,994 | 5,180
11290 | WTSP | 6,538,906 | 6,515,239 | 41,561
4108 | WTTA | 6,656,303 | 6,639,930 | 42,356
74137 | WTTE | 2,926,672 | 2,885,004 | 18,403
22207 | WTTG | 8,945,253 | 8,890,093 | 56,710
56526 | WTTK | 3,074,975 | 3,055,143 | 19,489
74138 | WTTO | 1,966,252 | 1,931,949 | 12,324
56523 | WTTV | 2,752,635 | 2,749,080 | 17,536
10802 | WTTW | 9,929,487 | 9,929,071 | 63,338
74148 | WTVA | 807,017 | 794,561 | 5,069
22590 | WTVC | 1,828,040 | 1,618,274 | 10,323
8617 | WTVD | 4,201,042 | 4,188,018 | 26,715
55305 | WTVE | 5,368,807 | 5,365,301 | 34,225
36504 | WTVF | 2,816,921 | 2,798,755 | 17,853
74150 | WTVG | 4,440,934 | 4,429,742 | 28,257
74151 | WTVH | 1,375,016 | 1,313,054 | 8,376
10645 | WTVI | 3,286,073 | 3,261,428 | 20,805
63154 | WTVJ | 6,009,434 | 6,009,434 | 38,334
52280 | WTVK | 7,403,075 | 7,395,979 | 47,179
595 | WTVM | 1,577,223 | 1,471,502 | 9,387
72945 | WTVO | 1,413,778 | 1,400,377 | 8,933
28311 | WTVP | 660,258 | 660,214 | 4,212
51597 | WTVQ-DT | 1,060,102 | 1,054,409 | 6,726
57832 | WTVR-TV | 1,998,729 | 1,990,377 | 12,697
16817 | WTVS | 5,607,125 | 5,606,929 | 35,767
68569 | WTVT | 6,511,462 | 6,491,829 | 41,411
3661 | WTVW | 839,062 | 833,035 | 5,314
35575 | WTVX | 3,558,645 | 3,556,727 | 22,688
4152 | WTVY | 1,032,612 | 1,029,898 | 6,570
40759 | WTVZ-TV | 2,246,928 | 2,246,845 | 14,333
66908 | WTWC-TV | 1,078,213 | 1,078,166 | 6,878
20426 | WTWO | 716,304 | 710,680 | 4,533
81692 | WTWV | 1,529,924 | 1,528,555 | 9,751
51568 | WTXF-TV | 11,330,716 | 11,023,958 | 70,322
41065 | WTXL-TV | 1,071,056 | 1,070,908 | 6,831
8532 | WUAB | 4,198,546 | 4,095,152 | 26,123
12855 | WUCF-TV | 4,516,827 | 4,516,827 | 28,813
36395 | WUCW | 4,213,867 | 4,205,494 | 26,827
69440 | WUFT | 1,524,792 | 1,524,792 | 9,727
413 | WUHF | 1,161,377 | 1,157,795 | 7,386
8156 | WUJA | 2,449,731 | 2,192,227 | 13,984
69080 | WUNC-TV | 4,701,102 | 4,682,210 | 29,868
69292 | WUND-TV | 1,526,704 | 1,526,704 | 9,739
69114 | WUNE-TV | 3,449,284 | 2,886,515 | 18,413
69300 | WUNF-TV | 2,825,704 | 2,517,064 | 16,056
69124 | WUNG-TV | 4,065,099 | 4,049,218 | 25,830
60551 | WUNI | 7,755,236 | 7,627,170 | 48,654
69332 | WUNJ-TV | 1,224,449 | 1,224,449 | 7,811
69149 | WUNK-TV | 2,105,575 | 2,099,533 | 13,393
69360 | WUNL-TV | 3,243,843 | 3,015,382 | 19,235
69444 | WUNM-TV | 1,370,547 | 1,370,547 | 8,743
69397 | WUNP-TV | 1,488,708 | 1,474,989 | 9,409
69416 | WUNU | 1,212,006 | 1,210,875 | 7,724
83822 | WUNW | 2,012,283 | 1,476,883 | 9,421
6900 | WUPA | 6,845,271 | 6,764,030 | 43,148
13938 | WUPL | 1,833,116 | 1,833,116 | 11,693
10897 | WUPV | 2,142,407 | 2,122,016 | 13,536
19190 | WUPW | 2,136,541 | 2,135,020 | 13,619
23128 | WUPX-TV | 1,182,585 | 1,166,267 | 7,440
65593 | WUSA | 9,654,785 | 9,309,845 | 59,388
4301 | WUSI-TV | 320,658 | 320,658 | 2,045
60552 | WUTB | 9,293,641 | 9,148,848 | 58,361
30577 | WUTF-TV | 8,479,857 | 8,266,141 | 52,730
57837 | WUTR | 511,394 | 470,311 | 3,000
415 | WUTV | 1,611,128 | 1,579,265 | 10,074
16517 | WUVC-DT | 4,224,285 | 4,208,453 | 26,846
48813 | WUVG-DT | 6,908,879 | 6,834,542 | 43,598
3072 | WUVN | 1,236,426 | 1,156,397 | 7,377
60560 | WUVP-DT | 10,944,731 | 10,756,717 | 68,617
9971 | WUXP-TV | 2,749,827 | 2,737,094 | 17,460
417 | WVAH-TV | 1,295,710 | 1,222,075 | 7,796
23947 | WVAN-TV | 1,118,534 | 1,117,845 | 7,131
65387 | WVBT | 1,964,109 | 1,964,109 | 12,529
72342 | WVCY-TV | 3,149,773 | 3,140,719 | 20,035
60559 | WVEA-TV | 5,324,315 | 5,322,343 | 33,951
74167 | WVEC | 2,189,627 | 2,184,435 | 13,935
5802 | WVEN-TV | 4,749,513 | 4,749,513 | 30,297
61573 | WVEO | 962,531 | 803,553 | 2,847
69946 | WVER | 903,858 | 770,412 | 4,914
10976 | WVFX | 688,514 | 596,278 | 3,804
47929 | WVIA-TV | 3,472,501 | 2,879,994 | 18,371
3667 | WVII-TV | 368,499 | 348,813 | 2,225
70309 | WVIR-TV | 2,140,100 | 2,107,081 | 13,441
74170 | WVIT | 5,920,252 | 5,425,459 | 34,609
18753 | WVIZ | 3,694,957 | 3,687,740 | 23,524
70021 | WVLA-TV | 1,969,063 | 1,969,000 | 12,560
81750 | WVLR | 1,483,484 | 1,376,091 | 8,778
35908 | WVLT-TV | 1,983,974 | 1,714,780 | 10,939
74169 | WVNS-TV | 889,675 | 560,472 | 3,575
11259 | WVNY | 755,448 | 673,828 | 4,298
29000 | WVOZ-TV | 981,832 | 762,182 | 2,847
71657 | WVPB-TV | 939,383 | 910,465 | 5,808
60111 | WVPT | 995,523 | 887,449 | 5,661
70491 | WVPX-TV | 4,131,639 | 4,098,980 | 26,147
66378 | WVPY | 917,535 | 855,616 | 5,458
67190 | WVSN | 2,593,148 | 2,271,512 | 14,490
69940 | WVTB | 468,294 | 246,240 | 1,571
74173 | WVTM-TV | 2,101,947 | 2,026,895 | 12,930
74174 | WVTV | 3,130,664 | 3,122,630 | 19,919
77496 | WVUA | 2,305,621 | 2,250,337 | 14,355
4149 | WVUE-DT | 1,759,779 | 1,759,779 | 11,226
4329 | WVUT | 267,531 | 267,450 | 1,706
74176 | WVVA | 997,556 | 690,651 | 4,406
3113 | WVXF | 70,673 | 66,853 | 426
12033 | WWAY | 1,328,366 | 1,328,366 | 8,474
30833 | WWBT | 2,109,206 | 2,074,930 | 13,236
20295 | WWCP-TV | 2,798,717 | 2,540,105 | 16,203
24812 | WWCW | 1,390,908 | 1,210,482 | 7,722
23671 | WWDP | 6,230,964 | 5,959,061 | 38,013
21158 | WWHO | 2,994,400 | 2,952,760 | 18,836
14682 | WWJE-DT | 7,755,236 | 7,627,170 | 48,654
65919 | WWJS | 3,798,882 | 3,731,768 | 23,805
72123 | WWJ-TV | 5,653,566 | 5,653,219 | 36,062
166512 | WWJX | 524,625 | 524,579 | 3,346
6868 | WWLP | 3,866,407 | 3,097,621 | 19,760
74192 | WWL-TV | 1,908,335 | 1,908,335 | 12,173
3133 | WWMB | 1,596,320 | 1,591,501 | 10,152
74195 | WWMT | 2,667,986 | 2,657,016 | 16,949
68851 | WWNY-TV | 368,613 | 341,101 | 2,176
74197 | WWOR-TV | 21,146,732 | 20,904,564 | 133,350
65943 | WWPB | 3,531,585 | 3,086,500 | 19,689
23264 | WWPX-TV | 2,612,045 | 2,544,163 | 16,229
68547 | WWRS-TV | 2,376,549 | 2,354,442 | 15,019
61251 | WWSB | 3,830,838 | 3,830,838 | 24,437
23142 | WWSI | 11,821,594 | 11,646,436 | 74,293
16747 | WWTI | 195,127 | 188,538 | 1,203
998 | WWTO-TV | 6,837,732 | 6,837,732 | 43,618
26994 | WWTV | 1,047,227 | 1,032,448 | 6,586
84214 | WWTW | 1,529,924 | 1,528,555 | 9,751
26993 | WWUP-TV | 114,688 | 108,690 | 693
23338 | WXBU | 4,219,869 | 3,695,568 | 23,574
61504 | WXCW | 2,000,927 | 2,000,927 | 12,764
61084 | WXEL-TV | 5,976,331 | 5,976,331 | 38,123
60539 | WXFT-DT | 10,428,632 | 10,421,900 | 66,481
23929 | WXGA-TV | 618,176 | 616,843 | 3,935
51163 | WXIA-TV | 7,067,151 | 6,920,534 | 44,146
53921 | WXII-TV | 3,895,811 | 3,546,156 | 22,621
146 | WXIN | 3,066,589 | 3,043,020 | 19,411
39738 | WXIX-TV | 3,033,449 | 3,023,049 | 19,284
414 | WXLV-TV | 4,920,177 | 4,882,710 | 31,147
68433 | WXMI | 2,110,083 | 2,109,607 | 13,457
64549 | WXOW | 433,343 | 422,605 | 2,696
6601 | WXPX-TV | 5,414,068 | 5,411,832 | 34,522
74215 | WXTV-DT | 21,842,105 | 21,428,169 | 136,690
12472 | WXTX | 745,811 | 742,438 | 4,736
11970 | WXXA-TV | 1,691,753 | 1,553,272 | 9,908
57274 | WXXI-TV | 1,192,140 | 1,176,310 | 7,504
53517 | WXXV-TV | 1,235,520 | 1,233,511 | 7,869
10267 | WXYZ-TV | 5,716,967 | 5,716,632 | 36,466
77515 | WYCI | 32,321 | 21,447 | 137
70149 | WYCW | 3,717,232 | 3,549,667 | 22,643
62219 | WYDC | 542,984 | 435,924 | 2,781
18783 | WYDN | 2,760,323 | 2,697,351 | 17,206
35582 | WYDO | 1,340,990 | 1,340,990 | 8,554
25090 | WYES-TV | 1,776,818 | 1,776,667 | 11,333
53905 | WYFF | 2,836,376 | 2,609,544 | 16,646
49803 | WYIN | 7,062,511 | 7,062,511 | 45,052
24915 | WYMT-TV | 1,144,051 | 819,069 | 5,225
17010 | WYOU | 2,912,468 | 2,246,394 | 14,330
77789 | WYOW | 94,927 | 94,486 | 603
13933 | WYPX-TV | 1,547,670 | 1,434,147 | 9,148
4693 | WYTV | 4,870,043 | 4,522,748 | 28,851
5875 | WYZZ-TV | 1,008,995 | 1,002,743 | 6,396
15507 | WZBJ | 1,603,364 | 1,421,509 | 9,068
28119 | WZDX | 1,714,034 | 1,633,019 | 10,417
70493 | WZME | 22,102,923 | 21,652,522 | 138,121
81448 | WZMQ | 73,784 | 73,510 | 469
71871 | WZPX-TV | 2,165,413 | 2,165,333 | 13,813
136750 | WZRB | 1,007,172 | 1,006,731 | 6,422
418 | WZTV | 2,743,270 | 2,733,978 | 17,440
83270 | WZVI | 64,187 | 63,279 | 404
19183 | WZVN-TV | 2,331,155 | 2,331,155 | 14,870
49713 | WZZM | 1,678,220 | 1,652,095 | 10,539
¹ Call signs WIPM and WIPR are stations in Puerto Rico that are linked together with a total fee of $20,455.
² Call signs WNJX and WAPA are stations in Puerto Rico that are linked together with a total fee of $20,455.
³ Call signs WKAQ and WORA are stations in Puerto Rico that are linked together with a total fee of $20,455.
⁴ Call signs WOLE and WLII are stations in Puerto Rico that are linked together with a total fee of $20,455.
⁵ Call signs WVEO and WTCV are stations in Puerto Rico that are linked together with a total fee of $20,455.
⁶ Call signs WJPX and WJWN are stations in Puerto Rico that are linked together with a total fee of $20,455.
⁷ Call signs WAPA and WTIN are stations in Puerto Rico that are linked together with a total fee of $20,455.
⁸ Call signs WSUR and WLII are stations in Puerto Rico that are linked together with a total fee of $20,455.
⁹ Call signs WVOZ and WTCV are stations in Puerto Rico that are linked together with a total fee of $20,455.
¹⁰ Call signs WJPX and WKPV are stations in Puerto Rico that are linked together with a total fee of $20,455.
¹¹ Call signs WMTJ and WQTO are stations in Puerto Rico that are linked together with a total fee of $20,455.
¹² Call signs WIRS and WJPX are stations in Puerto Rico that are linked together with a total fee of $20,455.
¹³ Call signs WRFB and WORA are stations in Puerto Rico that are linked together with a total fee of $20,455.

Table 9 FY 2024 Schedule of Regulatory Fees

Regulatory fees for the categories shaded in gray are collected by the Commission in advance to cover the term of the license and are submitted at the time the application is filed.

Fee category | Annual regulatory fee (U.S. $s)
PLMRS (per license) (Exclusive Use) (47 CFR part 90) | 25.
Microwave (per license) (47 CFR part 101) | 25.
Marine (Ship) (per station) (47 CFR part 80) | 15.
Marine (Coast) (per license) (47 CFR part 80) | 40.
Rural Radio (47 CFR part 22) (previously listed under the Land Mobile category) | 10.
PLMRS (Shared Use) (per license) (47 CFR part 90) | 10.
Aviation (Aircraft) (per station) (47 CFR part 87) | 10.
Aviation (Ground) (per license) (47 CFR part 87) | 20.
CMRS Mobile/Cellular Services (per unit) (47 CFR parts 20, 22, 24, 27, 80 and 90) (Includes Non-Geographic telephone numbers) | .16.
CMRS Messaging Services (per unit) (47 CFR parts 20, 22, 24 and 90) | .08.
Broadband Radio Service (formerly MMDS/MDS) (per license) (47 CFR part 27) | 725
Local Multipoint Distribution Service (per call sign) (47 CFR, part 101) | 725.
AM Radio Construction Permits | 585.
FM Radio Construction Permits | 1,025.
AM and FM Broadcast Radio Station Fees | See Table Below.
Full Power TV (47 CFR part 73) VHF and UHF Commercial Fee Factor | $.006598.
| See Appendix G of FY 2024 R&O for fee amounts due, also available at https://www.fcc.gov/licensing-databases/fees/regulatory-fees.
Full Power TV Construction Permits | 5,200.
Low Power TV, Class A TV, TV/FM Translators & FM Boosters (47 CFR part 74) | 245.
CARS (47 CFR part 78) | 1,825.
Cable Television Systems (per subscriber) (47 CFR part 76), Including IPTV and Direct Broadcast Satellite (DBS) | 1.27.
Interstate Telecommunication Service Providers (per revenue dollar) | .005420.
Toll Free (per toll free subscriber) (47 CFR section 52.101 (f) of the rules) | .12.
Earth Stations (47 CFR part 25) | 2,610.
Space Stations (per operational station in geostationary orbit) (47 CFR part 25) also includes DBS Service (per operational station) (47 CFR part 100) | 144,155.
Space Stations (per operational system in non-geostationary orbit) (47 CFR part 25) (Other) | 964,200.
Space Stations (per operational system in non-geostationary orbit) (47 CFR part 25) (Less Complex) | 441,925.
Space Stations (per license/call sign in non-geostationary orbit) (47 CFR part 25) (Small Satellite) | 12,215.
International Bearer Circuits—Terrestrial/Satellites (per Gbps circuit) | $17.
Submarine Cable Landing Licenses Fee (per cable system) | See Table Below.

FY 2024 Radio Station Regulatory Fees
Population served | AM Class A | AM Class B | AM Class C | AM Class D | FM Classes A, B1 & C3 | FM Classes B, C, C0, C1 & C2
<=10,000 | $560 | $405 | $350 | $385 | $615 | $700
10,001-25,000 | 935 | 675 | 585 | 645 | 1,025 | 1,170
25,001-75,000 | 1,405 | 1,015 | 880 | 970 | 1,540 | 1,755
75,001-150,000 | 2,105 | 1,520 | 1,315 | 1,450 | 2,305 | 2,635
150,001-500,000 | 3,160 | 2,280 | 1,975 | 2,180 | 3,465 | 3,955
500,001-1,200,000 | 4,730 | 3,415 | 2,960 | 3,265 | 5,185 | 5,920
1,200,001-3,000,000 | 7,105 | 5,130 | 4,445 | 4,900 | 7,790 | 8.890
3,000,001-6,000,000 | 10,650 | 7,690 | 6,665 | 7,345 | 11,675 | 13,325
>6,000,000 | 15,980 | 11,535 | 10,000 | 11,025 | 17,515 | 19,995

FY 2024 International Bearer Circuits—Submarine Cable Systems
Submarine cable systems (capacity as of December 31, 2022) | Fee ratio (units) | FY 2024 regulatory fees
Less than 50 Gbps | .0625 | $5,570
50 Gbps or greater, but less than 250 Gbps | .125 | 11,140
250 Gbps or greater, but less than 1,500 Gbps | .25 | 22,275
1,500 Gbps or greater, but less than 3,500 Gbps | .5 | 44,550
3,500 Gbps or greater, but less than 6,500 Gbps | 1.0 Unit | 89,095
6,500 Gbps or greater | 2.0 | 178,190

VI. Initial Regulatory Flexibility Analysis

As required by the Regulatory Flexibility Act of 1980, as amended (RFA), the Federal Communications Commission (Commission) has prepared this Initial Regulatory Flexibility Analysis (IRFA) of the policies and rules proposed in the Notice of Proposed Rulemaking (NPRM) assessing the possible significant economic impact on a substantial number of small entities. The Commission requests written public comments on this IRFA. Comments must be identified as responses to the IRFA and must be filed by the deadlines for comments on the NPRM. The Commission will send a copy of the NPRM, including this IRFA, to the Chief Counsel for Advocacy of the Small Business Administration (SBA). In addition, the NPRM and IRFA (or summaries thereof) will be published in the Federal Register.

A. Need for, and Objectives of, the Proposed Rules

57. Each fiscal year, the Commission is required to collect regulatory fees in an amount equal to our annual salaries and expenses (S&E) appropriation by the end of September. Pursuant to section 9 of the Communications Act of 1934, as amended (Communications Act or Act), and the Full Year Continuing Appropriations Act, 2025 the Commission must collect $390,192,000, which is an amount equal to its fiscal year (FY) 2025 salaries and expenses (S&E) appropriation. The Commission's methodology for assessing regulatory fees must “reflect the full-time equivalent number of employees within the bureaus and offices of the Commission, adjusted to take into account factors that are reasonably related to the benefits provided to the payor of the fee by the Commission's activities.” The total amount the Commission must collect in an offsetting collection generally changes each fiscal year, and payors' regulatory fees will also typically change each fiscal year as a mathematical consequence of the changes in the total amount to be collected, the number of full-time equivalents (FTEs), and projected unit estimates for each regulatory fee category. The NPRM seeks comment on the proposed regulatory fees and methodology for FY 2025, as set forth in Tables 3, 4, and 7. The NPRM also seeks comment on the calculation of television broadcaster regulatory fees as set forth in Table 8. Finally, the Commission seeks comment on whether any new regulatory fee categories or processes will improve its ability to meet its statutory obligations to assess and collect regulatory fees.

B. Legal Basis

58. The proposed action is authorized pursuant to sections 4(i), 4(j), 9, 9A, and 303(r) of the Communications Act of 1934, as amended, 47 U.S.C. 154(i), 154(j), 159, 159A, and 303(r).

C. Description and Estimate of the Number of Small Entities to Which the Proposed Rules Will Apply

59. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A “small business concern” is one which: (1) is independently owned and operated; (2) is not dominant in its field of operation; and (3) satisfies any additional criteria established by the SBA.

60. Small Businesses, Small Organizations, Small Governmental Jurisdictions. Our actions, over time, may affect small entities that are not easily categorized at present. We therefore describe, at the outset, three broad groups of small entities that could be directly affected herein. First, while there are industry specific size standards for small businesses that are used in the regulatory flexibility analysis, according to data from the Small Business Administration's (SBA) Office of Advocacy, in general a small business is an independent business having fewer than 500 employees. These types of small businesses represent 99.9% of all businesses in the United States, which translates to 34.75 million businesses.

61. Next, the type of small entity described as a “small organization” is generally “any not-for-profit enterprise which is independently owned and operated and is not dominant in its field.” The Internal Revenue Service (IRS) uses a revenue benchmark of $50,000 or less to delineate its annual electronic filing requirements for small exempt organizations. Nationwide, for tax year 2022, there were approximately 530,109 small exempt organizations in the U.S. reporting revenues of $50,000 or less according to the registration and tax data for exempt organizations available from the IRS.

62. Finally, the small entity described as a “small governmental jurisdiction” is defined generally as “governments of cities, counties, towns, townships, villages, school districts, or special districts, with a population of less than fifty thousand.” U.S. Census Bureau data from the 2022 Census of Governments indicate there were 90,837 local governmental jurisdictions consisting of general purpose governments and special purpose governments in the United States. Of this number, there were 36,845 general purpose governments (county, municipal, and town or township) with populations of less than 50,000 and 11,879 special purpose governments (independent school districts) with enrollment populations of less than 50,000. Accordingly, based on the 2022 U.S. Census of Governments data, we estimate that at least 48,724 entities fall into the category of “small governmental jurisdictions.”

63. Wired Telecommunications Carriers. The U.S. Census Bureau defines this industry as establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. Wired Telecommunications Carriers are also referred to as wireline carriers or fixed local service providers.

64. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 4,590 providers that reported they were engaged in the provision of fixed local services. Of these providers, the Commission estimates that 4,146 providers have 1,500 or fewer employees. Consequently, using the SBA's small business size standard, most of these providers can be considered small entities.

65. Local Exchange Carriers (LECs). Neither the Commission nor the SBA has developed a size standard for small businesses specifically applicable to local exchange services. Providers of these services include both incumbent and competitive local exchange service providers. Wired Telecommunications Carriers is the closest industry with an SBA small business size standard. Wired Telecommunications Carriers are also referred to as wireline carriers or fixed local service providers. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 4,590 providers that reported they were fixed local exchange service providers. Of these providers, the Commission estimates that 4,146 providers have 1,500 or fewer employees. Consequently, using the SBA's small business size standard, most of these providers can be considered small entities.

66. Incumbent Local Exchange Carriers (Incumbent LECs). Neither the Commission nor the SBA have developed a small business size standard specifically for incumbent local exchange carriers. Wired Telecommunications Carriers is the closest industry with an SBA small business size standard. The SBA small business size standard for Wired Telecommunications Carriers classifies firms having 1,500 or fewer employees as small. U.S. Census Bureau data for 2017 show that there were 3,054 firms in this industry that operated for the entire year. Of this number, 2,964 firms operated with fewer than 250 employees. Additionally, based on Commission data in the 2022 Universal Service Monitoring Report, as of December 31, 2021, there were 1,212 providers that reported they were incumbent local exchange service providers. Of these providers, the Commission estimates that 916 providers have 1,500 or fewer employees. Consequently, using the SBA's small business size standard, the Commission estimates that the majority of incumbent local exchange carriers can be considered small entities.

67. Competitive Local Exchange Carriers (LECs). Neither the Commission nor the SBA has developed a size standard for small businesses specifically applicable to local exchange services. Providers of these services include several types of competitive local exchange service providers. Wired Telecommunications Carriers is the closest industry with a SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 3,378 providers that reported they were competitive local exchange service providers. Of these providers, the Commission estimates that 3,230 providers have 1,500 or fewer employees. Consequently, using the SBA's small business size standard, most of these providers can be considered small entities.

68. Neither the Commission nor the SBA have developed a small business size standard specifically for Interexchange Carriers. Wired Telecommunications Carriers is the closest industry with a SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 127 providers that reported they were engaged in the provision of interexchange services. Of these providers, the Commission estimates that 109 providers have 1,500 or fewer employees. Consequently, using the SBA's small business size standard, the Commission estimates that the majority of providers in this industry can be considered small entities.

69. Prepaid Calling Card Providers. Neither the Commission nor the SBA has developed a small business size standard specifically for prepaid calling card providers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2022 Universal Service Monitoring Report, as of December 31, 2021, there were 62 providers that reported they were engaged in the provision of prepaid card services. Of these providers, the Commission estimates that 61 providers have 1,500 or fewer employees. Consequently, using the SBA's small business size standard, most of these providers can be considered small entities.

70. Local Resellers. Neither the Commission nor the SBA have developed a small business size standard specifically for Local Resellers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2022 Universal Service Monitoring Report, as of December 31, 2021, there were 207 providers that reported they were engaged in the provision of local resale services. Of these providers, the Commission estimates that 202 providers have 1,500 or fewer employees. Consequently, using the SBA's small business size standard, most of these providers can be considered small entities.

71. Toll Resellers. Neither the Commission nor the SBA have developed a small business size standard specifically for Toll Resellers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2022 Universal Service Monitoring Report, as of December 31, 2021, there were 457 providers that reported they were engaged in the provision of toll services. Of these providers, the Commission estimates that 438 providers have 1,500 or fewer employees. Consequently, using the SBA's small business size standard, most of these providers can be considered small entities.

72. Other Toll Carriers. Neither the Commission nor the SBA has developed a definition for small businesses specifically applicable to Other Toll Carriers. This category includes toll carriers that do not fall within the categories of interexchange carriers, operator service providers, prepaid calling card providers, satellite service carriers, or toll resellers. Wired Telecommunications Carriers is the closest industry with a SBA small business size standard. The SBA small business size standard for Wired Telecommunications Carriers classifies firms having 1,500 or fewer employees as small. U.S. Census Bureau data for 2017 show that there were 3,054 firms in this industry that operated for the entire year. Of this number, 2,964 firms operated with fewer than 250 employees. Additionally, based on Commission data in the 2022 Universal Service Monitoring Report, as of December 31, 2021, there were 90 providers that reported they were engaged in the provision of other toll services. Of these providers, the Commission estimates that 87 providers have 1,500 or fewer employees. Consequently, using the SBA's small business size standard, most of these providers can be considered small entities.

73. Wireless Telecommunications Carriers (except Satellite). This industry comprises establishments engaged in operating and maintaining switching and transmission facilities to provide communications via the airwaves. Establishments in this industry have spectrum licenses and provide services using that spectrum, such as cellular services, paging services, wireless internet access, and wireless video services. The SBA size standard for this industry classifies a business as small if it has 1,500 or fewer employees. U.S. Census Bureau data for 2017 show that there were 2,893 firms in this industry that operated for the entire year. Of that number, 2,837 firms employed fewer than 250 employees. Additionally, based on Commission data in the 2022 Universal Service Monitoring Report, as of December 31, 2021, there were 594 providers that reported they were engaged in the provision of wireless services. Of these providers, the Commission estimates that 511 providers have 1,500 or fewer employees. Consequently, using the SBA's small business size standard, most of these providers can be considered small entities.

74. Television Broadcasting. This industry is comprised of “establishments primarily engaged in broadcasting images together with sound.” These establishments operate television broadcast studios and facilities for the programming and transmission of programs to the public. These establishments also produce or transmit visual programming to affiliated broadcast television stations, which in turn broadcast the programs to the public on a predetermined schedule. Programming may originate in their own studio, from an affiliated network, or from external sources. The SBA small business size standard for this industry classifies businesses having $47 million or less in annual receipts as small. 2017 U.S. Census Bureau data indicate that 744 firms in this industry operated for the entire year. Of that number, 657 firms had revenue of less than $25,000,000. Based on this data we estimate that the majority of television broadcasters are small entities under the SBA small business size standard.

75. As of March 31, 2024, there were 1,385 licensed commercial television stations. Of this total, 1,308 stations (or 94.4%) had revenues of $47 million or less in 2023, according to Commission staff review of the BIA Kelsey Inc. Media Access Pro Television Database (BIA) on January 7, 2025, and therefore these licensees qualify as small entities under the SBA definition. In addition, the Commission estimates as of December 31, 2024, there were 382 licensed noncommercial educational (NCE) television stations, 381 Class A TV stations, 1,801 LPTV stations and 3,091 TV translator stations. The Commission, however, does not compile and otherwise does not have access to financial information for these television broadcast stations that would permit it to determine how many of these stations qualify as small entities under the SBA small business size standard. Nevertheless, given the SBA's large annual receipts threshold for this industry and the nature of these television station licensees, we presume that all of these entities qualify as small entities under the above SBA small business size standard.

76. Radio Stations. This industry is comprised of “establishments primarily engaged in broadcasting aural programs by radio to the public.” Programming may originate in their own studio, from an affiliated network, or from external sources. The SBA small business size standard for this industry classifies firms having $47 million or less in annual receipts as small. U.S. Census Bureau data for 2017 show that 2,963 firms operated in this industry during that year. Of this number, 1,879 firms operated with revenue of less than $25 million per year. Based on this data and the SBA's small business size standard, we estimate a majority of such entities are small entities.

77. The Commission estimates that as of December 31, 2024, there were 4,383 licensed commercial AM radio stations and 6,625 licensed commercial FM radio stations, for a combined total of 11,008 commercial radio stations. Of this total, 11,007 stations (or 99.99%) had revenues of $47 million or less in 2023, according to Commission staff review of the BIA Kelsey Inc. Media Access Pro Database (BIA) on January 7, 2025, and therefore these licensees qualify as small entities under the SBA definition. In addition, the Commission estimates that as of December 31, 2024, there were 4,477 licensed noncommercial (NCE) FM radio stations, 1,968 low power FM (LPFM) stations, and 8,880 FM translators and boosters. The Commission, however, does not compile, and otherwise does not have access to financial information for these radio stations that would permit it to determine how many of these stations qualify as small entities under the SBA small business size standard. Nevertheless, given the SBA's large annual receipts threshold for this industry and the nature of radio station licensees, we presume that all of these entities qualify as small entities under the above SBA small business size standard.

78. We note, however, that in assessing whether a business concern qualifies as “small” under the above definition, business (control) affiliations must be included. Our estimate, therefore, likely overstates the number of small entities that might be affected by our action, because the revenue figure on which it is based does not include or aggregate revenues from affiliated companies. In addition, another element of the definition of “small business” requires that an entity not be dominant in its field of operation. We are unable at this time to define or quantify the criteria that would establish whether a specific radio or television broadcast station is dominant in its field of operation. Accordingly, the estimate of small businesses to which the rules may apply does not exclude any radio or television station from the definition of a small business on this basis and is therefore possibly over-inclusive. An additional element of the definition of “small business” is that the entity must be independently owned and operated. Because it is difficult to assess these criteria in the context of media entities, the estimate of small businesses to which the rules may apply does not exclude any radio or television station from the definition of a small business on this basis and similarly may be over-inclusive.

79. Cable Companies and Systems (Rate Regulation). The Commission has developed its own small business size standard for the purpose of cable rate regulation. Under the Commission's rules, a “small cable company” is one serving 400,000 or fewer subscribers nationwide. Based on industry data, there are about 420 cable companies in the U.S. Of these, only seven have more than 400,000 subscribers. In addition, under the Commission's rules, a “small system” is a cable system serving 15,000 or fewer subscribers. Based on industry data, there are about 4,139 cable systems (headends) in the U.S. Of these, about 639 have more than 15,000 subscribers. Accordingly, the Commission estimates that the majority of cable companies and cable systems are small.

80. Cable System Operators (Telecom Act Standard). The Communications Act of 1934, as amended, contains a size standard for a “small cable operator,” which is “a cable operator that, directly or through an affiliate, serves in the aggregate fewer than one percent of all subscribers in the United States and is not affiliated with any entity or entities whose gross annual revenues in the aggregate exceed $250,000,000.” For purposes of the Telecom Act Standard, the Commission determined that a cable system operator that serves fewer than 498,000 subscribers, either directly or through affiliates, will meet the definition of a small cable operator. Based on industry data, only six cable system operators have more than 498,000 subscribers. Accordingly, the Commission estimates that the majority of cable system operators are small under this size standard. We note however, that the Commission neither requests nor collects information on whether cable system operators are affiliated with entities whose gross annual revenues exceed $250 million. Therefore, we are unable at this time to estimate with greater precision the number of cable system operators that would qualify as small cable operators under the definition in the Communications Act.

81. Direct Broadcast Satellite (DBS) Service. DBS service is a nationally distributed subscription service that delivers video and audio programming via satellite to a small parabolic “dish” antenna at the subscriber's location. DBS is included in the Wired Telecommunications Carriers industry which comprises establishments primarily engaged in operating and/or providing access to transmission facilities and infrastructure that they own and/or lease for the transmission of voice, data, text, sound, and video using wired telecommunications networks. Transmission facilities may be based on a single technology or combination of technologies. Establishments in this industry use the wired telecommunications network facilities that they operate to provide a variety of services, such as wired telephony services, including VoIP services, wired (cable) audio and video programming distribution; and wired broadband internet services. By exception, establishments providing satellite television distribution services using facilities and infrastructure that they operate are included in this industry.

82. The SBA small business size standard for Wired Telecommunications Carriers classifies firms having 1,500 or fewer employees as small. U.S. Census Bureau data for 2017 show that 3,054 firms operated in this industry for the entire year. Of this number, 2,964 firms operated with fewer than 250 employees. Based on this data, the majority of firms in this industry can be considered small under the SBA small business size standard. According to Commission data, however, only two entities provide DBS service—DIRECTV (owned by AT&T) and DISH Network, which require a great deal of capital for operation. DIRECTV and DISH Network both exceed the SBA size standard for classification as a small business. Therefore, we must conclude based on internally developed Commission data, in general DBS service is provided only by large firms.

83. Satellite Telecommunications. This industry comprises firms “primarily engaged in providing telecommunications services to other establishments in the telecommunications and broadcasting industries by forwarding and receiving communications signals via a system of satellites or reselling satellite telecommunications.” Satellite telecommunications service providers include satellite and earth station operators. The SBA small business size standard for this industry classifies a business with $44 million or less in annual receipts as small. U.S. Census Bureau data for 2017 show that 275 firms in this industry operated for the entire year. Of this number, 242 firms had revenue of less than $25 million. Consequently, using the SBA's small business size standard most satellite telecommunications service providers can be considered small entities. The Commission notes however, that the SBA's revenue small business size standard is applicable to a broad scope of satellite telecommunications providers included in the U.S. Census Bureau's Satellite Telecommunications industry definition. Additionally, the Commission neither requests nor collects annual revenue information from satellite telecommunications providers, and is therefore unable to more accurately estimate the number of satellite telecommunications providers that would be classified as a small business under the SBA size standard.

84. All Other Telecommunications. This industry is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Providers of internet services (e.g. dial-up ISPs) or Voice over internet Protocol (VoIP) services, via client-supplied telecommunications connections are also included in this industry. The SBA small business size standard for this industry classifies firms with annual receipts of $35 million or less as small. U.S. Census Bureau data for 2017 show that there were 1,079 firms in this industry that operated for the entire year. Of those firms, 1,039 had revenue of less than $25 million. Based on this data, the Commission estimates that the majority of “All Other Telecommunications” firms can be considered small.

85. RespOrgs. Responsible Organizations, or RespOrgs (also referred to as Toll-Free Number (TFN) providers), are entities chosen by toll free subscribers to manage and administer the appropriate records in the toll-free Service Management System for the toll-free subscriber. Based on information on the website of SOMOS, the entity that maintains a registry of Toll-Free Number providers (SMS/800 TFN Registry) for the more than 42 million Toll-Free numbers in North America, and the TSS Registry, a centralized registry for the use of Toll-Free Numbers in text messaging and multimedia services, there were approximately 446 registered RespOrgs/Toll-Free Number providers in July 2021. RespOrgs are often wireline carriers, however they can be include non-carrier entities. Accordingly, the description below for RespOrgs include both Carrier RespOrgs and Non-Carrier RespOrgs.

86. Carrier RespOrgs. Neither the Commission nor the SBA have developed a small business size standard for Carrier RespOrgs. Wired Telecommunications Carriers, and Wireless Telecommunications Carriers (except Satellite) are the closest industries with a SBA small business size applicable to Carrier RespOrgs.

87. Wired Telecommunications Carriers are establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. The SBA small business size standard for this industry classifies a business as small if it has 1,500 or fewer employees. U.S. Census Bureau data for 2017 show that there were 3,054 firms that operated for the entire year. Of this number, 2,964 firms operated with fewer than 250 employees. Based on that data, we conclude that the majority of Carrier RespOrgs that operated with wireline-based technology are small.

88. Wireless Telecommunications Carriers (except Satellite) engage in operating and maintaining switching and transmission facilities to provide communications via the airwaves. Establishments in this industry have spectrum licenses and provide services using that spectrum, such as cellular services, paging services, wireless internet access, and wireless video services. The SBA small business size standard for this industry classifies a business as small if it has 1,500 or fewer employees. For this industry, U.S. Census Bureau data for 2017 show that there were 2,893 firms that operated for the entire year. Of this number, 2,837 firms employed fewer than 250 employees. Based on this data, we conclude that the majority of Carrier RespOrgs that operated with wireless-based technology are small.

89. Non-Carrier RespOrgs. Neither the Commission nor the SBA have developed a small business size standard Non-Carrier RespOrgs. Other Services Related to Advertising and Other Management Consulting Services” are the closest industries with a SBA small business size applicable to Non-Carrier RespOrgs.

90. The Other Services Related to Advertising industry establishments primarily engaged in providing advertising services (except advertising agency services, public relations agency services, media buying agency services, media representative services, display advertising services, direct mail advertising services, advertising material distribution services, and marketing consulting services). The SBA small business size standard for this industry classifies a business as small that has annual receipts of $16.5 million or less. U.S. Census Bureau data for 2017 show that 5,650 firms operated in this industry for the entire year. Of that number, 3,693 firms operated with revenue of less than $10 million. Based on this data, we conclude that a majority of non-carrier RespOrgs who provide TFN-related management consulting services are small.

91. The Other Management Consulting Services industry contains establishments primarily engaged in providing management consulting services (except administrative and general management consulting; human resources consulting; marketing consulting; or process, physical distribution, and logistics consulting). Establishments providing telecommunications or utilities management consulting services are included in this industry. The SBA small business size standard for this industry classifies a business as small if it has annual receipts of $16.5 million or less. U.S. Census Bureau data for 2017 show that 4,696 firms operated in this industry for the entire year. Of that number, 3,700 firms had revenue of less than $10 million. Based on this data, we conclude that a majority of non-carrier RespOrgs who provide TFN-related management consulting services are small.

D. Description of Economic Impact and Projected Reporting, Recordkeeping and Other Compliance Requirements for Small Entities

92. The RFA directs agencies to describe the economic impact proposed rules on small entities, as well as projected reporting, recordkeeping and other compliance requirements, including an estimate of the classes of small entities which will be subject to the requirement and the type of professional skills necessary for preparation of the report or record.

93. The NPRM does not propose any changes to the Commission's current information collection, reporting, recordkeeping, or compliance requirements for collecting regulatory fees from small entities. Small and other regulated entities are required to pay regulatory fees on an annual basis. The cost of compliance with the annual regulatory assessment for small entities is the amount assessed for their regulatory fee category, which may increase or decrease based upon the methodology employed by the Commission in FY 2025 to determine the allocation of direct FTEs within the core bureaus, and indirect FTEs in non-core bureaus and offices. Costs for regulatory fees may also be adjusted based on any additions or other changes to regulatory fee categories. For example, if proposals made in the FY 2025 Space and Earth Station Regulatory Fees FNPRM are adopted, such as the assessment of regulatory fees on authorized and operational space stations, it may increase the number of space station payors, which in turn could decrease the calculated per-unit regulatory fee for GSO and NGSO space station payors. Such a change would require fees on small regulatees that may not have been assessed regulatory fees under the existing methodology and may require small entities that have not previously paid regulatory fees to hire professionals to comply. Small entities that have previously paid regulatory fees may not need to hire professionals to comply because most should already be familiar with the Commission's current collection process and, as a result, are accustomed to paying the annual fees. For small licensees experiencing financial hardship, access to fee relief, via options such as waiver, reduction, deferral and/or installment payment of their regulatory fees may be available, and small entities may be exempt from paying a regulatory fee if the assessed fee is below the de minimis threshold that the Commission has established.

E. Discussion of Significant Alternatives Considered That Minimize the Significant Economic Impact on Small Entities

94. The RFA directs agencies to provide a description of any significant alternatives to the proposed rules that would accomplish the stated objectives of applicable statutes, and minimize any significant economic impact on small entities. The discussion is required to include alternatives such as: “(1) the establishment of differing compliance or reporting requirements or timetables that take into account the resources available to small entities; (2) the clarification, consolidation, or simplification of compliance and reporting requirements under the rule for such small entities; (3) the use of performance rather than design standards; and (4) an exemption from coverage of the rule, or any part thereof, for such small entities.”

95. Assessment of Regulatory Fees. The Commission's long-standing methodology for assessing regulatory fees reflects the full-time equivalent number of employees within the Commission's bureaus and offices, adjusted to take into account factors that are reasonably related to the benefits provided to the payor of the fee by the Commission's activities. In making such adjustments to establish our regulatory fee schedule for FY 2025, following a high-level staff analysis of the time utilized in the oversight and regulation of certain segments of the telecommunications industry, we propose reallocating certain indirect FTEs as direct to one of the Commission's core licensing bureaus. Our proposals reflect our conclusion that we can determine, with reasonable accuracy for this fiscal year, that certain FTE time from the Office of General Counsel, the Office of Economics and Analytics, and the Public Safety and Homeland Security Bureau is devoted to work that is sufficiently linked to the oversight and regulation of regulatory fee payors in a core bureau such that the FTE burden of that work should be allocated as direct to a licensing bureau for regulatory fee purposes.

96. For FY 2025, we propose that 63 indirect FTEs could be reallocated as direct FTEs to a relevant core bureau for purposes of calculating regulatory fees for FY 2025, which could reduce regulatory fee obligations for some small and other regulatory payees. Additionally, consistent with the Commission's determination for the past two fiscal years, we propose to reallocate two direct FTEs from the Media Bureau to be indirect FTEs because the nature of their work is sufficiently linked to work that is similar to that performed in the Enforcement Bureau, which has previously been categorized as indirect. These reallocations result in an overall proposed increase of 61 indirect FTEs being reallocated as direct FTEs to core bureaus. We find that these proposed reallocations are consistent with section 9 of the Communications Act, which requires us to determine regulatory fees based on FTEs.

97. Additionally, on February 25, 2025, the Commission released the FY 2025 Space and Earth Station Regulatory Fees FNPRM seeking additional comment on proposed changes to the regulatory fee methodology used for assessing space and earth station regulatory fees. In the current NPRM, we propose regulatory fee rates based on the existing methodology, as well as the proposals set forth in the FY 2025 Space and Earth Station Regulatory Fees FNPRM. However, the proposed space and earth station regulatory fee rates are estimates because the final space and earth station regulatory fee rates are dependent upon the outcome of the Space and Earth Station Regulatory Fees proceeding. Accordingly, the NPRM does not seek additional comment on proposed alternatives specific to those in the FY 2025 Space and Earth Station Regulatory Fees FNPRM. Alternatively, the Commission seeks comment on the proposed adjusted schedule of regulatory fees for space and earth station payors located in Table 7 of the NPRM. If any of the proposals are adopted as part of the subsequent Space and Earth Station Regulatory Fees Report and Order, it may increase or reduce the regulatory fee burden on some satellite entities.

98. Broadcast Regulatory Fees. The NPRM proposes whether the Commission should continue to assess fees for full-power broadcast television stations based on the population covered by a full-service broadcast television station's contour which may reduce the economic impact of the regulatory fees for some small licensees. While the population-based methodology increases fees for some licensees and reduces fees for others, the Commission believes the population-based metric better conforms with the service of broadcasting television to the American people.

99. Broadcast Regulatory Fees. In the NPRM, we propose to continue to assess fees for full-power broadcast television stations based on the population covered by a full-service broadcast television station's contour which may reduce the economic impact of the regulatory fees for some small licensees. While the population-based methodology increases fees for some licensees and reduces fees for others, we believe the population-based metric better conforms with the service of broadcasting television to the American people. In addition, small licensees experiencing financial hardship will continue to have access to fee relief, such as waiver, reduction, deferral and/or installment payment of their regulatory fees and may be exempt from paying a regulatory fee if the assessed fee is below the de minimis threshold that the Commission has established.

100. Temporary Relief Measures Due to Economic Effects of COVID-19 Pandemic. During the COVID-19 pandemic and through FY 2023, the Commission provided certain temporary relief to regulatory fee payors experiencing financial hardship caused or exacerbated by the COVID-19 pandemic through a combination of partial rule waivers and direction to the Office of the Managing Director in exercising its delegated authority. In the NPRM, we do not plan to implement these temporary measures for FY 2024. The circumstances for which the measures were temporarily implemented have changed. The National Emergency COVID-19 pandemic has ended and the national economy is rebounding. We recognize that some regulatory fee payors may be experiencing lingering or continuing financial difficulties related to the pandemic's economic effects, but we believe that sections 1.1166 and 1.1914 of our rules, now streamlined and simplified, offer those fee payors a straightforward path to regulatory fee relief.

F. Federal Rules That May Duplicate, Overlap, or Conflict With the Proposed Rules

101. None.

VII. Ordering Clauses

102. Accordingly, it is ordered that, pursuant to sections 47 U.S.C. 4(i), 4(j), 9, 9A, and 303(r) of the Communications Act of 1934, as amended, 47 U.S.C. 154(i), 154(j), 159, 159A, and 303(r), this Notice of Proposed Rulemaking is hereby adopted.

103. It is further ordered that the Commission's Office of the Secretary shall send a copy of this Notice of Proposed Rulemaking, including the Initial Regulatory Flexibility Analysis, to the Chief Counsel for Advocacy of the Small Business Administration.

Federal Communications Commission.
Katura Jackson,
Federal Register Liaison Officer.

[FR Doc. 2025-11073 Filed 6-13-25; 8:45 am]

BILLING CODE 6712-01-P